DEPARTMENT OF HEALTH AND HUMAN SERVICES

Health Resources and Services Administration

Availability of Funds Announced in the HRSA Preview

AGENCY: Health Resources and Services Administration, DHHS.

ACTION: General notice

SUMMARY: HRSA announces the availability of funds in the HRSA Preview for Summer 2000. This edition of the HRSA Preview is a comprehensive review of HRSA's Fiscal Year 2001 competitive grant programs.

The purpose of the HRSA Preview is to provide the general public with a single source of program and application information related to the Agency's competitive grant offerings. The HRSA Preview is designed to replace the multiple Federal Register notices which traditionally advertised the availability of HRSA's discretionary funds for its various programs. In this edition of the HRSA Preview, HRSA's programs which provide funding for outpatient Hansen's Disease medical services and special projects for schools of public health have been included in the section “Other HRSA Programs.” It should be noted that additional program initiatives responsive to new or emerging issues in the health care area and unanticipated at the time of publication of the HRSA Preview may be announced through the Federal Register from time to time. Requirements appearing elsewhere in the Federal Register are not changed by this notice.

This notice contains nearly all of the content of the HRSA Preview. The HRSA Preview contains a description of competitive and other grant programs scheduled for awards in Fiscal Year 2001, and includes instructions on how to contact the Agency for information and receive application kits for all programs. Specifically, the following information is included in the HRSA Preview: (1) program title; (2) legislative authority; (3) purpose; (4) eligibility; (5) funding priorities and/or preferences; (6) estimated dollar amount of competition; (7) estimated number of awards; (8) estimated project period; (9) Catalog of Federal Domestic Assistance (CFDA) identification number; (10) application availability date; (11) letter of intent deadline (if any); (12) application deadline; (13) projected award date; and (14) programmatic contact, with telephone and e-mail addresses. Certain other information, including how to obtain and use the HRSA Preview and grant terminology can also be found in the HRSA Preview.

This issue of the HRSA Preview describes funding for the following HRSA discretionary authorities and programs (receipt deadlines are in parentheses):

Health Professions Programs

Model State-Supported Area Health Education Centers (12/18/00)

Basic/Core Area Health Education Centers (12/18/00)

Preventive Medicine Residency Programs (09/18/00)

Centers of Excellence (12/01/00)

Podiatric Residency Training in Primary Care (10/27/00)

Allied Health Projects (01/16/01)

Advanced Education Nursing Grants (01/29/01)

Partnerships for Developing Public Health Nursing Leadership (11/17/01)

Residencies in the Practice of Pediatric Dentistry and Residencies and Advanced Education in the Practice of General Dentistry (09/08/00)

Public Health Training Centers Grant Program (12/11/00)

Advanced Education Nursing Traineeship Grants (11/01/00)

Basic Nurse Education and Practice Grants (02/22/01)

Advanced Education Nursing—Nurse Anesthetist Traineeship Grant Program (11/01/00)

Geriatric Nursing Knowledge and Experiences in Long Term Care Facilities for Baccalaureate Nursing Students (09/08/00)

Health Careers Opportunity Program (01/10/01)

Residency Training in Primary Care (Family Medicine, General Internal Medicine/General Pediatrics) (10/02/00)

Physician Assistant Training in Primary Care (01/12/01)

Academic Administrative Units in Primary Care (Family Medicine, General Internal Medicine/General Pediatrics) (12/08/00)

Faculty Development Training in Primary Care (Family Medicine, General Internal Medicine/General Pediatrics) (10/06/00)

Predoctoral Training in Primary Care (Family Medicine, General Internal Medicine/General Pediatrics) (11/03/00)

Faculty Loan Repayment Program (05/31/01)

Scholarships for Disadvantaged Students (12/15/00)

Geriatric Education Centers (01/04/01)

Primary Health Care Programs

National Primary Care Technical Assistance Grants and Cooperative Agreements (03/01/01 and 05/01/01)

National Health Service Corps Student/Resident Experiences and Rotations in Community Health (SEARCH) (05/01/01)

Health Care for the Homeless (deadline varies)

Grants to States for Loan Repayment Programs (05/15/01)

New Delivery Sites and New Starts in Programs Funded Under the Health Centers Consolidation Act (11/30/00; 2/28/01; and 5/15/01)

Community and Migrant Health Centers (deadline varies)

Nursing Education Loan Repayment Program (06/30/01)

HIV/AIDS Programs

Ryan White IV: Existing Geographic Areas (04/02/01)

Ryan White IV: New Geographic Areas (04/02/01)

Ryan White IV for Adolescent Services (04/02/01)

Funding for Early Intervention Services Grants: Existing Geographic Areas (10/02/00)

Funding for Early Intervention Services Grants: New Geographic Areas (07/16/01)

Funding for Early Intervention Services Planning Grants (06/01/00)

Maternal and Child Health Programs

Genetic Services, Improving Health of Children:

Implementation of the State Grants for the Integration of Programs and their Information Systems (02/28/01)

Genetic Services, Developing Models for the Use of New and Evolving Technology within Newborn Screening Programs (02/28/01)

Genetic Services, State Development Grants for Newborn Screening Efforts and Infrastructure Development (02/28/01)

Nationwide Blood Lead and Erythrocyte Protoporphyrin (EP) Proficiency Testing Program (09/15/00)

Integrated Health and Behavioral Health Care for Children, Adolescents, and their Families (01/31/01)

Innovative Models to Analyze and Address Racial, Ethnic, and Geographic Disparities in Maternal and Child Health Outcomes (02/05/01)

Integrated Comprehensive Women's Health Services in State MCH Programs (03/23/01)

Assuring Adequate Health Insurance for Children with Special Health Care Needs (02/02/01)

Healthy and Ready to Work (HRTW) Services for Children and Youth with Special Health Needs (CYSHN) (02/23/01)

Integrated Services (01/22/01)

Medical Home Development Grants (10/16/00)

Partnership for Information and Communication (PIC) (01/02/01)

MCH Cooperative Agreements (01/02/01)

Breastfeeding Promotion in Pediatrician's Office Practices (05/01/01)

Partners in Program Planning for Adolescent Health (04/20/01)

Maternal and Child Health Research Program (08/01/00 and 03/01/00)

Health Care Information and Education for Families of Children with Special Health Care Needs (12/01/00)

Graduate Medical Education in Obstetrics/Gynecology, Pediatrics and Family Practice in Historically/Predominately Black Medical Schools (02/01/01)

Public Health Training in Maternal and Child Health (12/15/00)

Long Term Training in Leadership Education in Neurodevelopmental and Related Disabilities (LEND) (10/12/00)

Continuing Education and Development (01/12/01)

Public Policy Analysis and Education Center for Infant and Early Childhood Health (03/26/01)

Public Policy Analysis and Education Center for Middle Childhood and Adolescent Health (03/26/01)

Continuing Education and Development Cooperative Agreement to Advance Education and Public Policy Development in Maternal and Child Health (02/01/01)

Continuing Education/Distance Learning (01/12/01)

Healthy Tomorrows Partnership for Children (10/02/00)

Healthy Tomorrows Partnership Cooperative Agreement (06/01/01)

State Systems Development Initiative (SSDI), MCH Services Federal Set-Aside Program (07/13/01)

EMSC Implementation (11/01/00)

EMSC Partnerships (11/01/00)

EMSC Targeted Issue (11/01/00)

Pediatric Injury Surveillance System (04/02/01)

Clinical practice Guidelines for Emergency Care of Children (06/01/01)

A Color-coded System for Equipment and Medication for Pediatric Resuscitation (03/01/01)

Traumatic Brain Injury (TBI), State Implementation Grants (12/01/01)

Traumatic Brain Injury (TBI), State Planning Grants (12/01/01)

State Mortality Review Support Program (01/29/01)

Perinatal Systems and Women's Health National Resource Center (02/23/01)

Healthy Start Initiative—Eliminating Disparities in Perinatal Health (02/06/01)

Interconception Care for High Risk Women and their Infants (02/16/01)

Improving Women's Health through Screening and Intervention for Depression during or around the Time of Pregnancy (12/21/00)

Healthy Start Initiative—State Infrastructure Initiatives (12/08/00)

Eliminating Disparities in Perinatal Health—Border Health (02/06/01)

Office of the Administrator

Community Access Program (06/01/00)

National Conference of State Legislatures (NCSL) (TBA)

Association of State and Territorial Health Officials (ASTHO) (TBA)

Public Health Foundation (PHF) (TBA)

National Association of County and City Health Officials (NACCHO) (05/30/00)

Pacific Islands Health Officers Association (06/01/00)

Rural Health Programs

Rural Health Roundtable, George Mason University (07/31/00)

State Rural Hospital Flexibility Program (05/25/01)

Rural Health Outreach Grant (10/16/00)

Rural Health Network Development (10/23/00)

Special Programs

Extramural Support Program for Projects to Increase Organ and Tissue Donations (05/01/01)

Other HRSA Programs

Outpatient Hansen's Disease Medical Services (09/01/00)

Special Projects for Schools of Public Health (TBA)

Lawton Chiles Foundation (N/A)

Individuals may obtain the HRSA Preview by calling the toll free number at 1-877-477-2123 (1-877-HRSA123). The HRSA Preview may also be accessed on HRSA's World Wide Web Home Page at http://www.hrsa.gov/grantsf.htm.

Dated: June 28, 2000.
Claude Earl Fox,
Administrator.

How To Use and Obtain Copies of the HRSA Preview

It is recommended that you read the introductory materials, terminology section, and individual program category descriptions before contacting the toll-free number 1-877-477-2123 (1-877-HRSA-123). Likewise, we urge applicants to fully assess their eligibility for grants before requesting kits. As a general rule, no more than one kit per category will be mailed to applicants.

To Obtain a Copy of HRSA Preview

To have your name and address added to or deleted from the HRSA Preview mailing list, call the toll free number above or send a message by e-mail to hrsagac@hrsa.gov.

To Obtain an Application Kit

Applications kits differ depending on the grant program. Determine which kit(s) you wish to receive and call 1-877-477-2123 to be placed on the mailing list. Be sure to provide the information specialist with both the CFDA number and the title of the grant program. You may also request application kits using the e-mail address above. Application kits are generally available 60 days prior to application deadline. If kits are available earlier, they will be mailed immediately. The guidance contained in the various kits contains detailed instructions, background on the grant program, and other essential information, such as the applicability of Executive Order 12372 and 45 CFR Part 100, and additional inforamtion pertinent to the intergovernmental review process, as appropriate.

World Wide Web Access

The HRSA Preview is available on the HRSA Homepage via the World Wide Web at: www.hrsa.gov/grantsf.htm. You can download this issue in Adobe Acrobat format.

Application materials are also available for downloading for some HRSA programs. HRSA's goal is to post application forms and materials for all programs in future cycles.

You can register on-line to be sent grant application materials by following the instructions on the web page. Your mailing information will be added to our database and materials will be sent to you as they become available.

Grant Terminology

Application Deadlines

Applications will be considered on time if they are received on or before the established deadline, or postmarked on or before the deadline given in the program announcement or in the application kit materials. Applications sent to any address other than that specified in the application guidance are subject to being returned.

Authorization

The citation of the law authorizing the various grant programs is provided immediately following the title of the programs.

CFDA Number

The Catalog of Federal Domestic Assistance (CFDA) is a Government-wide compendium of Federal programs, projects, services, and activities which provide assistance. Programs listed therein are given a CFDA Number. Be sure to use both the CFDA number and the title of the grant program when requesting an application kit. Note that CFDA numbers with alpha suffixes have different titles than the same CFDA numbers without suffixes.

Cooperative Agreement

A financial assistance mechanism (grant) used when substantial Federal programmatic involvement with the recipient is anticipated by the funding agency during performance of the project. The nature of that involvement will always be specified in the offering or application guidance materials.

Eligibility

The status an entity must possess to be considered for a grant. Authorizing legislation and programmatic regulations specify eligibility for individual grant programs, and eligibility may be further restricted for programmatic reasons. In general, assistance is provided to nonprofit organizations and institutions, State and local governments and their agencies, and occasionally to individuals. For-profit organizations are eligible to receive awards under financial assistance programs unless specifically excluded by legislation.

Estimated Amount of Competition

The funding level listed is provided only as an estimate, and is subject to the availability of funds, Congressional action, and changing program priorities.

Funding Priorities and/or Preferences

Funding preferences, priorities, and special considerations may come from legislation, regulations, or HRSA program leadership decisions. They are not the same as review criteria. Funding preferences are any objective factors that would be used to place a grant application ahead of others without the preference on a list of applicants recommended for funding by a review committee. Some programs give preference to organizations which have specific capabilities such as telemedicine networking, or have established relationships with managed care organizations. Funding priorities are factors that cause a grant application to receive a fixed amount of extra rating points—which may similarly affect the order of applicants on a funding list. Special considerations are other factors considered in making funding decisions that are neither review criteria, preferences, or priorities, e.g., ensuring that there is an equitable geographic distribution of grant recipients, or meeting requirements for urban and rural proportions.

Key Offices

The Grants Management Office serves as the focal point for questions concerning business matters. In the HRSA Preview, a “key” symbol indicates the appropriate grants management office for each program area and the main telephone number for the office.

Letter of Intent

To help in planning the application review process, many HRSA programs request a letter of intent from the applicant in advance of the application deadline. Letters of intent are neither binding nor mandatory. Details on where to send letters can be found in the guidance materials contained in the application kit.

Matching Requirements

Several HRSA programs require a matching amount, or percentage of the total project support, to come from sources other than Federal funds. Matching requirements are generally mandated in the authorizing legislation for specific categories. Also, matching or other cost-sharing requirements may be administratively required by the awarding office. Such requirements are set forth in the application kit.

Project Period

The total time for which support of a discretionary project has been programmatically approved. The project period usually consists of a series of budget periods of one-year duration. Once approved through initial review, continuation of each successive budget period is subject to satisfactory performance, availability of funds, and program priorities.

Review Criteria

The following are generic review criteria applicable to HRSA programs:

• That the estimated costs to the Government of the project are reasonable considering the level and complexity of activity and the anticipated results.

• That project personnel or prospective fellows are well qualified by training and/or experience for the support sought, and the applicant organization or the organization to provide training to a fellow have adequate facilities and manpower.

• That, insofar as practical, the proposed activities (scientific or other), if well executed, are capable of attaining project objectives.

• That the project objectives are capable of achieving the specific program objectives defined in the program announcement and the proposed results are measurable.

• That the method for evaluating proposed results includes criteria for determining the extent to which the program has achieved its stated objectives and the extent to which the accomplishment of objectives can be attributed to the program.

• That, in so far as practical, the proposed activities, when accomplished, are replicable, national in scope and include plans for broad dissemination.

The specific review criteria used to review and rank applications are included in the individual guidance material provided with the application kits. Applicants should pay strict attention to addressing these criteria, as they are the basis upon which their applications will be judged by the reviewers.

Technical Assistance

A contact person is listed for each program and his/her e-mail address and telephone number provided. Some programs have scheduled workshops and conference calls as indicated by the “magnifying glass” in the HRSA Preview. If you have questions concerning individual programs or the availability of technical assistance, please contact the person listed. Also check your application materials and the HRSA web site at http://www.hrsa.dhhs.gov/ for the latest technical assistance information.

Frequently Asked Questions

1. Where do I submit grant applications?

The address for submitting your grant application will be shown in the guidance document included in the application kit.

2. How do I learn more about a particular grant program?

If you want to know more about a program before you request an application kit, an e-mail/telephone contact is listed. This contact person can provide information concerning the specific program's purpose, scope and goals, and eligibility criteria. Usually, you will be encouraged to request the application kit so that you will have clear, comprehensive, and accurate information available to you. When requesting application materials, you must state the CFDA Number and title of the program. The application kit lists telephone numbers for a program expert and a grants management specialist who will provide information about your program of interest if you are unable to find the information within the written materials provided.

In general, the program contact person provides information about the specific grant offering and its purpose, and the grants management specialist provides information about the grant mechanism and business matters, though there is often overlap of their responsibilities.

Information specialists at the toll-free number provide only basic information and administer mailings.

3. The dates listed in the HRSA Preview and the dates in the application kit do not agree. How do I know which is correct?

HRSA Preview dates for application kit availability and application receipt deadlines are based upon the best known information at the time of publication, often nine months in advance of the competitive cycle. Occasionally, the grant cycle does not begin as projected and dates must be adjusted. The deadline date stated in your application kit is generally correct. If the application kit has been made available and subsequently the date changes, notification of the change will be mailed to known recipients of the application kit, and also posted on the HRSA home page.

4. Are programs announced in the HRSA Preview ever canceled?

Infrequently, announced programs may be withdrawn from competition. If this occurs, a cancellation notice will be provided through the HRSA Preview at the HRSA Homepage at http://www.hrsa.dhhs.gov/. If practicable, an attempt will be made to notify by mail those who have requested a kit for the canceled program.

If you have unanswered questions, please contact John Gallicchio of the Grants Policy Branch at 301-443-6507 (jgallicchio@hrsa.gov).

Bureau of Health Professions

Kids Into Health Careers Initiative

The Bureau of Health Professions announces a new initiative to increase diversity and cultural competency of the health professions workforce. The Kids Into Health Careers initiative is designed to expand the pool of qualified and interested applicants from minority and disadvantaged populations. The Bureau will give Special Consideration to qualified applicants to appropriate grant programs who participate in the Kids Into Health Careers initiative by working with primary and secondary schools that have a high percentage of minority and disadvantaged students. To receive this Special Consideration, applicants must establish linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits.

Further information on the Kids Into Health Careers Initiative can be obtained on the Bureau of Health Professions website at http://www.hrsa.gov/bhpr/.

The programs with this Special Consideration include: Model State-supported Area Health Education Centers, Preventive Medicine Residency Programs, Centers of Excellence, Podiatric Residency Training in Primary Care, Allied Health Projects, Residencies in the Practice of Pediatric Dentistry * * * Public Health Training Grant Program, Health Careers Opportunity Program, Faculty Development Training in Primary Care, Residency Training in Primary Care, Predoctoral Training in Primary Care, Physician Assistant Training in Primary Care, Basic/Core Area Health Education Centers, Geriatric Education Centers, Advanced Education Nursing Grants, Basic Nurse Education and Practice Grants, Academic Administrative Units in Primary Care, and Partnerships for Developing Public Health Nursing Leadership.

All recipients of Bureau of Health Professions grants will receive a packet of information and guidance materials that can be used in working with local school systems.

Model State-Supported Area Health Education Centers 93.107

Legislative Authority: Public Health Service Act, Title VII, section 751, 42 U.S.C. 294a.

Purpose: The program assists schools to improve the distribution, supply, and quality of health personnel in the health services delivery system by encouraging the regionalization of health professions schools. Emphasis is placed on community-based training of primary care oriented students, residents, and providers. The Area Health Education Centers (AHEC) program assists schools in the development and operation of AHECs to implement educational system incentives to attract and retain health care personnel in scarcity areas. By linking the academic resources of the university health science center with local planning, educational and clinical resources, the AHEC program establishes a network of health-related institutions to provide educational services to students, faculty and practitioners and ultimately to improve the delivery of health care in the service area. These programs are collaborative partnerships which address current health workforce needs within a region of a State or in an entire State.

Eligibility: The types of entities eligible to apply for this program include public or private nonprofit accredited schools of medicine and osteopathic medicine and incorporated consortia made up of such schools, or the parent institutions of such schools. Applicants must also have previously received funds, but are no longer receiving funds under Section 751(a)(1) of the Public Health Service Act, and are operating an AHEC program.

Funding Priorities or Preferences: As provided in Section 791(a) of the Public Health Service Act, preference will be given to any qualified applicant that: (A) has a high rate for placing graduates in practice settings having the principal focus of serving residents of medically underserved communities or (B) during the two-year period preceding the fiscal year for which an award is sought, has achieved a significant increase in the rate of placing graduates in such settings. This statutory general preference will only be applied to applications that rank above the 20th percentile of applications recommended for approval by the peer review group.

Funds shall be awarded to approved applicants in the following order: (1) competing continuations, (2) new starts in States with no AHEC program, (3) other new starts, and (4) competing supplementals.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Matching Requirements: Awardees shall make available (directly or through contributions from State, county or municipal governments, or the private sector) recurring non-Federal contributions in cash in an amount not less than 50 percent of the operating costs of the Model State-Supported AHEC Program.

Estimated Amount of This Competition: $5,500,000.

Estimated Number of Awards to be Made: 13.

Estimated or Average Size of Each Award: See the application guidance materials.

Estimated Project Period: 3 years.

CFDA Number: 93.107.

Application Availability Date: 10/02/00.

Letter of Intent Deadline: None.

Application Deadline: 12/18/00.

Projected Award Date: 05/01/01.

Program Contact Person: Louis D. Coccodrilli, MPH.

Phone Number: 301/443-6950.

e-mail address: lcoccodrilli@hrsa.gov

Basic/Core Area Health Education Centers 93.824

Legislative Authority: Public Health Service Act, Title VII, section 751, 42 U.S.C. 294a

Purpose: Cooperative Agreements are awarded to assist schools to improve the distribution, supply and quality of health personnel in the health services delivery system by encouraging the regionalization of health professions schools. Emphasis is placed on community-based training of primary care oriented students, residents, and providers. The Area Health Education Centers (AHEC) program assists schools in the planning, development and operation of AHECs to initiate education system incentives to attract and retain health care personnel in scarcity areas. By linking the academic resources of the university health sciences center with local planning, educational and clinical resources, the AHEC program establishes a network of community-based training sites to provide educational services to students, faculty and practitioners in underserved areas and ultimately, to improve the delivery of health care in the service area. The program embraces the goal of increasing the number of health professions graduates who ultimately will practice in underserved areas.

Eligibility: The types of entities eligible to apply for this program include public or private nonprofit accredited schools of medicine and osteopathic medicine and incorporated consortia made up of such schools, or the parent institutions of such schools. Also, in States in which no AHEC program is in operation, an accredited school of nursing is an eligible applicant.

Funding Priorities or Preferences: As provided in section 791(a) of the Public Health Service Act, preference will be given to any qualified applicant that: (A) has a high rate for placing graduates in practice settings having the principal focus of serving residents of medically underserved communities or (B) during the two-year period preceding the fiscal year for which an award is sought, has achieved a significant increase in the rate of placing graduates in such settings. This statutory general preference will only be applied to applications that rank above the 20th percentile of applications recommended for approval by the peer review group.

Funds shall be awarded to approved applications in the following order: (1) competing continuations; (2) new starts in States with no AHEC program; (3) other new starts; and (4) competing supplementals.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Matching Requirements: Awardees shall make available (directly or through contributions from State, county or municipal governments, or the private sector) non-Federal contributions in cash in an amount not less than 50 percent of the operating costs of the AHEC Program except that the Secretary may grant a waiver for up to 75 percent of the amount required in the first three years in which an awardee receives funds under Section 751(a)(1) of the Public Health Service Act.

Estimated Amount of This Competition: $4,000,000.

Estimated Number of Awards to be Made: 5.

Estimated or Average Size of Each Award: See the application guidance materials.

Estimated Project Period: 3 years.

CFDA Number: 93.824.

Application Availability Date: October 2, 2000.

Letter of Intent Deadline: None.

Application Deadline: December 18, 2000.

Projected Award Date: May 1, 2001.

Program Contact Person: Louis D. Coccodrilli, MPH.

Phone Number: 301 443-6950

E-Mail: lcoccodrilli@hrsa.gov

Preventive Medicine Residency Programs 93.117

Legislative Authority: Public Health Service Act, Title VII, section 768, 42 U.S.C. 295c

Purpose: The Secretary may make grants to and enter into contracts with accredited schools of medicine, osteopathic medicine, and public health to meet the cost to: (1) plan and develop new residency training programs and to maintain or improve existing residency programs in preventive medicine, and (2) to provide financial assistance to residency trainees enrolled in such program.

Eligibility: Eligible applicants are schools of medicine, osteopathic medicine and public health. An applicant must demonstrate to the Secretary that it has or will have available full-time faculty members with training and experience in the fields of preventive medicine and support from other faculty members trained in public health and other relevant specialties and disciplines.

Funding Priorities or Preferences: Under section 765 of the Public Health Service Act, a preference will be applied for applicants: (1) serving individuals who are from disadvantaged backgrounds (including underrepresented racial and ethnic minorities) and (2) graduating large proportions of individuals who serve in underserved communities. For established programs (who have graduated three or more classes), supporting information will be requested to determine qualification for the Preference.

For new programs (those having graduated three or fewer classes), applicant proposals will be evaluated by the criteria in the Public Health Service Act used to define a “new program” and must meet at least four of the following criteria to qualify for the funding preference:

(A) The mission statement of the program identifies a specific purpose of the program as being the preparation of health professionals to serve underserved populations.

(B) The curriculum of the program includes content which will help to prepare practitioners to serve underserved populations.

(C) Substantial clinical training experience is required under the program in medically underserved communities.

(D) A minimum of 20 percent of the clinical faculty of the program spend at least 50 percent of their time providing or supervising care in medically underserved communities.

(E) The entire program or a substantial portion of the program is physically located in a medically underserved community.

(F) Student assistance that is linked to service in medically underserved communities following graduation is available to the students in the program.

(G) The program provides a placement mechanism for deploying graduates to medically underserved communities.

A priority will be applied for any applicant who: (1) requests funding for a “new program”, as defined under Section 791[295j] of the Public Health Service Act as a program that has graduated less than three classes; or (2) meets the matching option of providing non-Federal matching funds obtained from public or private entities as set forth under Section 798 [295o] of the Public Health Service Act.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: 1.8 million dollars.

Estimated Number of Awards to be Made: Approximately 10-15 awards.

Estimated or Average Size of Each Award: See the application guidance materials.

Estimated Project Period: 3 years.

CFDA Number: 93.117.

Application Availability Date: July 1, 2000.

Letter of Intent Deadline: N/A.

Application Deadline: September 18, 2000.

Projected Award Date: April 15, 2001.

Program Contact Person: Lee Norman Muecke, MD, MPH.

Phone Number: 301-443-0582.

E-mail: LMUECKE@HRSA.GOV

Centers of Excellence 93.157

Legislative Authority: Section 736 of The Public Health Service Act, 42 U.S.C. 293

Purpose: The goal of this program is to assist eligible schools in supporting programs of excellence in health professions education for under-represented minority individuals. The grantee is required to use the funds awarded: (1) To develop a large competitive applicant pool through linkages with institutions of higher education, local school districts, and other community-based entities and establish an education pipeline for health professions careers; (2) to establish, strengthen, or expand programs to enhance the academic performance of under-represented minority students attending the school; (3) to improve the capacity of such school to train, recruit, and retain under-represented minority faculty including the payment of stipends and fellowships; (4) to carry out activities to improve the information resources, clinical education, curricula and cultural competence of the graduates of the schools as it relates to minority health issues; (5) to facilitate faculty and student research on health issues particularly affecting under-represented minority groups, including research on issues relating to the delivery of health care; (6) to carry out a program to train students of the school in providing health services to a significant number of under-represented minority individuals through training provided to such students at community-based health facilities that provide such health services and are located at a site remote from the main site of the teaching facilities of the school; and (7) to provide stipends as appropriate.

Eligibility: Eligible applicants are accredited schools of allopathic medicine, osteopathic medicine, dentistry, pharmacy, graduate programs in behavioral or mental health, or other public and private nonprofit health or educational entities. Historically Black Colleges and Universities as described in section 736(c)(2)(A) and which received a contract under section 788B of the Public Health Service Act (Advanced Financial Distress Assistance) for fiscal year 1987 may apply for Centers of Excellence (COE) grants under section 736 of the Act.

Funding Preferences: NA.

Special Consideration: Special Consideration will be given to qualified applicants who support the Kids Into Health Careers initiative by establishing linkages with one or more elementary, middle or high schools with a high percentage of minority and disadvantaged students to: (1) Inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $7 million.

Estimated Number of Awards to be Made: 12.

Estimated or Average Size of Each Award: See the application guidance materials.

Estimated Project Period: 3 years.

CFDA Number: 93.157.

Application Availability Date: 07/01/00.

Letter of Intent Deadline: NA.

Application Deadline: 12/01/00.

Project Award Date: 06/30/01.

Program Contact Person: Capt. Richard C. Valse, Jr.

Phone Number: 301-443-2100.

E-mail: Rvause@hrsa.gov

Podiatric Residency Training in Primary Care 93.181

Legislative Authority: Public Health Service Act, Title VII, Section 755, 42 U.S.C. 293k

Purpose: Grants are awarded to plan and implement projects in preventive and primary care training for podiatric physicians in approved or provisionally approved residency programs that shall provide financial assistance in the form of traineeships to residents who participate in such projects and who plan to specialize in primary care.

Eligibility: Schools of podiatric medicine or public or private nonprofit hospitals or other public or private nonprofit entities are eligible to apply.

Funding Priorities or Preferences: As provided in Section 791(a) of the Public Health Service Act, preference will be given to any qualified applicant that: (A) Has a high rate for placing graduates in practice settings having the principal focus of serving residents of medically underserved communities or (B) during the two-year period preceding the fiscal year for which such an award is sought, has achieved a significant increase in the rate of placing graduates in such settings. This statutory general preference will only be applied to applications that rank above the 20th percentile of applications recommended for approval by the peer review group.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $492,000.

Estimated Number of Awards to be Made: 4.

Estimated or Average Size of Each Award: See the application guidance materials.

Estimated Project Period: 3 years.

CFDA Number: 93.181.

Application Availability Date: July 1, 2000.

Application Deadline: October 27, 2000.

Projected Award Date: June 29, 2001.

Program Contact Person: Eleanor Crocker.

Phone Number: 301-443-1467.

E-mail: ecrocker@hrsa.gov

Allied Health Projects 93.191

Legislative Authority: Public Health Service Act, Title VII, section 755, 42 U.S.C. 294e.

Purpose: Grants are awarded to assist eligible entities in meeting the costs associated with expanding or establishing programs that will: (1) expand enrollments in allied health disciplines that are in short supply or whose services are most needed by the elderly; (2) provide rapid transition training programs in allied health fields to individuals who have baccalaureate degrees in health-related sciences; (3) establish community-based training programs that link academic centers to rural clinical settings; (4) provide career advancement training for practicing allied health professionals; (5) expand or establish clinical training sites for allied health professionals in medically underserved or rural communities in order to increase the number of individuals trained; (6) develop curriculum that will emphasize knowledge and practice in the areas of prevention and health promotion, geriatrics, long-term care, home health and hospice care, and ethics; (7) expand or establish interdisciplinary training programs that promote the effectiveness of allied health practitioners in geriatric assessment and the rehabilitation of the elderly; (8) expand or establish demonstration centers to emphasize innovative models to link allied health, clinical practice, education, and research; and (9) meet the costs of projects to plan, develop, and operate or maintain graduate programs in behavioral and mental health practice.

Eligibility: Eligible entities are health professions schools, academic health centers, State or local governments or other public or private nonprofit entities. Eligible academic institutions shall also be required to use funds in collaboration with two or more disciplines.

Funding Priorities or Preferences: As provided in section 791(a) of the Public Health Service Act, preference will be given to any qualified applicant that: (A) has a high rate for placing graduates in practice settings having the focus of serving residents of medically underserved communities or (B) during the two-year period preceding the fiscal year for which such an award is sought, has achieved a significant increase in the rate of placing graduates in such settings. This statutory general preference will only be applied to applications that rank above the 20th percentile of applications recommended for approval by the peer review group.

A preference will be given to those new programs that meet at least four of the criteria described in section 791(c)(3) of the Public Health Service Act concerning medically underserved communities and populations so that new applicants may also compete equitably. A funding priority will be given to qualified applicants who provide community-based training experiences designed to improve access to health care services in underserved areas. This will include being responsive to population groups addressed in the President's Executive Orders 12876, 12900, 13021, and 13125. These will include such applicants as Asian-American and Pacific Islander Serving Institutions, Hispanic Serving Institutions, Historically Black Colleges and Universities, Tribal Colleges and Universities serving American Indians and Alaska Natives.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $1,200,000.

Estimated Number of Awards to be Made: 10-12.

Estimated or Average Size of Each Award: See the application guidance materials.

Estimated Project Period: 3 Years.

CFDA Number: 93.191.

Application Availability Date: 07/31/00.

Letter of Intent Deadline: N/A.

Application Deadline: 01/16/01.

Projected Award Date: 09/30/01.

Program Contact Person(s): Captain Norman L. Clark; Lt. Commander Young Song.

Phone Number: (301) 443-1346 or (301) 443-3353

E-mail address: nclark@hrsa.gov or ysong@hrsa.gov.

Partnerships for Developing Public Health Nursing Leadership 93.247A

Legislative Authority: Public Health Service Act, Title VII and Title VIII, 42 U.S.C.; Sections 765 and 811.

Purpose: The purpose of this program is to improve State and local public health infrastructure by enhancing the production and distribution of a highly qualified, diverse public health nurse workforce. A school of nursing and a school of public health are expected to collaborate in developing a program for public health nurse leaders. These cooperative agreements are expected to enhance master's educational programs (such as MSN and MPH) that prepare nurses for leadership in public health nursing with an emphasis on interdisciplinary practice in State and local public health agencies.

Eligibility: Eligible applicants are public and nonprofit private accredited collegiate schools of nursing and accredited schools of public health. The applicant is required to document a partnership or plan for a partnership for cooperation between a school(s)/ college(s) of nursing and a school of public health to meet project objectives. If the applicant is a school of nursing the partnership is to be with a school of public health; and if the applicant is a school of public health the partnership is to be with one or more schools of nursing.

The school of nursing, school of public health, and joint program of study are to include core public health sciences and strategies for interdisciplinary academic and practice learning experiences. The project plan is to address strategies for strengthening the nursing component in appropriate departments in the school of public health and strengthen interdisciplinary and population focused content offered by the school of nursing or jointly with the school of public health. The graduate is expected to be awarded a master's degree (in nursing and/or public health such as MPH, MHS, MSN or dual degree options) upon successful completion of the program of study.

Priorities or Preferences: Section 805 of the Public Health Service Act states that the Secretary shall give preference to applicants with projects that will substantially benefit rural or underserved populations, or help meet public health nursing needs in State or local health departments.

The Secretary will grant a preference (as per Section 765 of the Public Health Service Act) to entities: (1) serving individuals who are from disadvantaged backgrounds (including underrepresented racial and ethnic minorities); and (2) graduating large proportions of individuals who serve in underserved communities.

Special Consideration: A Special Consideration will be given to qualified applicants who support the Kids Into Health Careers initiative by establishing linkages with one or more elementary, middle or high schools with a high percentage of minority and disadvantaged students to: (1) Inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $800,000 for FY 2001 depending on available funds.

Estimated Number of Awards to be Made: 4.

Estimated or Average Size of Each Award: $200,000 per year per grantee.

Estimated Project Period: Five (5) years, depending on approval of progress reports, availability of funds, and program priorities.

CFDA Number: 93.247A.

Application Availability Date: July 1, 2000.

Letter of Intent Deadline: Not required.

Application Deadline: November 17, 2000.

Projected Award Date: July 1, 2001.

Program Contact Persons: Irene Sandvold (301-443-6333) and Jennifer Burks (301-443-6853).

Application Availability: July 1, 2000.

Application Deadline: November 17, 2000.

Projected Award Date: July 1, 2001.

E-mail Address: jburks@hrsa.gov

Phone Numbers: 301-443-6333 and 301-443-6853.

Residencies in the Practice of Pediatric Dentistry 93.248 and Residencies and Advanced Education in the Practice of General Dentistry 93.897

Legislative Authority: Public Health Service Act, Title VII, section 747(a)(6), 42 U.S.C. 293k.

Purpose: These programs shall provide grants to assist schools in planning, developing, or operating programs, and to increase the number of training opportunities and to provide financial assistance to residents in post doctoral general and pediatric dentistry. These programs place particular emphasis on support of applications which encourage: (1) Practice in underserved areas; (2) provision of a broad range of pediatric and/or general practice dental services; (3) coordination and integration of care; (4) meeting the needs of special populations; and (5) recruitment and retention of under-represented minorities. Applicants are encouraged to detail manners in which the graduates of general dentistry residency will be well trained in meeting the treatment needs of the pediatric patient populations. For the upcoming grant cycle, all applications will be reviewed together as a single group during the peer review process.

Eligibility: To be eligible for a grant for residency training in the practice of pediatric or general dentistry, the applicant shall include entities that have programs in dental schools, approved residency programs in the pediatric or general practice of dentistry, approved advanced education programs in the pediatric or general practice of dentistry.

Funding Priorities and/or Preferences: As provided in Section 791(a) of the Public Health Service Act, preference will be given to any qualified applicant that: (A) Has a high rate for placing graduates in practice settings and has the principal focus of serving residents of medically/dentally underserved communities; or (B) during the two-year period preceding the fiscal year for which an award is sought, has achieved a significant increase in the rate of placing graduates in such settings. This statutory general preference will only be applied to applications that rank above the 20th percentile of applications recommended for approval by the peer review group.

Priority shall be given to qualified applicants that have a record of training the greatest percentage of providers, or that have demonstrated significant improvements in the percentage of providers which enter and remain in general or pediatric dentistry.

Priority shall be given to qualified applicants that have a record of training individuals who are from disadvantaged backgrounds (including racial and ethnic minorities under-represented in general or pediatric dentistry.)

An Administrative Priority shall be given to new programs that have enrollees and no graduates at the time of application, and newly initiated programs that have neither enrollees nor graduates at the time of application.

Special Consideration: Special Consideration will be given to projects that prepare practitioners to care for underserved populations and other high risk groups such as the elderly, individuals with HIV/AIDS, substance abusers, homeless, and victims of domestic violence.

A Special Consideration will be given to qualified applicants who support the Kids Into Health Careers initiative by establishing linkages with one or more elementary, middle or high schools with a high percentage of minority and disadvantaged students to: (1) Inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $1,500,000.

Estimated Number of Awards to be Made: 12.

Estimated or Average Size of Each Award: See the application guidance materials.

Estimated Project Period: 3 Years.

CFDA Numbers:

General Dentistry: 93.897.

Pediatric Dentistry: 93.248.

Application Availability Date: July 1, 2000.

Letter of Intent Deadline: N/A.

Application Deadline: September 8, 2000.

Projected Award Date: April 30, 2001.

Program Contact Person: Susan Goodman, DDS; Stan Bastacky, DMD, MHSA.

Phone Number: 301 443-6326.

E-mail: sgoodman@hrsa.gov and sbaskacky@hrsa.gov.

Public Health Training Centers Grant Program 93.249.

Legislative Authority: Public Health Service Act, Title VII, Section 766, 42 U.S.C. 295a.

Purpose: The goal of the Public Health Training Centers Grant Program is to improve the Nation's public health system by strengthening the technical, scientific, managerial and leadership competencies and capabilities of the current and future public health workforce. Emphasis is placed on developing the existing public health workforce as a foundation for improving the infrastructure of the public health system and helping achieve the Healthy People 2010 Objectives. With respect to a public health training center, applicants must agree to: (1) Specifically designate a geographic area, including medically underserved populations, e.g., elderly, immigrants/refugees, disadvantaged, to be served by the Center that shall be in a location removed from the main location of the teaching facility of the school participating in the program with such Center; (2) assess the public health personnel needs of the area to be served by the Center and assist in the planning and development of training programs to meet such needs; (3) establish or strengthen field placements for students in public or nonprofit private public health agencies or organizations; and (4) involve faculty members and students in collaborative projects to enhance public health services to medically underserved communities.

Eligibility: Eligible applicants include accredited schools of public health or other public or nonprofit private institutions accredited for the provision of graduate or specialized training in public health.

Funding Priorities And/or Preferences: In awarding grants or contracts under this authority, the Secretary shall give preference to accredited schools of public health.

Special Consideration: A Special Consideration will be given to qualified applicants who support the “Kids Into Health Careers” initiative by establishing linkages with one or more elementary, middle or high schools with a high percentage of minority and disadvantaged students to: (1) Inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $5,000,000.

Estimated Number of Awards: 10-12.

Estimated or Average Size of Each Award: See the application guidance materials.

Estimated Project Period: 5 Years.

Application Deadline: 12/11/00.

CFDA Number: 93.249.

E-mail: jkress@hrsa.gov and rmerrill@hrsa.gov

Health Careers Opportunity Program 93.822.

Legislative Authority: Section 739 of the Public Health Service Act, 42 U.S.C. 293c

Purpose: The goal of the Health Careers Opportunity Program (HCOP) is to assist individuals from disadvantaged backgrounds to undertake education to enter a health profession. The HCOP program works to build diversity in the health fields by providing students from disadvantaged backgrounds an opportunity to develop the skills needed to successfully compete, enter, and graduate from health professions schools. The legislative purposes for which HCOP funds may be awarded are: (1) identifying, recruiting, and selecting individuals from disadvantaged backgrounds for education and training in a health profession; (2) facilitating the entry of such individuals into such a school; (3) providing counseling, mentoring, or other services designed to assist such individuals to complete successfully their education at such a school; (4) providing, for a period prior to the entry of such individuals into the regular course of education of such a school, preliminary education and health research training designed to assist them to complete successfully such regular course of education at such a school, or referring such individuals to institutions providing such preliminary education; (5) publicizing existing sources of financial aid available to students in the education program of such a school or who are undertaking training necessary to qualify them to enroll in such a program; (6) paying scholarships, as the Secretary may determine, for such individuals for any period of health professions education at a health professions school; (7) paying such stipends for such individuals for any period of education in student-enhancement programs (other than regular courses), except that such a stipend may not be provided to an individual for more than 12 months; (8) carrying out programs under which such individuals gain experience regarding a career in a field of primary health care through working at facilities of public or private nonprofit community-based providers of primary health services; and (9) conducting activities to develop a larger and more competitive applicant pool through partnerships with institutions of higher education, school districts, and other community-based entities.

Eligibility: Eligible applicants include schools of medicine, osteopathic medicine, public health, dentistry, veterinary medicine, optometry, pharmacy, allied health, chiropractic, podiatric medicine, public or nonprofit private schools that offer graduate programs in behavioral and mental health, programs for the training of physician assistants, and other public or private nonprofit health or educational entities.

Funding Preferences or Priorities: A funding preference will be given to approved applications for programs that involve a comprehensive approach by several public or nonprofit private health or educational entities to establish, enhance and expand educational programs that will result in the development of a competitive applicant pool of individuals from disadvantaged backgrounds who desire to pursue health professions careers. A comprehensive approach means a network of entities which are formally linked programmatically. The network must include a minimum of four entities: a health professions school, an undergraduate institution, a school district, and a community-based entity.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Up to one third of available competitive funds will be reserved for applicants with approved proposals who have not received funding under this authority during the previous three years.

Estimated Amount of this Competition: $9,000,000.00.

Estimated Number of Awards to be Made: 23.

Estimated or Average Size of Each Award: See the application guidance materials.

Estimated Project Period: 3 years and up to five years for approved applications that rank in the upper twentieth percentile.

CDFA Number: 93.822.

Application Availability Date: 07/01/00.

Letter of Intent/Pre-application Deadline: N/A.

Application Deadline: 01/10/01.

Projected Award Date: 08/01/01.

Contact Person: Capt. Richard C. Valse Jr.

Phone Number: 301-443-2100.

E-mail address: Rvause@hrsa.gov

Faculty Development Training in Primary Care (Family Medicine, General Internal Medicine/General Pediatrics) 93.895

Legislative Authority: Public Health Service Act, Title VII, Section 747,42 U.S.C. 293k.

Purpose: Grants are awarded to plan, develop and operate a program for the training of physicians who plan to teach in family medicine (including geriatrics), general internal medicine, general pediatrics, and to provide financial assistance (in the form of traineeships and fellowships) to physicians who are participating in any such program.

Eligibility: Accredited schools of medicine or osteopathic medicine, public or private nonprofit hospitals, or other public or private nonprofit entities are eligible to apply.

Funding Priorities or Preferences: As provided in Section 791(a) of the Public Health Service Act, preference will be given to any qualified applicant that: (A) has a high rate for placing graduates in practice settings having the principal focus of serving residents of medically underserved communities or (B) during the two-year period preceding the fiscal year for which such an award is sought, has achieved a significant increase in the rate of placing graduates in such settings. This statutory general preference will only be applied to applications that rank above the 20th percentile of applications recommended for approval by the peer review group.

Special Consideration: Special consideration will be given to projects which prepare practitioners to care for underserved populations and other high risk groups such as the elderly, individuals with HIV/AIDS, substance abusers, homeless, and victims of domestic violence.

A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits.

Estimated Amount of This Competition:

Family Medicine: $4,435,366.

General Internal Medicine/General Pediatrics: $3,000,000.

Estimated Number of Awards to be Made:

Family Medicine: 31.

General Internal Medicine/General Pediatrics: 19.

Estimated or Average Size of Each Award: See the application guidance materials.

Estimated Project Period:

Family Medicine: 3 years.

General Internal Medicine/General Pediatrics: 3 years.

CFDA Number: 93.895.

Application Availability Date: July 1, 2000.

Application Deadline: October 6, 2000.

Projected Award Date: June 29, 2001.

Program Contact Person:

Family Medicine: Elsie Quinones.

General Internal Medicine/General Pediatrics: Elsie Quinones.

Phone Number: 301 443-1467.

E-mail:

Family Medicine: equinones@hrsa.gov

General Internal Medicine/General Pediatrics: equinones@hrsa.gov

Residency Training in Primary Care (Family Medicine, General Internal Medicine/General Pediatrics) 93.884.

Legislative Authority: Public Health Service Act, Title VII, Section 747, 42 U.S.C. 293k.

Purpose: Grants are awarded to assist graduate training programs in family medicine, general internal medicine and general pediatrics to expand and improve the quality of residency training programs that prepare graduates to enter primary care practice. Residency training programs should emphasize national innovations aimed at primary care residency education across disciplines.

Eligibility: Applicant must be an accredited public or private nonprofit school of allopathic medicine or osteopathic medicine or a public or private nonprofit hospital or other public or private nonprofit entity. Each allopathic program must be fully or provisionally accredited by the Accreditation Council for Graduate Medical Education. Each osteopathic program must be approved by the American Osteopathic Association.

Funding Priorities or Preferences: As provided in Section 791(a) of the Public Health Service Act, preference will be given to any qualified applicant that: (A) has a high rate for placing graduates in practice settings having the principal focus of serving residents of medically underserved communities or (B) during the two-year period preceding the fiscal year for which such an award is sought, has achieved a significant increase in the rate of placing graduates in such settings. This statutory general preference will only be applied to applications that rank above the 20th percentile of applications recommended for approval by the peer review group.

A funding priority will be made available for applicants that can demonstrate training the greatest percentage of providers or demonstrating significant improvements in the percentage of providers which enter and remain in primary care practice. A second priority will be offered to applicants who can demonstrate a record of training individuals from disadvantaged backgrounds (including racial/ethnic minorities, under-represented in primary care practice).

Special Consideration: Special consideration will be given to projects that prepare practitioners to care for underserved populations and other high risk groups (i.e., elderly, HIV/ AIDS, substance abusers, homeless and victims of domestic violence).

A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition:

Family Medicine: $4,621,600

General Internal Medicine/General Pediatrics: $3,102,000.

Estimated Number of Awards to be Made:

Family Medicine: 28.

General Internal Medicine/General Pediatrics: 32.

Estimated or Average Size of Each Award: See the application guidance materials.

Estimated Project Period:

Family Medicine: 3 years.

General Internal Medicine/General Pediatrics: 3 years.

CFDA Number: 93.884.

Application Availability Date: July 1, 2000.

Application Deadline: October 2, 2000.

Projected Award Date: June 29, 2001.

Program Contact Persons:

Family Medicine: Ed Spirer

General Internal Medicine/General Pediatrics: Eleanor Crocker.

Phone Number: 301 443-1467.

E-Mail:

Family Medicine: espirer@hrsa.gov

General Internal Medicine/General Pediatrics: ecrocker@hrsa.gov

Predoctoral Training in Primary Care (Family Medicine, General Internal Medicine/General Pediatrics) 93.896

Legislative Authority: Public Health Service Act, Title VII, Section 747, 42 U.S.C. 293k.

Purpose: Grants are awarded to assist schools of medicine or osteopathic medicine to promote predoctoral training. The program assists schools in meeting the costs of projects to plan, develop and operate or participate in an approved predoctoral training program in the field of family medicine, general internal medicine, and general pediatrics. Proposed projects should seek to expand and enhance the quality of predoctoral initiatives: (1) Innovation, (2) Comprehensive Models, and (3) Establishment and Expansion of Required Clerkships.

Eligibility: Any accredited public or nonprofit private school of allopathic medicine or osteopathic medicine is eligible to apply.

Funding Priorities or Preferences: As provided in Section 791(a) of the Public Health Service Act, preference will be given to any qualified applicant that: (A) has a high rate for placing graduates in practice settings having the principal focus of serving residents of medically underserved communities or (B) during the two-year period preceding the fiscal year for which such an award is sought, has achieved a significant increase in the rate of placing graduates in such settings. This statutory general preference will only be applied to applications that rank above the 20th percentile of applications recommended for approval by the peer review group.

Special Consideration: Special consideration will be given to projects which prepare practitioners to care for underserved populations and other high risk groups such as the elderly, individuals with HIV/AIDS, substance abusers, homeless, and victims of domestic violence.

A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition:

Family Medicine: $4,500,200.

General Internal Medicine/General Pediatrics: $750,000.

Estimated Number of Awards to be Made:

Family Medicine: 28.

General Internal Medicine/General Pediatrics: 5.

Estimated or Average Size of Each Award: See the application guidance materials.

Estimated Project Period:

Family Medicine: 3 years.

General Internal Medicine/General Pediatrics: 3 years.

CFDA Number: 93.896.

Application Availability Date: July 1, 2000.

Letter of Intent Deadline: September 4, 2000.

Application Deadline: November 3, 2000.

Projected Award Date: June 29, 2001.

Program Contact Person: Brenda Williamson.

Phone Number: 301 443-1467.

E-mail: bwilliamson@hrsa.gov

Physician Assistant Training in Primary Care. 93.886

Legislative Authority: Public Health Service Act, Title VII, Section 747, 42 U.S.C. 293k.

Purpose: Grants are awarded for projects for the training of physician assistants, and for the training of individuals who will teach in programs to provide such training. The program assists schools to meet the costs of projects to plan, develop and operate or maintain such programs.

Eligibility: Accredited schools of medicine, osteopathic medicine or other public or private nonprofit entities are eligible to apply. Eligible physician assistant programs are those which are either accredited by the American Medical Association's Committee on Allied Health Education and Accreditation (AMA-CAHEA) or its successor organization, the Commission on Accreditation of Allied Health Education Programs (CAAHEP).

Funding Priorities and/or Preferences: As provided in Section 791(a) of the Public Health Service Act, preference will be given to any qualified applicant that: (A) has a high rate for placing graduates in practice settings having the principal focus of serving residents of medically underserved communities; or (B) during the two-year period preceding the fiscal year for which such an award is sought, has achieved a significant increase in the rate of placing graduates in such settings. This statutory general preference will only be applied to applications that rank above the 20th percentile of applications recommended for approval by the peer review group.

A priority will be offered to applicants that can demonstrate a record of training individuals from disadvantaged backgrounds (including racial/ethnic minorities under-represented in primary care practice).

Special Consideration: Special Consideration will be given in awarding grants to projects which prepare practitioners to care for underserved populations and other high risk groups such as the elderly, individuals with HIV/AIDS, substance abusers, homeless, and victims of domestic violence.

A Special Consideration will be given to qualified applicants who support the Kids Into Health Careers initiative by establishing linkages with one or more elementary, middle or high schools with a high percentage of minority and disadvantaged students to: (1) Inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $2,353,000.

Estimated Number of Awards to be Made: 15.

Estimated or Average Size of Each Award: See the application guidance materials.

Estimated Project Period: 3 years.

CFDA Number: 93.886.

Application Availability Date: July 1, 2000.

Application Deadline: January 12, 2001.

Projected Award Date: June 29, 2001.

Program Contact Person: Ellie Grant.

Phone Number: 301 443-1467.

E-mail: egrant@hrsa.gov

Academic Administrative Units in Primary Care (Family Medicine, General Internal Medicine/General Pediatrics) 93.984

Legislative Authority: Public Health Service Act, Title VII, section 747, 42 U.S.C. 293k

Purpose: Title VII authorizes funds to establish or expand teaching capacity in family medicine, general internal medicine and general pediatrics. Grant support is awarded to meet the costs of projects to establish, maintain or improve academic administrative units (which may be departments, divisions, or other units) to provide clinical instruction in family medicine, general internal medicine, or general pediatrics. An academic unit in family medicine means a department or division of a school. Applications are being solicited for projects to address one or more of the following program purposes: (1) establishment of an academic unit, (2) expansion of an academic unit, and (3) research infrastructure development within the academic unit.

Eligibility: Public or private nonprofit accredited schools of allopathic medicine or osteopathic medicine are eligible to apply.

Funding Priorities and/or Preferences: As provided in Section 791(a) of the Public Health Service Act, preference will be given to any qualified applicant that: (A) has a high rate for placing graduates in practice settings having the principal focus of serving residents of medically underserved communities or (B) during the two-year period preceding the fiscal year for which such an award is sought, has achieved a significant increase in the rate of placing graduates in such settings. This statutory general preference will only be applied to applications that rank above the 20th percentile of applications recommended for approval by the peer review group.

A second preference is offered to qualified applicants for the establishment or the substantive expansion of an academic unit.

A priority will be available to those applicants that present collaborative projects between departments of primary care. The collaboration should involve the academic units of any two disciplines of family medicine, general internal medicine, and general pediatrics. There is a second priority (administrative) for establishment or expansion of research infrastructure proposals.

Special Consideration: Special consideration will be given to projects which prepare practitioners to care for underserved populations and other high risk groups such as the elderly, individuals with HIV/AIDS, substance abusers, homeless, and victims of domestic violence.

A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of this Competition:

Family Medicine: $4,587,292.

General Internal Medicine/General Pediatrics: $1,300,000.

Estimated Number of Awards to be made:

Family Medicine: 29.

General Internal Medicine/General Pediatrics: 9.

Estimated or Average Size of Each Award: See the application guidance materials.

Estimated Project Period:

Family Medicine: 3 years.

General Internal Medicine/General Pediatrics: 3 years.

CFDA Number: 93.984.

Application Availability Date: July 1, 2000.

Letter of Intent Deadline: October 15, 2000.

Application Deadline: December 8, 2000.

Projected Award Date: June 29, 2001.

Program Contact Person: Lafayette Gilchrist.

Phone Number: 301 443-1467.

E-mail lgilchrist@hrsa.gov.

Faculty Loan Repayment Program 93.923

Legislative Authority: Public Health Service Act, Title VII, section 738(a), 42 U.S.C. 293b.

Purpose: The Faculty Loan Repayment Program (FLRP) encourages expansion of disadvantaged representation in health professions faculty positions. The program provides loan repayment, in amounts not to exceed $20,000 for each year of service, for individuals from disadvantaged backgrounds who agree to serve as members of the faculties of eligible health professions and nursing schools. Each recipient of loan repayment must agree to serve as a faculty member for at least two years.

Eligibility: Schools of medicine, osteopathic medicine, dentistry, veterinary medicine, optometry, podiatric medicine, pharmacy, public health, allied health, nursing and graduate programs in behavioral and mental health are eligible to apply.

An individual is eligible to compete for participation in the FLRP if the individual is from a disadvantaged background and: (1) has a degree in medicine, osteopathic medicine, dentistry, nursing, or another health profession; (2) is enrolled in an approved graduate training program in one of the health professions listed above; or (3) is enrolled as a full-time student in an accredited (as determined by the Secretary) school listed above and is in the final year of training leading to a degree from an eligible school.

Funding Priorities or Preferences: Special consideration will be given to first-time applicants, applicants with a commitment from the employing institution to match the FLRP award, and to applicants who contribute to an even distribution of program participants with respect to geography and health care discipline.

Estimated Amount of This Competition: $800,000.

Estimated Number of Awards to be Made: 25.

Estimated or Average Size of Each Award: See the application guidance materials.

Estimated Project Period: Not less than two years.

CFDA Number: 93.923.

Application Availability Date: 01/03/2001.

Letter of Intent Deadline (if applicable): N/A.

Application Deadline: 05/31/2001.

Projected Award Date: 9/01/2001.

Program Contact Persons: Jeff Potts, Barry Dubrow, Lorraine Evans.

Phone Numbers: 301-443-4240; 301-443-4021; 301-443-0785.

E-mail address: flrpinfo@hrsa.gov

Internet address: http://www.hrsa.gov/bhpr/dsa/flrp

Scholarships for Disadvantaged Students 93.925.

Legislative Authority: Public Health Service Act, Title VII, Section 737, 42 U.S.C. 293a.

Purpose: The Scholarships for Disadvantaged Students (SDS) program contributes to the diversity of the health professions student and practitioner populations. The program provides funding to eligible health professions and nursing schools to be used for scholarships to students from disadvantaged backgrounds who have financial need for scholarships and are enrolled, or accepted for enrollment, as full-time students at the eligible schools.

Eligibility: (1) Schools of allopathic medicine, osteopathic medicine, dentistry, optometry, pharmacy, podiatric medicine, veterinary medicine, public health, nursing, chiropractic, or allied health, graduate programs in behavioral and mental health practice, or an entity providing programs for the training of physician assistants are eligible to apply and (2) Schools with a program for recruiting and retaining students from disadvantaged backgrounds, including students who are members of racial and ethnic minority groups.

Funding Priorities or Preferences: An applicant must provide assurances that preference in providing scholarships will be given to students for whom the costs of attending the schools would constitute a severe financial hardship and to former recipients of Exceptional Financial Need and Financial Assistance for Disadvantaged Health Professions Students Scholarships.

A priority will be given to eligible entities that are health professions and nursing schools based on the proportion of graduating students going into primary care, the proportion of underrepresented minority students, and the proportion of graduates working in medically underserved communities.

Estimated Amount of This Competition: $38,000,000.

Estimated Number of Awards to be Made: 500.

Estimated or Average Size of Each Award: See the application guidance materials.

Estimated Project Period: 1 Year.

CFDA Number: 93.925.

Application Availability Date: 11/01/2000.

Letter of Intent Deadline: N/A.

Application Deadline: 12/15/2000.

Projected Award Date: 03/31/2001.

Program Contact Person: Angie Lacy or Andrea Castle.

Phone Numbers: 301-443-5353; 301-443-1701.

E-mail address: dpolicy@hrsa.gov.

Geriatric Education Centers 93.969

Legislative Authority: Public Health Service Act, Title VII, section 753(a), 42 U.S.C. 294c.

Purpose: Grants are given to support the development of collaborative arrangements involving several health professions schools and health care facilities. These arrangements, called Geriatric Education Centers (GECs), facilitate training of health professional faculty, students, and practitioners in the diagnosis, treatment, prevention of disease, disability, and other health problems of the aged. Projects supported under these grants must offer training involving four or more health professions, one of which must be allopathic or osteopathic medicine. These projects must address one or more of the following statutory purposes: (a) improve the training of health professionals in geriatrics, including geriatric residencies, traineeships or fellowships; (b) develop and disseminate curricula relating to the treatment of the health problems of elderly individuals; (c) support the training and retraining of faculty to provide instruction in geriatrics; (d) support continuing education of health professionals who provide geriatric care; and (e) provide students with clinical training in geriatrics in nursing homes, chronic and acute disease hospitals, ambulatory care centers, and senior centers.

Eligibility: Grants may be made to accredited health professions schools as defined by section 799B(1) of the PHS Act, which include schools of medicine, schools of dentistry, schools of osteopathic medicine, schools of pharmacy, schools of optometry, schools of podiatric medicine, schools of veterinary medicine, schools of public health, and schools of chiropractic; programs for the training of physician assistants as defined by section 799(B)(3), or schools of allied health as defined by section 799B(4), or schools of nursing as defined by section 801(2).

Applicants must be located in the United States, the District of Columbia, the Commonwealth of Puerto Rico, the Commonwealth of the Northern Mariana Islands, the Virgin Islands, Guam, American Samoa, or the Trust Territory of the Pacific Islands.

As provided in section 791(a) of the Public Health Service Act, preference will be given to any qualified applicant that: (A) has a high rate for placing graduates in practice settings having the focus of serving residents of medically underserved communities or (B) during the two-year period preceding the fiscal year for which such an award is sought, has achieved a significant increase in the rate of placing graduates in such settings. This statutory general preference will only be applied to applications that rank above the 20th percentile of applications recommended for approval by the peer review group.

So that new applicants may compete equitably, a preference will be given to those new programs that meet at least four of the criteria described in section 791(c)(3) of the Public Health Service Act concerning medically underserved communities and populations.

A funding priority will be given to qualified applicants who provide community-based training experiences designed to improve access to health care services in underserved areas. This will include being responsive to population groups addressed in the President's Executive Orders 12876, 12900, and 13021. These will include such applicants as Hispanic Serving Institutions, Historically Black Colleges and Universities, and Tribal Colleges and Universities serving Native Americans.

Special Consideration: A Special Consideration will be given to qualified applicants who support the “Kids Into Health Careers” initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $2,500,000.

Estimated Number of Awards to be Made: 14-18.

Estimated or Average Size of Each Award: See the application guidance materials.

Estimated Project Period: 5 years.

CFDA Number: 93.969.

Application Availability Date: 07/01/00.

Letter of Intent Deadline: N/A.

Application Deadline: 01/04/01.

Projected Award Date: 06/01/01.

Program Contact Person: Diane Hanner.

Phone Number: 1-301-443-6887.

e-mail address: dhanner@hrsa.gov.

Geriatric Nursing Knowledge and Experiences in Long Term Care Facilities for Baccalaureate Nursing Students 93.359A

Legislative Authority: Public Health Service Act, Title VIII, Section 831, 42 U.S.C. 296p.

Purpose: The purpose of this request for applications is to provide seed money (up to $25,000 per grant) to assist eligible entities to strengthen the geriatric nursing didactic content and clinical components of the baccalaureate nursing program. Funds will be used to assist the applicant to plan, implement, and evaluate a geriatric nursing experience that will expose senior nursing students to: (1) increased course content in geriatric nursing and concepts of age sensitive care; (2) application of this content to geriatric patients with chronic illness residing in long term care facilities; and (3) use of assessment skills in the setting selected in order to accurately complete appropriate assessments using standardized tools such as the Minimum Data Set (MDS) required by Medicare regulations. This project should be implemented through a planned partnership with a geriatric long-term care facility.

Eligibility: Schools of nursing.

Funding Priorities or Preferences: As provided in Section 805 of the Public Health Service Act, preference will be given to applicants with projects that will substantially benefit rural or underserved populations, or help meet public health nursing needs in State or local health departments.

Estimated Amount of This Competition: $250,000.

Estimated Number of Awards to be Made: 10.

Estimated or Average Size of Each Award: See the application guidance materials.

Estimated Project Period: 1 Year.

CFDA Number: 93.359A.

Application Availability Date: July 1, 2000.

Letter of Intent Deadline: NA.

Application Deadline: September 8, 2000.

Projected Award Date: March 30, 2001.

Program Contact Person: Madeline Turkeltaub, PhD, CRNP, RN.

Phone Number: (301) 443-6193.

E-mail: mturkeltaub@hrsa.gov.

Advanced Education Nursing Grants 93.247

Legislative Authority: Public Health Service Act, Title VIII, Section 811, 42 U.S.C. 296j.

Purpose: Grants are awarded to eligible institutions for projects that support the enhancement of advanced nursing education and practice. For the purpose of this section, advanced education nurses means individuals trained in advanced degree programs including individuals in combined RN to Master's degree programs, post-nursing Master's certificate programs, or in the case of nurse midwives, in certificate programs in existence on November 12, 1998, to serve as nurse practitioners, clinical nurse specialists, nurse midwives, nurse anesthetists, nurse educators, nurse administrators or public health nurses.

Eligibility: Eligible applicants are schools of nursing, academic health centers, and other appropriate public or private nonprofit entities.

Funding Priorities or Preferences: As provided in Section 805 of the Public Health Service Act, preference shall be given to applicants with projects that will substantially benefit rural or underserved populations or help meet public health nursing needs in State or local health departments.

Special Consideration: A Special Consideration will be given to qualified applicants who support the Kids Into Health Careers initiative by establishing linkages with one or more elementary, middle or high schools with a high percentage of minority and disadvantaged students to: (1) inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $13,500,000.

Estimated Number of Awards to be Made: 61.

Estimated or Average Size of Each Award: See the application guidance materials.

Estimated Project Period: 3 Years.

CFDA Number: 93.247.

Application Availability: 07/01/2000.

Letter of Intent Deadline: N/A.

Application Deadline: 01/29/2001.

Projected Award Date: 06/30/2001.

Program Contact Person: Joan Weiss, PhD, CRNP, RN.

Phone Number: 301-443-5486.

E-mail: jweiss@hrsa.gov

Advanced Education Nursing Traineeship Grants 93.358

Legislative Authority: Public Health Service Act, Title VIII, Section 811, 42 U.S.C. 296j.

Purpose: Grants are awarded to eligible institutions to meet the cost of traineeships for individuals in advanced nursing education programs. Traineeships are awarded to individuals by participating educational institutions offering Master's and doctoral degree programs, combined RN to Master's degree programs, post-nursing Master's certificate programs, or in the case of nurse midwives, certificate programs in existence on November 12, 1998 to serve as nurse practitioners, clinical nurse specialists, nurse midwives, nurse anesthetists, nurse educators, nurse administrators or public health nurses. The traineeship program is a formula program and all eligible schools will receive awards.

Eligibility: Eligible applicants are schools of nursing, academic health centers, and other appropriate public or private nonprofit entities.

Funding Priorities or Preferences: As provided in Section 805 of the Public Health Service Act, preference shall be given to applicants with projects that will substantially benefit rural or underserved populations, or help meet public health nursing needs in State or local health departments.

Special Consideration: Traineeships for individuals in advanced education programs are provided under Section 811(a)(2) of the Public Health Service (PHS) Act. A statutory special consideration, as provided for in Section 811(f)(3) of the PHS Act, will be given to an eligible entity that agrees to expend the award to train advanced education nurses who will practice in health professional shortage areas designated under Section 332 of the PHS Act.

Estimated Amount of This Competition: $15,813,000.

Estimated Number of Awards to be Made: 300.

Estimated or Average Size of Each Award: See the application guidance materials.

Estimated Project Period: 1 Year.

CFDA Number: 93.358.

Application Availability Date: July 1, 2000.

Letter of Intent Deadline: NA.

Application Deadline: November 1, 2000.

Projected Award Date: April 30, 2001.

Program Contact Person: Marjorie Hamilton.

Phone Number: 301-443-6193.

e-mail address: mhamilton@hrsa.gov

Basic Nurse Education and Practice Grants 93.359

Legislative Authority: Public Health Service Act, Title VIII, Section 831, 42 U.S.C. 296p.

Purpose: Grants are awarded to enhance the educational mix and utilization of the basic nursing workforce by strengthening programs that provide basic nurse education, such as through: (1) Establishing or expanding nursing practice arrangements in noninstitutional settings to demonstrate methods to improve access to primary health care in medically underserved communities; (2) providing care for underserved populations and other high-risk groups such as the elderly, individuals with HIV-AIDS, substance abusers, the homeless, and victims of domestic violence; (3) providing managed care, quality improvement, and other skills needed to practice in existing and emerging organized health care systems; (4) developing cultural competencies among nurses; (5) expanding the enrollment in baccalaureate nursing programs; (6) promoting career mobility for nursing personnel in a variety of training settings and cross-training or specialty training among diverse population groups; or (7) providing education for informatics, including distance learning methodologies.

Eligibility: Eligible applicants for purposes one and five are schools of nursing. Eligible applicants for purposes two, three, four, six, and seven are schools of nursing, nursing centers, academic health centers, State or local governments, and other appropriate public or private nonprofit entities.

Funding Priorities or Preferences: As provided in Section 805 of the Public Health Service Act, preference shall be given to applicants with projects that will substantially benefit rural or underserved populations, or help meet public health nursing needs in State or local health departments.

Special Consideration: A Special Consideration will be given to qualified applicants who support the Kids Into Health Careers initiative by establishing linkages with one or more elementary, middle or high schools with a high percentage of minority and disadvantaged students to: (1) Inform students and parents about health careers and financial aid to encourage interest in health careers; (2) promote rigorous academic course work to prepare for health professions training; or (3) provide support services such as mentoring, tutoring, counseling, after school programs, summer enrichment, and college visits. Further information on the Kids Into Health Careers Initiative can be obtained on the Bureau of Health Professions website at http://www.hrsa.gov/bhpr/.

Estimated Amount of This Competition: $4,300,000.

Estimated Number of Awards to be Made: 20.

Estimated or Average Size of Each Award: See the application guidance materials.

Estimated Project Period: 3 Years.

CFDA Number: 93.359.

Application Availability Date: July 1, 2000.

Letter of Intent Deadline: N/A.

Application Deadline: February 22, 2001.

Projected Award Date: 06/30/2001.

Program Contact Person: Madeline Turkeltaub, PhD, CRNP, NP.

Phone Number: 1-301-443-6193.

e-mail address: mturkeltaub@hrsa.gov.

Advanced Education Nursing—Nurse Anesthetist Traineeship 93.124

Legislative Authority: Public Health Service Act, Title VIII, Section 811, 42 U.S.C. 296j.

Purpose: Grants are awarded to eligible institutions for projects that support traineeships for licensed registered nurses enrolled as full-time students beyond the twelfth month of study in a Master's nurse anesthesia program. The traineeship program is a formula program and all eligible entities will receive awards.

Eligibility: Eligible applicants are schools of nursing, academic health centers, and other public and private nonprofit institutions which provide registered nurses with full-time nurse anesthetist education and have evidence of earned pre-accreditation or accreditation status from the American Association of Nurse Anesthetists (AANA) Council on Accreditation of Nurse Anesthesia Educational Programs.

Funding Priorities or Preferences: As provided in Section 805 of the Public Health Service Act, preference shall be given to applicants with projects that will substantially benefit rural or underserved populations or help meet public health nursing needs in State or local health departments.

Special Considerations: Traineeships for individuals in advanced education programs are provided under Section 811(a)(2) of the Public Health Service (PHS) Act. A statutory special consideration, as provided for in Section 811(f)(3) of the PHS Act, will be given to an eligible entity that agrees to expend the award to train advanced education nurses who will practice in health professional shortage areas designated under Section 332 of the PHS Act.

Estimated Amount of This Competition: $1,000,000.

Estimated Number of Awards to be Made: 70.

Estimated or Average Size of Each Award: See the application guidance materials.

Estimated Project Period: 1 Year.

CFDA Number: 93.124.

Application Availability Date: July 1, 2000.

Letter of Intent Deadline: N/A.

Application Deadline: November 1, 2000.

Projected Award Date: April 30, 2001.

Program Contact Person:Marcia Starbecker, MSN, RN.

Phone Number: 301 443-6193.

e-mail address: mstarbecker@hrsa.gov

Bureau of Primary Health Care

Community and Migrant Health Centers 93.224, 93.246

Legislative Authority: Public Health Service Act, Title III, Section 330, 42 U.S.C. 254b and 254b(g).

Purpose: The Community Health Center and Migrant Health Center (C/MHC) programs are designed to promote the development and operation of community-based primary health care service systems in medically underserved areas for medically underserved populations. It is the intent of HRSA to continue to support health services in these areas, given the unmet need inherent in their provision of services to medically underserved populations. HRSA is committed to 100 percent access to primary care services with zero percent health disparities for the underserved. HRSA will open competition for awards under Section 330 of the Public Health Service Act (U.S.C. 254b for CHCs and U.S.C. 254b(g) for MHCs) to support health services in the areas served by these grants. Two hundred fifty-five C/MHC grantees will reach the end of their project period during FY 2001. Applications are due 120 days before the expiration date.

Matching or Cost Sharing Requirement: See the application guidance.

Eligibility: Applicants are limited to currently funded programs whose project periods expire during FY 2001 and new organizations proposing to serve the same areas or populations currently being served by these existing programs.

Funding Priorities or Preferences: None.

Special Considerations: Communication with Field Office staff is essential for interested parties in deciding whether to pursue Federal funding as a C/MHC. Technical assistance and detailed information about each service area, such as census tracts, can be obtained by contacting the HRSA Field Office.

Estimated Amount of This Competition: $254,000,000.

Estimated Number of Awards to be Made: 255.

Estimated or Average Size of Each Award: $1,000,000.

Estimated Project Period: 1-5 Years.

CFDA Number: 93.224 & 93.246.

Application Availability Date: Continuous.

Letter of Intent Deadline: N/A.

Application Deadline: Varies.

Projected Award Date: Varies.

Program Contact Person: 93.224 Cephas Goldman; 93.246 George Ersek.

Phone Number: Goldman—301-594-4300; Ersek—301-594-4301.

E-mail: gersek@hrsa.gov

City | State | Expiration date
HRSA Boston Field Office—(617) 565-1482
Providence | RI | 11/30/2000
Hope Valley | RI | 11/30/2000
Boston | MA | 12/31/2000
Willimantic | CT | 12/31/2000
Pawtucket | RI | 12/31/2000
Lubec | ME | 12/31/2000
Woonsocket | RI | 1/31/2001
Roxbury | MA (2) | 1/31/2001
Truro | MA | 1/31/2001
Lynn | MA | 1/31/2001
Holyoke | MA | 1/31/2001
Dorchester | MA | 3/31/2001
Augusta | ME | 3/31/2001
Bucksport | ME | 3/31/2001
Lowell | MA | 3/31/2001
Boston | MA | 3/31/2001
St. Johnsbury | VT | 3/31/2001
Eagle Lake | ME | 3/31/2001
Worcester | MA | 3/31/2001
Salem | MA | 3/31/2001
Parsonfield | ME | 5/31/2001
Newmarket | NH | 5/31/2001
Waterville | ME | 5/31/2001
HRSA New York Field Office—(212) 264-2664
Ponce | PR | 11/30/2000
Cortland | NY | 11/30/2000
Newark | NJ | 11/30/2000
Brooklyn | NY | 11/30/2000
New York | NY | 11/30/2000
Paterson | NJ | 12/31/2000
Ossining | NY | 12/31/2000
Rochester | NY (2) | 12/31/2000
Florida | PR | 12/31/2000
Pulaski | NY | 12/31/2000
Buffalo | NY | 12/31/2000
Bridgeton | NJ | 12/31/2000
Jersey City | NJ | 11/30/2000
Peekskill | NY | 1/31/2001
Cidra | PR | 1/31/2001
Hammonton | NJ | 1/31/2001
Ciales | PR | 1/31/2001
Brooklyn | NY | 1/31/2001
Castaner | PR | 3/31/2001
Patillas | PR | 3/31/2001
Lares | PR | 3/31/2001
Trenton | NJ | 3/31/2001
Rincon | PR | 3/31/2001
Albany | NY | 3/31/2001
New York | NY | 3/31/2001
Syracuse | NY | 3/31/2001
Barceloneta | PR | 5/31/2001
Newburgh | NY | 5/31/2001
Bronx | NY | 5/31/2001
Plainfield | NJ | 5/31/2001
Jersey City | NJ | 6/30/2001
HRSA Philadelphia Field Office—(215) 861-4422
Baltimore | MD | 11/30/2000
Newport News | VA | 11/30/2000
Axton | VA | 1/31/2001
Fredericktown | PA | 1/31/2001
Hyndman | PA | 1/31/2001
Stony Creek | VA | 1/31/2001
Union | WV | 1/31/2001
Wilkes-Barre | PA | 1/31/2001
Sharon | PA | 1/31/2001
Philadelphia | PA | 1/31/2001
Broad Top City | PA | 1/31/2001
Bastian | VA | 1/31/2001
Martinsburg | WV | 3/31/2001
Emporia | VA | 3/31/2001
Lancaster | PA | 3/31/2001
Baltimore | MD | 3/31/2001
Beckley | WV | 3/31/2001
Greensboro | PA | 3/31/2001
York | PA | 3/31/2001
Grantsville | WV | 5/31/2001
Baker | WV | 5/31/2001
Huntington | WV | 5/31/2001
Roanoke | VA | 6/30/2001
Baltimore | MD | 6/30/2001
HRSA Atlanta Field Office—(404) 562-2996
Chattanooga | TN | 11/30/2000
Manson | NC | 11/30/2000
Evergreen | AL | 11/30/2000
Jackson | MS | 11/30/2000
Louisville | KY | 11/30/2000
Mound Bayou | MS | 11/30/2000
Irvington | AL | 11/30/2000
Morgantown | GA | 11/30/2000
Raleigh | NC | 11/30/2000
Fairfax | SC | 11/30/2000
West Palm Beach | FL | 12/31/2000
Faison | NC | 12/31/2000
Wartburg | TN | 12/31/2000
Biloxi | MS | 12/31/2000
Sanford | FL | 12/31/2000
Greenville | SC | 1/31/2001
Lexington | KY | 1/31/2001
Miami | FL(3) | 1/31/2001
Pearl | MS | 1/31/2001
Eastover | SC | 1/31/2001
Richland | GA | 1/31/2001
Columbia | SC | 1/31/2001
Wade | NC | 1/31/2001
Apopka | FL | 1/31/2001
Benton | TN | 1/31/2001
Meridian | MS | 3/31/2001
Windsor | NC | 3/31/2001
Charlotte | NC | 3/31/2001
Warrenton | GA | 3/31/2001
Rogersville | TN | 3/31/2001
Tallahassee | FL | 3/31/2001
Tampa | FL | 3/31/2001
McClellanville | SC | 3/31/2001
Ashland | MS | 3/31/2001
Conway | SC | 3/31/2001
Byhalia | MS | 3/31/2001
Tuskegee | AL | 3/31/2001
Laurel | MS | 3/31/2001
Immokalee | FL | 3/31/2001
Ruskin | FL | 3/31/2001
Newton Grove | NC | 3/31/2001
Johns Island | SC | 3/31/2001
Lexington | KY | 3/31/2001
Atlanta | GA | 5/31/2001
Albany | GA | 5/31/2001
McKee | KY | 5/31/2001
Wadesboro | NC | 5/31/2001
Ridgeland | SC | 5/31/2001
Scottsboro | AL | 5/31/2001
Hartsville | SC | 5/31/2001
Yanceyville | NC | 5/31/2001
Swainsboro | GA | 6/30/2001
Lexington | MS | 6/30/2001
Wilson | NC | 6/30/2001
Ocilla | GA | 6/30/2001
HRSA Chicago Field Office—(312) 353-1715
Chicago | IL (2) | 11/30/2000
Waukegan | IL | 11/30/2000
Rockford | IL | 11/30/2000
Baldwin | MI | 11/30/2000
Oquawka | IL | 12/31/2000
Chillicothe | OH | 12/31/2000
Cincinnati | OH (3) | 12/31/2000
Houghton Lake | MI | 12/31/2000
Hillman | MI | 1/31/2001
Barnesville | OH | 1/31/2001
Piketon | OH | 1/31/2001
Lakewood | WI | 1/31/2001
Carterville | IL | 3/31/2001
East Jordan | MI | 3/31/2001
Grand Rapids | MI | 3/31/2001
Greenville | OH | 3/31/2001
Ironton | OH | 5/31/2001
Cairo | IL | 5/31/2001
Decatur | IL | 5/31/2001
Marshfield | WI | 5/31/2001
Algonac | MI | 5/31/2001
Chicago | IL | 6/30/2001
Springfield | IL | 6/30/2001
Matteson | IL | 6/30/2001
Indianapolis | IN | 6/30/2001
HRSA Dallas Field Office—(214) 767-3872
Plainview | TX | 11/30/2000
El Paso | TX | 11/30/2000
Dallas | TX | 11/30/2000
Marianna | AR | 11/30/2000
Sicily Island | LA | 12/31/2000
Santa Fe | NM | 12/31/2000
San Angelo | TX | 12/31/2000
Rio Grande City | TX | 1/31/2001
Lake Charles | LA | 1/31/2001
Natchitoches | LA | 1/31/2001
Oklahoma City | OK | 1/31/2001
Portales | NM | 1/31/2001
Portland | AR | 1/31/2001
Pleasanton | TX | 1/31/2001
Tulsa | OK | 3/31/2001
Hatch | NM | 3/31/2001
Hampton | AR | 3/31/2001
Newton | TX | 3/31/2001
Eagle Pass | TX | 5/31/2001
Las Cruces | NM | 5/31/2001
Santa Fe | NM | 5/31/2001
Espanola | NM | 5/31/2001
Dallas | TX | 5/31/2001
Pine Bluff | AR | 5/31/2001
Nacogdoches | TX | 5/31/2001
Waco | TX | 6/30/2001
HRSA Kansas City Field Office—(816) 426-5296
Des Moines | IA | 1/31/2001
Davenport | IA | 1/31/2001
Mound City | MO | 1/31/2001
Waterloo | IA | 1/31/2001
Kansas City | MO(2) | 3/31/2001
Pineville | MO | 6/30/2001
Columbia | MO | 6/30/2001
HRSA Denver Field Office—(303) 844-3203
Alamosa | CO | 11/30/2000
Howard | SD | 11/30/2000
Rapid City | SD | 12/31/2000
Sioux Falls | SD | 12/31/2000
Colorado Springs | CO | 12/31/2000
Denver | CO | 12/31/2000
Billings | MT | 1/31/2001
Lafayette | CO | 1/31/2001
Billings | MT | 3/31/2001
Pueblo | CO | 5/31/2001
Green River | UT | 5/31/2001
Black Hawk | CO | 5/31/2001
HRSA San Francisco Field Office—(415) 437-8090
Surprise | AZ | 11/30/2000
Parlier | CA | 11/30/2000
Stockton | CA | 11/30/2000
Los Angeles | CA | 11/30/2000
Tucson | AZ | 12/31/2000
Marana | AZ | 12/31/2000
San Diego | CA | 12/31/2000
San Ysidro | CA | 12/31/2000
Waianae | HI | 1/31/2001
Los Angeles | CA (2) | 1/31/2001
Ventura | CA | 3/31/2001
Lamont | CA | 3/31/2001
Buttonwillow | CA | 3/31/2001
Merced | CA | 3/31/2001
Oakland | CA (2) | 3/31/2001
Los Angeles | CA | 3/31/2001
Laytonville | CA | 5/31/2001
Casa Grande | AZ | 5/31/2001
Hilo | HI | 6/30/2001
Gualala | CA | 6/30/2001
San Pablo | CA | 6/30/2001
Maui | HI | 6/30/2001
Honolulu | HI | 6/30/2001
HRSA Seattle Field Office—(206) 615-2491
Othello | WA | 11/30/2000
Portland | OR | 11/30/2000
Salem | OR | 11/30/2000
Klamath Falls | OR | 12/31/2000
Toppenish | WA | 1/31/2001
Seattle | WA (4) | 1/31/2001
Chewelah | WA | 1/31/2001
Payette | ID | 1/31/2001
Nampa | ID | 3/31/2001
Okanogan | WA | 3/31/2001
Pasco | WA | 5/31/2001
Tacoma | WA | 5/31/2001
Roseburg | OR | 6/30/2001
Sitka | AK | 6/30/2001
Talkeetna | AK | 6/30/2001
Spokane | WA | 6/30/2001

Health Care for the Homeless 93.151

Legislative Authority: Public Health Service Act, Title III, Section 330(H), 42 U.S.C. 254B(H).

Purpose: The Health Care for the Homeless (HCH) program is designed to increase the access of homeless populations to cost-effective, case managed, and integrated primary care and substance abuse services provided by existing community-based programs/providers. It is the intent of HRSA to continue to support health services to the homeless people in these areas/locations given the continued need for cost-effective, community-based primary care services. Eighty-five HCH grantees will reach the end of their project period during FY 2001. Applications are due 120 days before the expiration date.

Matching or Cost Sharing Requirement: See the application guidance.

Eligibility: Applicants are limited to currently funded programs whose project periods expire during FY 2001 and new organizations proposing to serve the same areas or populations currently being served by these existing programs.

Funding Priorities or Preferences: None.

Special Considerations: Communication with Field Office staff is essential for interested parties in deciding whether to pursue Federal funding as a HCH. Technical assistance and detailed information about each service area, such as census tracts, can be obtained by contacting the HRSA Field Office.

Estimated Amount of This Competition: $37,995,000.

Estimated Number of Awards to be Made: 85.

Estimated or Average Size of Each Award: $447,000.

Estimated Project Period: 1-5 Years.

CFDA Number: 93.151.

Application Availability Date: Continuous.

Letter of Intent Deadline: N/A.

Application Deadline: Varies.

Projected Award Date: Varies.

Program Contact Person: Monica Toomer.

Phone Number: 301-594-4430.

E-mail: mtoomerz@hrsa.gov

City | State | Expiration date
HRSA Boston Field Office—(617) 565-1482
Boston | MA | 10/31/2000
Providence | RI | 10/31/2000
Springfield | MA | 10/31/2000
Portland | ME | 10/31/2000
Manchester | NH | 10/31/2000
Worcester | MA | 10/31/2000
Willimantic | CT | 12/31/2000
Woonsocket | RI | 1/31/2001
HRSA New York Field Office—(212) 264-2664
New York | NY | 10/31/2000
Santurce | PR | 10/31/2000
New York | NY (5) | 10/31/2000
Newark | NJ | 10/31/2000
Peekskill | NY | 1/31/2001
Trenton | NJ | 3/31/2001
Jersey City | NJ | 3/31/2001
HRSA Philadelphia Field Office—(215) 861-4422
Richmond | VA | 10/31/2000
Philadelphia | PA | 10/31/2000
Baltimore | MD | 10/31/2000
Newport News | VA | 11/30/2000
Wilkes-Barre | PA | 1/31/2001
Hunington | WV | 5/31/2001
HRSA Atlanta Field Office—(404) 562-2996
Clearwater | FL | 10/31/2000
Nashville | TN | 10/31/2000
Atlanta | GA | 10/31/2000
Birmingham | AL | 10/31/2000
Chattanooga | TN | 10/31/2000
Ft. Lauderdale | FL | 10/31/2000
Charleston | SC | 10/31/2000
Raleigh | NC | 11/30/2000
Louisville | KY | 11/30/2000
Jackson | MS | 11/30/2000
Lexington | KY | 1/31/2001
Eastover | SC | 1/31/2001
Tampa | FL | 3/31/2001
HRSA Chicago Field Office—(312) 353-1715
Green Bay | WI | 10/31/2000
Dayton | OH | 10/31/2000
Cleveland | OH | 10/31/2000
Chicago | IL | 10/31/2000
Lansing | MI | 10/31/2000
Milwaukee | WI | 10/31/2000
Minneapolis | MN | 10/31/2000
Rockford | IL | 11/30/2000
Cincinnati | OH | 12/31/2000
Ironton | OH | 5/31/2001
Algonac | MI | 5/31/2001
HRSA Dallas Field Office—(214) 767-3872
Albuquerque | NM | 10/31/2000
New Orleans | LA | 10/31/2000
Dallas | TX | 10/31/2000
Houston | TX | 10/31/2000
Plainview | TX | 11/30/2000
Oklahoma City | OK | 1/31/2001
Tulsa | OK | 3/31/2001
HRSA Kansas City Field Office—(816) 426-5296
Waterloo | IA | 1/31/2001
Davenport | IA | 1/31/2001
Kansas City | MO | 3/31/2001
HRSA Denver Field Office—(303) 844-3203
Denver | CO | 10/31/2000
Casper | WY | 10/31/2000
Colorado Springs | CO | 12/31/2000
Rapid City | SD | 12/31/2000
Billings | MT | 3/31/2001
Pueblo | CO | 5/31/2001
HRSA San Francisco Field Office—(415) 437-8090
Sacramento | CA | 10/31/2000
Honolulu | HI | 10/31/2000
Oakland | CA (2) | 10/31/2000
Santa Cruz | CA | 10/31/2000
Santa Barbara | CA | 10/31/2000
San Francisco | CA | 10/31/2000
Martinez | CA | 10/31/2000
Tucson | AZ | 12/31/2000
San Diego | CA | 12/31/2000
Merced | CA | 3/31/2001
Lamont | CA | 3/31/2001
Carson City | NV | 5/31/2001
HRSA Seattle Field Office—(206) 615-2491
Eugene | OR | 10/31/2000
Tacoma | WA | 10/31/2000
Salem | OR | 11/30/2000
Portland | OR | 11/30/2000
Anchorage | AK | 11/30/2000
Nampa | ID | 3/31/2001
Spokane | WA | 6/30/2001

Grants to States for Loan Repayment Programs 93.165

Legislative Authority: Public Health Service Act, Title III, Section 338I, 42 U.S.C. 254Q-1.

Purpose: The purpose of these grant funds is to assist States in operating programs for the repayment of educational loans of health professionals in return for their practice in federally-designated Health Professional Shortage Areas to increase the availability of primary health services in health professional shortage areas. Of the estimated 38 awards, 9 are project period renewals. Further information about these activities can be obtained from the contact person.

Matching or Cost Sharing Requirement: States seeking support must provide adequate assurances that, with respect to the costs of making loan repayments under contracts with health professionals, the State will make available (directly or through donations from public or private entities) non-Federal contributions in cash in an amount equal to not less than $1 for $1 of Federal funds provided in the grant. In determining the amount of non-Federal contributions in cash that a State has to provide, no Federal funds may be used in the State's match.

Eligibility: Any State is eligible to apply for funding.

Funding Priorities or Preferences: None.

Special Considerations: See “Matching or Cost Sharing Requirement” above.

Estimated Amount of This Competition: $3,000,000.

Estimated Number of Awards to be Made: 15.

Estimated or Average Size of Each Award: $200,000.

Estimated Project Period: 3 Years.

CFDA Number: 93.165.

Application Availability Date: 3/1/2001.

Letter of Intent Deadline: N/A.

Application Deadline: 5/15/2001.

Projected Award Date: 8/31/2001.

Program Contact Person: Susan Salter.

Phone Number: 301-594-4400.

E-mail: ssalter@hrsa.gov

National Primary Care Technical Assistance Grants and Cooperative Agreements 93.129A, 93.129B, 93.130A, 93.224

Legislative Authority: Public Health Service Act, Title III, Section 330 and Section 333, 42 U.S.C. 254B(K).

Purpose: The health center and National Health Service Corps (NHSC) programs deliver cost effective, high quality primary health care services to over 10 million underserved, vulnerable, low income, and minority populations. For more than twenty five years, these programs have been working toward ensuring the availability and accessibility of essential primary health services to the people in this country who have the most limited access to services. HRSA supports technical and non-financial assistance to federally-funded health centers and NHSC sites. It is the intent of HRSA to continue to support technical assistance for health center and NHSC site development and operations in the areas of increasing access to preventive and primary care, reduction of disparities of health outcomes, and improving the environmental/ occupational health of migrant and seasonal farmworkers.

HRSA will open competition for awards under Sections 330 and 333 of the Public Health Service Act, 42 U.S.C. 254B(k) to support national primary care technical assistance grants and cooperative agreements which will address access to health services, reductions in health disparities, and improvements in environmental/occupational health for migrant and seasonal farmworkers. In addition to the application guidance, information about the activities associated with these opportunities can be obtained from the contact person listed below.

Matching or Cost Sharing Requirement: N/A.

Eligibility: Public and private nonprofit entities are eligible to apply.

Funding Priorities or Preferences: None.

Special Considerations: None.

Estimated Amount of This Competition: $10,000,000.

Estimated Number of Awards to be Made: 15.

Estimated or Average Size of Each Award: $665,000.

Estimated Project Period: 1-5 Years.

CFDA Numbers: 93.129A, 93.129B, 93.130A, 93.224.

Application Availability Date: December 1, 2000.

Letter of Intent Deadline: N/A.

Application Deadline: There will be two or more competitions under this announcement. March 1, 2001 is the receipt deadline for the competition for projects to assist Migrant Health Centers and programs, and May 1, 2001 is the deadline for one or more other competitions for specific types of assistance to health centers. Application materials will contain separate guidances for each competition. Each guidance will indicate the applicable deadline as well as other relevant information.

Projected Award Date: Varies.

Program Contact Person: Lynn Specter.

Phone Number: 301-594-4488.

E-mail: lspector@hrsa.gov

Nursing Education Loan Repayment Program 93.908

Legislative Authority: Section 846(h) of the Public Health Service Act, 42 U.S.C. 297

Purpose: Under the Nursing Education Loan Repayment Program (NELRP), registered nurses are offered the opportunity to enter into a contractual agreement with the Secretary, under which the Public Health Service agrees to repay up to 85 percent of the nurse's indebtedness for nursing education loans. In exchange, the nurse agrees to serve for a specified period of time in certain types of health facilities identified in statute.

Matching or Cost Sharing Requirement: N/A

Eligibility: Applicants must have completed all of their training requirements for registered nursing and be licensed prior to beginning service. Individuals eligible to participate must: (a) have received, prior to the start of service, a baccalaureate or associate degree in nursing; (b) have unpaid education loans obtained for nurse training; (c) be a citizen or National of the U.S.; (d) have a current unrestricted license in the State in which they intend to practice; and (e) agree to be employed for not less than two years in a full-time clinical capacity in: (1) an Indian Health Service Health Center; (2) a Native Hawaiian Health Center; (3) a public hospital (operated by a State, county, or local government); (4) a health center funded under Section 330 of the Public Health Service Act (including migrant, homeless, and public housing centers); (5) a rural health clinic (Section 1861 (aa)(2) of the Social Security Act); or (6) a public or nonprofit private health facility determined by the Secretary to have a critical shortage of nurses.

Funding Priorities or Preferences: None.

Special Considerations: None.

Estimated Amount of This Competition: $2,279,000.

Estimated Number of Awards to be Made: 200.

Estimated or Average Size of Each Award: $11,400.

Estimated Project Period: N/A.

CFDA Number: 93.908.

Application Availability Date: 10/1/2000.

Letter of Intent Deadline: N/A.

Application Deadline: 6/30/2001.

Projected Award Date: 9/30/2001.

Program Contact Person: Ms. Freddie Lapp.

Phone Number: 1-800-435-6464.

E-mail: flapp@hrsa.gov

National Health Service Corps Student/Resident Experiences and Rotations in Community Health (SEARCH) 93.130B

Legislative Authority: PHS Act, Subpart II, Sect.331[254d](a)(1).

Purpose: The purpose of the Student Resident Experiences and Rotations in Community Health (SEARCH) program is to assist States in increasing the availability of primary health care in urban and rural Federally designated health professional shortage areas by assisting public or non-profit community organizations to facilitate and strengthen community-academic linkages, and to increase the recruitment and retention of health care professionals in health professional shortage areas and medically underserved areas by expanding the number of high quality service-linked training opportunities available in these communities.

Matching or Cost Sharing Requirement: States seeking support are strongly encouraged to promote and seek outside funding to support other aspects of service-linked training opportunities such as leadership development. Such sources may include insurance companies, civic organizations, State and local governments, foundations, and network members.

Eligibility: Any State is eligible to apply for funding.

Funding Priorities or Preferences: Funds awarded under the National Health Service Corps SEARCH program are to be used to develop/support community-oriented practices which will offer service-linked training opportunities available in underserved communities for primary care students and residents.

Special Considerations: None.

Estimated Amount of This Competition: $3,300,000.

Estimated Number of Awards to be Made: 24.

Estimated or Average Size of Each Award: $140,000.

Estimated Project Period: 3 Years.

CFDA Number: 93.130B.

Application Availability Date: 10/1/2000.

Letter of Intent Deadline: N/A.

Application Deadline: 5/1/2001.

Projected Award Date: 9/1/2001.

Program Contact Person: Jannette O'Neill-Gonzalez.

Phone Number: 301-594-4161.

E-mail: JOneill-Gonzalez@hrsa.gov.

New Delivery Sites and New Starts in Programs Funded Under the Health Centers Consolidation Act of 1996 93.224, 93.246, 93.151

Legislative Authority: Section 330 of the Public Health Service Act, 42 U.S.C. 254b and 254b(h).

Purpose: The HRSA anticipates supporting the establishment of new service delivery sites for existing centers and/or new health centers in the Community and Migrant Health Centers and Health Care for the Homeless programs. The purpose of the Community/Migrant Health Centers program is to extend preventive and primary health services to populations currently without such services and to improve the health status of medically underserved individuals by supporting the establishment of new points of access to care. The Health Care for the Homeless program is designed to increase the homeless populations' access to cost-effective community-based programs/providers.

Matching or Cost Sharing Requirement: Communities seeking support are strongly encouraged to promote and seek outside funding and are required to maximize third party revenue to establish and maintain new service delivery sites.

Eligibility: Public and private non-profit entities are eligible to apply.

Funding Priorities or Preferences: Final priorities and/or preferences are included in the application materials.

Special Considerations: None.

Estimated Amount of This Competition: $10,000,000.

Estimated Number of Awards to be Made: 20-25.

Estimated or Average Size of Each Award: $200,000-450,000.

Estimated Project Period: 2 years or consistent with existing project period for currently funded organizations.

CFDA Numbers: 93.224, 93.246, 93.151.

Application Availability Date: 7/2000.

Letter of Intent Deadline: Ongoing. Letters of intent are encouraged for organizations seeking funding for a new delivery site. Letters of intent will be accepted beginning July 31, 2000. The submission of a letter of intent is recommended but not required in order to submit an application to compete for funds in FY 2001. Information requirements to be included in the letter of intent submissions will be available in the application guidance.

Application Deadlines: Applications will be accepted beginning October 1, 2000. Applications received by November 30, 2000, will be reviewed with funding decisions announced by March 31, 2001. Applications received by February 28, 2001, will be reviewed with funding decisions announced by June 30, 2001. Applications received by May 15, 2001, will be reviewed with funding decisions announced by September 15, 2001. Applications received after May 15, 2001 will be considered for funding in FY 2002, depending on the availability of funds.

Projected Award Date: See above.

Program Contact Person: 93.224: Cephas Goldman 93.246: George Ersek 93.151: Jean Hochron.

Phone Numbers: 301-594-4300 Goldman; 301-594-4301 Ersek; 301-594-4437 Hochron.

E-mail: cgoldman@hrsa.gov, gersek@hrsa.gov, jhochron@hrsa.gov.

HIV/AIDS Bureau

Funding for Early Intervention Services Grants: Existing Geographic Areas 93.918A

Legislative Authority: PHS Act, Public Law 104-146, Ryan White Comprehensive AIDS Resources Emergency Act Amendments of 1996.

Purpose: The purpose of Title III funding is to provide, on an outpatient basis, high quality early intervention services/primary care to individuals with HIV infection. This is accomplished by increasing the present capacity and capability of eligible ambulatory health service entities. These expanded services become a part of a continuum of HIV prevention and care for individuals who are at risk for HIV infection or are HIV infected. All Title III programs must provide: HIV counseling and testing; counseling and education on living with HIV; appropriate medical evaluation and clinical care; and other essential services such as oral health care, outpatient mental health services and nutritional services, and appropriate referrals for specialty services.

Eligibility: Eligible applicants are public or nonprofit private entities that are 330 health centers, grantees funded under section 1001 regarding family planning, comprehensive hemophilia diagnostic and treatment centers, Federally qualified health centers, or nonprofit private entities that provide comprehensive primary care services to populations at risk of HIV disease.

Limited Competition: Applicants are limited to public or nonprofit private entities that are currently funded Title III programs whose project periods expire in FY 2001 and new organizations proposing to serve the same populations currently being served by these existing projects. These areas are:

State | Service area
Alabama | Counties of Mobile and Baldwin. Counties of Calhoun, Etowah, Tallapoosa, Talladega, Dekalb, Cherokee, Cleburne, Randolph, St. Clair, Shelby, Blount and Chambers. Counties of Montgomery, Autaugua, Lowndes, Butler, Dallas, Chilton, Elmore, Macon, Bullock, Lee, Russell, Pike, Barbour, Dale, Geneva, Houston, Crenshaw, Conecuh, Coffee, Chambers, Tallapoosa, Wilcox and Monroe.
Alaska | Anchorage County, Anchorage Borough, Valdez-Cordova Census Area, Fairbanks North Star Borough.
Arkansas | Counties of Jefferson, Arkansas, Ashley, Chicot, Desha, Drew, Lincoln and Pulaski.
Arizona | Counties of Maricopa, Yavapai, Gila and Pinal. Counties of Santa Cruz, Greenlee, Cochise and Yuma. Pima County.
California | Counties of Santa Cruz and Monterey. Counties of San Bernardino, Riverside, Imperial and Sacramento. City of San Francisco. Alameda County. Kern County. Los Angeles County. Orange County. San Diego County. Santa Clara County. Ventura County.
Connecticut | Fairfield County. New Haven County.
District of Columbia | District of Columbia.
Florida | Counties of Collier, Hendry and Glades. Broward County. Dade County. Monroe County. St. Lucie County.
Georgia | Counties of Chatham, Effingham, Liberty, Bryan and Glynn. Counties of Fulton and Dekalb. Counties of Dougherty, Calhoun, Baker, Lee, Mitchell, Worth, Terrell, Colquitt, Thomas, Grady, Seminole, Miller, Early and Decatur. Counties of Ware, Bulloch, Candler, Evans, Toombs, Tattnall, Jeff Davis, Appling, Wayne, Coffee, Bacon, Pierce, Brantley, Atkinson, Charlton and Clinch. Fulton County. Richmond County.
Idaho | Counties of Ada, Boise, Elmore, Valley, Owyhee, Canyon, Gem, Payette, Washington, Adams, Butte, Bingham, Power, Bannock, Caribou, Oneida, Franklin and Bear Lake.
Illinois | Counties of Winnebago, Jo Daviess, Stephenson, Whiteside, Lee, Ogle, Boone, McHenry, Dekalb. Cook County.
Indiana | Marion County.
Iowa | Counties of Polk, Dallas, Story and Warren. Counties of Appanoose, Cedar, Clinton, Davis, Des Moines, Henry, Iowa, Jackson, Jefferson, Keokuk, Lee, Louisa, Mahaska, Monroe, Muscatine, Poweshiek, Scott, Van Buren, Wapello and Washington. Johnson County. Woodbury County.
Kansas | Sedgwick County.
Kentucky | Counties of McCracken and Pike.
Louisiana | Parishes of Calcasieu, Cameron, Beauregard, Allen, Jefferson and Davis. Parishes of Orleans, East Baton Rouge, St. Tammany, Washington, Iberville, St. Bernard, Acadia, Ascension, Assumption, Beuregard, Calcasieu, Concordia, East Feliciana, Iberia, Jackson and Lafayette.
Massachusetts | Counties of Bristol and Plymouth. Counties of Essex and Middlesex. Counties of Hampden and Franklin. Barnstable County. Norfolk County. Suffolk County. Worcester County.
Michigan | Counties of Oakland, Macomb, Lapeer, St. Clair and Monroe. Wayne County.
Mississippi | Counties of Quitman, Coahoma, Tate, Tallahatchie, Leflore, Lowndes, Bolivar, Tunica, Panola, Desoto and Marshall.
Missouri | Counties of Greene, Vernon, Barton, Jasper, Newton, McDonald, Cedar, St. Clair, Dade, Lawrence, Barry, Hickory, Polk, Christian, Stone, Taney, Dallas, Webster, Douglas, Ozark, Laclede, Wright, Pulaski, Texas, Howell, Phelps, Dent, Shannon and Oregon. Jackson County.
Montana | Counties of Yellowstone, Beaverhead, Big Horn, Blaine, Broadwater, Carbon, Carter, Cascade, Chouteau, Custer, Daniels, Dawson, Deer Lodge, Fallon, Fergus, Flathead, Gallatin, Garfield, Glacier, Golden Valley, Granite, Hill, Judith Basin, Lake, Lewis & Clark, Liberty, Lincoln, McCone, Madison, Meagher, Mineral, Missoula, Musseshell, Park, Petroleum, Phillips, Pondera, Powell, Prairie, Ravalli, Roosevelt, Rosebud, Sanders, Silver Bow, Stillwater, Sweet Grass, Teton, Tool, Treasure, Valley, Wheatland, Wibaux and Yellowstone National Park.
New Jersey | Counties of Middlesex, Union, Monmouth, Mercer and Somerset. Bergen County. Essex County. Passaic County.
New Mexico | Bernalillo.
Nevada | Washoe.
New York | Albany County. Bronx County. Erie County. Kings County. Monroe County. New York City/County. Onandaga County. Peekskill County. Queens County.
North Carolina | Counties of Durham, Wake, Orange, Granville, and Vance.
Ohio | Hamilton County.
Oklahoma | Oklahoma County.
Pennsylvania | City of Philadelphia. Lehigh County. Allegheny County. York County.
Puerto Rico | Humacao. Lares and Quebradillas Health Region. Gurabo and Caguas Health Region. Western Region-Anasco, Cabo Rojo, Guanica, Hormigueros, Isabela, Lajas, Las Marias, Maricao, Mayaguez, Moco, Sabana Grande, San German and San Sebastian.
Rhode Island | Counties of Providence, Bristol, Kent, Newport and Washington.
South Carolina | Fairfield County. Richland County. Sumter County.
Texas | Bexar County. Dallas County. Houston County. Tarrant County. Travis County.
Utah | Salt Lake County.
Vermont | Chittenden County.
Virginia | Charlottesville County.
Washington | King County. Yakima County.
Wisconsin | Counties of Adams, Calumet, Columbia, Dane, Dodge, Fond du Lac, Grant, Green, Green Lake, Iowa, Jefferson, Juneau, Lafayette, Marquette, Richland, Rock, Sauk, Sheboygan, Waupaca, Waushara and Winnebago, Milwaukee County.

Funding Priorities and/or Preferences: Preference for funding will be given to projects that offer comprehensive primary care and support services to underserved people living with HIV and AIDS.

Estimated Amount of this Competition: $80,030,226.

Estimated Number of Awards to be Made: 108.

Estimated Project Period: 3 years.

CFDA Number: 93.918A.

Application Availability Date: June 19, 2000.

Letter of Intent: N/A.

Application Deadline: October 2, 2000.

Projected Award Date: January 1, 2001 and July 1, 2001.

Program Contact Person: Lois Eldred.

Phone Number: 301 443-3327.

E-mail: leldred@hrsa.gov

Funding for Early Intervention Services Grants: New Geographic Areas 93.918B.

Legislative Authority: PHS Act, Public Law 104-146, Ryan White Comprehensive AIDS Resources Emergency Act Amendments of 1996.

Purpose: The purpose of Title III funding is to provide, on an outpatient basis, high quality early intervention services/primary care to individuals with HIV infection. This is accomplished by increasing the present capacity and capability of eligible ambulatory health service entities. These expanded services become a part of a continuum of HIV prevention and care for individuals who are at risk for HIV infection or are HIV infected. All Title III programs must provide: HIV counseling and testing; counseling and education on living with HIV; appropriate medical evaluation and clinical care; and other essential services such as oral health care, outpatient mental health services and nutritional services, and appropriate referrals for specialty services.

Eligibility: Eligible applicants are public or nonprofit private entities that are 330 health centers, grantees funded under section 1001 regarding family planning, comprehensive hemophilia diagnostic and treatment centers, Federally qualified health centers, or nonprofit private entities that provide comprehensive primary care services to populations at risk of HIV disease.

Funding Priorities or Preferences: In awarding these grants, preference will be given to approved/ unfunded applicants who submitted an application for funding in FY 2000 and to applicants who previously received Title III planning grants. Preference for funding may also be given to applicants which help to achieve an equitable geographic distribution of programs across all States and Territories, especially programs that provide services in rural or underserved communities where the HIV/AIDS epidemic is increasing.

Estimated Amount of this Competition: $26,100,000.

Estimated Number of Awards to be Made: 87.

Estimated Project Period: 3 years.

CFDA Number: 93.918B

Application Availability Date: April 16, 2001.

Letter of Intent: N/A.

Application Deadline: July 16, 2001.

Projected Award Date: September 28, 2001.

Program Contact Person: Lois Eldred.

Phone Number: 301 443-0735.

E-Mail Address: leldred@hrsa.gov

Funding for Early Intervention Services Planning Grants 93.918C

Legislative Authority: PHS Act, Public Law 104-146, Ryan White Comprehensive AIDS Resources Emergency Act Amendments of 1996.

Purpose: The purpose of this grant program is to support communities and health care service entities in their planning efforts to develop a high quality and broad scope of primary health care services for people in their service areas who are living with HIV or at risk of infection. Applications must propose planning activities which will lead to the establishment of comprehensive outpatient HIV primary care services. This grant program supports activities of the planning process and does not fund any service delivery or patient care.

Eligibility: Eligible applicants must be public or nonprofit private entities that are, or intend to become, eligible to apply for the Title III Early Intervention Services grant. Applicants for these funds cannot be current Ryan White Title III Early Intervention Service Program grant recipients and must be located in rural or underserved communities where HIV primary health care resources remain insufficient to meet the need for services or plan for such services.

Funding Priorities and/or Preferences: In awarding these grants, preference will be given to applicants located in rural or underserved areas where emerging or ongoing HIV primary health care needs have not been adequately met.

Estimated Amount of this Competiton: $1,700,000.

Estimated Number of Awards to be Made: 34.

Estimated or Average Size of Each Award: See the application guidance materials.

Estimated Project Period: 1 year.

CFDA Number: 93.918C.

Application Availability Date: February 5, 2001.

Letter of Intent Deadine: N/A.

Application Deadline: June 1, 2000.

Projected Award Date: September 30, 2001.

Program Contact Person: Andrew Kruzich.

Phone Number: 301 443-0759.

E-Mail: akruzich@hrsa.gov

Funding for Early Intervention Services Planning Grants (CBC) 93.918D

Legislative Authority: PHS Act, Public Law 104-146, Ryan White Comprehensive AIDS Resources Emergency Act Amendments of 1996.

Purpose: The purpose of this grant program is to support communities and health care service entities in their planning efforts to develop a high quality and broad scope of primary health care services for people in their service areas who are living with HIV or at risk of infection. Applications must propose planning activities which will lead to the establishment of comprehensive outpatient HIV primary care services. This grant program supports activities of the planning process and does not fund any service delivery or patient care.

Eligibility: Eligible applicants must be public or nonprofit private entities that are, or intend to become, eligible to apply for the Title III Early Intervention Services grant. Applicants for these funds cannot be current Ryan White Title III Early Intervention Service Program grant recipients unless they are propose to open a new site in their current service area or in a new service area to serve communities of color highly impacted by HIV/AIDS. Applicants must also be organizations indigenous to the community of color which is defined as “a community-based or public organization local to and supported by the community of color population proposed to be served.”

Funding Priorities and/or Preferences: In awarding these grants, preference will be given to applicants located in rural or underserved areas where there are many HIV+ community of color populations and ongoing HIV primary health care needs have not been adequately met. As indicated above, preference will also be given to applicants that are not currently Ryan White Title III Early Intervention Service Program grant recipients.

Estimated Amount of this Competition: $3,000,000.

Estimated Number of Awards to be Made:60.

Estimated or Average Size of Each Award: See the application guidance materials.

Estimated Project Period: One year with possibility of second year transition grant.

CFDA Number: 93.918D.

Application Availability Date: February 5, 2001.

Letter of Intent: N/A.

Application Deadline: June 1, 2001.

Projected Award Date: September 30, 2001.

Program Contact Person: Andrew Kruzich.

Phone Number: 301 443-0759.

E-Mail: akruzich@hrsa.gov

Ryan White Title IV: Existing Geographic Areas 93.153A

Legislative Authority: Section 2671 of the Public Health Service Act, 42 U.S.C. 300FF-51—330FF-67.

Purpose: The purpose of the Title IV funding is to improve access to primary medical care, research, and support services for children, youth, women and families infected with HIV. Funded projects will link clinical research and other research with comprehensive care systems, and improve and expand the coordination of a system of comprehensive care for women, infants, children and youth who are infected/affected by HIV. Funds will be used to support programs that: (1) Cross established systems of care to coordinate service delivery, HIV prevention efforts, and clinical research and other research activities; and (2) address the intensity of service needs, high costs, and other complex barriers to comprehensive care and research experienced by underserved at-risk and limited populations. Activities under these grants should address the goals of enrolling and maintaining clients in HIV primary care; increasing client access to research by linking development and support of comprehensive, community-based and family centered care infrastructures, and emphasizing prevention within the care system particularly the prevention of perinatal HIV transmission.

Eligibility: Eligible organizations are public or private non-profit entities that provide or arrange for primary care. Applicants are limited to currently funded Title IV programs whose project periods expire in FY 2001 and new organizations proposing to serve the same populations currently being served by these existing projects. These areas are:

State | Areas
AZ | Phoenix.
CA | Los Angeles.
CO | Denver.
FL | Jacksonville. Tampa.
GA | Atlanta.
MO | St. Louis.
NY | New York City (except Northern Manhattan). Albany. Bronx. Brooklyn.
NV | Las Vegas.
NC | Washington.
TN | Memphis.
TX | Dallas.
WI | Milwaukee.

Funding Priorities and/or Preferences: Preference for funding will be given to projects that support a comprehensive, coordinated system of HIV care serving children, youth, women and families and are linked with or have initiated activities to link with clinical trials or other research.

Estimated Amount of this Competition: $12,149,255.

Estimated Number of Awards to be Made: 16.

Estimated or Average Size of Each Award: See the application guidance materials.

Estimated Project Period: 3 years.

CFDA Number: 93.153A.

Application Availability Date: December 18, 2000.

Letter of Intent Deadline: N/A.

Application Deadline: April 2, 2001.

Projected Award Date: August 1, 2001.

Program Contact Person: Lydia Soto-Torres, MD.

Phone Number: 301 443-9051.

E-Mail: lsoto-torres@hrsa.gov

Ryan White Title IV: New Geographic Areas 93.153B

Legislative Authority: Section 2671 of the Public Health Service Act, 42 U.S.C. 300FF-51—330FF-67.

Purpose: Organizations should be able to demonstrate expertise in the coordination or provision of comprehensive medical and social services to children, youth, women and families. The purpose of the Title IV funding is to improve access to primary medical care, research and support services for children, youth, women and families infected with HIV. Funded projects will link clinical research and other research with comprehensive care systems, and improve and expand the coordination of a system of comprehensive care for women, infants, children and youth who are infected/affected by HIV. Funds will be used to support programs that: (1) cross established systems of care to coordinate service delivery, HIV prevention efforts, and clinical research and other research activities; and (2) address the intensity of service needs, high costs, and other complex barriers to comprehensive care and research experienced by underserved, at-risk and limited populations. Activities under these grants should address the goals of: enrolling and maintaining clients in HIV primary care; increasing client access to research by linking HIV/AIDS clinical research trials and activities with comprehensive care; fostering the development and support of comprehensive, community-based and family centered care infrastructures; and emphasizing prevention within the care system particularly the prevention of perinatal HIV transmission

Eligibility: Eligible organizations are public or private nonprofit entities that provide or arrange for primary care. Applicants are limited to applicants in geographic areas where the HIV/AIDS epidemic is increasing among women, children and adolescents and where other resources targeted to these populations are limited or non-existent. Applications to serve the geographic areas listed below are NOT eligible for funding:

State | Areas
AL | Birmingham.
AK | Pine Bluff.
CA | Oakland. Fresno. San Diego. San Francisco.
CT | Bridgeport, New Haven, Stamford, Hartford.
DC | Statewide.
FL | Orlando. Ft Lauderdale. Miami. Palm Beach.
IL | Chicago.
LA | New Orleans. Baton Rouge.
MA | Boston. Brockton, New Bedford, Springfield, Worcester.
MD | Statewide.
MI | Detroit.
NH | Statewide.
NJ | Statewide.
NY | Queens/Elmhurst. New York City/Northern Manhattan. New York City/Lower Manhattan & Staten Island. Stonybrook/Suffolk.
NC | Charlotte. Asheville.
OH | Columbus.
PA | Philadelphia.
PR | San Juan.
RI | Statewide.
SC | Columbia.
TX | Ft. Worth. Houston. San Antonio.
WA | Seattle.

Funding Priorities and/or Preferences: Preference for funding may be given to applicants which help to achieve an equitable geographical distribution of programs across all States and Territories, especially programs that provide services in rural or underserved communities where the HIV/AIDS epidemic is increasing.

Estimated Amount of This Competition: $1,000,000.

Estimated Number of Awards To Be Made: 5.

Estimated or Average Size of Each Award: See the application guidance materials.

Estimated Project Period: 3 years.

CFDA Number: 93.153B.

Application Availability Date: 12/18/00.

Letter of Intent Deadline: Not applicable.

Application Deadline: April 2, 2001.

Projected Award Date: August 1, 2001.

Program Contact Person: Lydia Soto-Torres, MD.

Phone Number: (301) 443-9051.

E-Mail: lsoto-torres@hrsa.gov.

Ryan White Title IV for Adolescent Services 93.153C

Legislative Authority: Section 2671 of the Public Health Service Act, 42 U.S.C. 300FF-51—330FF-67.

Purpose: The purpose of this initiative is to foster and expand systems of health care and social support services for youth (age 13-24) at risk for or infected with HIV in order to identify infected youth and enroll them in HIV primary care. Grantees will identify additional HIV infected youth and develop, coordinate and provide support services to enroll and maintain them in primary medical care. Adolescent clients should be enrolled into care early in the spectrum of disease and managed throughout the infection. In partnership with other Ryan White funded programs or other agencies, applicants will integrate youth services into existing systems of care to provide access to comprehensive, coordinated primary care, research and social support services.

Eligibility: Eligible organizations are public or private nonprofit entities that provide or arrange for primary care.

Funding Priorities and/or Preferences: Priority will be given to applicants with a history of working with youth, especially youth infected with HIV. Priority will be given to projects proposed in geographic areas where epidemiologic data demonstrate high numbers of infected youth. Preference will be given to currently funded adolescent programs that have enrolled significant numbers of HIV infected youth into a primary care system during the previous project period.

Estimated Amount of This Competition: $1,973,000.

Estimated Number of Awards To Be Made: 5.

Estimated or Average Size of Each Award: See the application guidance materials.

CFDA Number: 93.153C.

Application Availability Date: 12/18/2000.

Letter of Intent Deadline: not applicable.

Application Deadline: 04/02/01.

Projected Award Date: 08/01/01.

Program Contact Person: Lydia Soto-Torres, MD.

Phone Number: 301 443-9051.

E-Mail: lsoto-torres@hrsa.gov.

Maternal and Child Health Bureau

Genetic Services, Improving Health Of Children: Implementation of the State Grants for the Integration of Programs and their Information Systems 93.110A

Legislative Authority: Social Security Act, Title V, 42 U.S.C. 701.

Purpose: The purpose of this grant activity is to provide support for implementation activities to grantees who participated in the FY 1999 Genetic Services Branch's (GSB) “Planning Grants for State Newborn Screening Efforts and Infrastructure Development.” Specifically, these grants will fund the implementation of State Plans for integrated state information systems around newborn genetic screening developed under those planning grants. The ultimate purpose is to allow States to be able to provide preventive health data for public health functions and individual providers for improved clinical decision-making at the point of service delivery. States funded by this initiative must build on their planning grant activity and address the technical obstacles, legal barriers, partnerships required for the initiative, sustainability of the projects beyond Federal funding, and a plan for program evaluation.

Eligibility: 42 CFR Part 51a.3.

Funding Priorities and/or Preference: State health agencies with a previous GSB grant under, “Planning Grants for State Newborn Screening Efforts and Infrastructure Development.”

Review Criteria: Final criteria are included in the application kit.

Estimated Amount of This Competition: $1,500,000.

Estimated Number of Awards: 5 to 7 States.

Estimated or Average Size of Each Award: See the application guidance materials.

Estimated Project Period: 3 years.

CFDA Number: 93.110A.

Application Availability Date: December 15, 2000.

Letter of Intent Deadline: January 15, 2001.

Application Deadline: February 28, 2001.

Projected Award Date: June 1, 2001.

Program Contact Person: Michele A. Lloyd-Puryear, M.D., Ph.D.

Phone Number: 301 443-1080.

E-Mail: Cdiener@hrsa.gov

Genetic Services—Developing Models for the Use of New and Evolving Technology Within Newborn Screening Programs 93.110A

Legislative Authority: Social Security Act, Title V, 42 U.S.C. 701.

Purpose: The purpose of this grant activity is to fund two projects that will address issues confronting newborn genetic screening programs that have emerged from the use of new and evolving technologies such as DNA-based and tandem mass technology within these newborn screening programs. One project will identify models and materials for addressing the financial, ethical, legal and social issues surrounding the use of this new technology. The other project will identify models and materials for addressing the clinical validity and utility of this new technology within newborn screening programs. All projects must also address the assurance of informed consent, patient privacy rights, and protection against discrimination. It is proposed that the projects utilize the recommendations developed by the Newborn Screening Task Force, Serving the Family: From Birth to the Medical Home, Newborn Screening: A Blueprint for the Future: Recommendations from the Newborn Screening Task Force. It is expected that the projects will develop models and materials for the MCHB and for State newborn genetic screening programs.

Eligibility: 42 CFR Part 51a.3.

Funding Priorities and/or Preference: None.

Review Criteria: Final criteria are included in the application kit.

Estimated Amount of This Competition: $600,000.

Estimated Number of Awards: 2 States.

Estimated Project Period: 3 years.

CFDA Number: 93.110A.

Application Availability Date: December 15, 2000.

Letter of Intent Deadline: January 15, 2001.

Application Deadline: February 28, 2001.

Projected Award Date: June 1, 2001.

Program Contact Person: Michele A. Lloyd-Puryear, M.D., Ph.D.

Phone Number: 301 443-1080.

E-Mail: Cdiener@hrsa.gov

Genetic Services, State Development Grants for Newborn Screening Efforts and Infrastructure Development 93.110A

Legislative Authority: Social Security Act, Title V, 42 U.S.C. 701.

Purpose: The purpose of these development grants is to facilitate collaborative efforts and the development of integrated state information systems around newborn genetic screening. The grant activity would support the development of plans for: (1) The integration of the newborn genetic screening program with other points of early identification of children with genetic conditions and special health needs, (2) the integration of those systems of early identification with systems of early intervention, (3) the retrieval of information from State newborn genetic screening programs by private sector primary care providers, (if allowed by legislation), and (4) the facilitation of collaborative efforts among public health agency entities and between public health agencies and the private sector around newborn genetic screening.

Eligibility: 42 CFR Part 51a.3.

Funding Priorities and/or Preference: Community/State agency partnerships in coalition with public and private community-based providers.

Review Criteria: Final criteria are included in the application kit.

Estimated Amount of This Competition: $1,250,000.

Estimated Number of Awards: 15 States.

Estimated or Average Size of Each Award: See the application guidance materials.

Estimated Project Period: 2 years.

CFDA Number: 93.110A.

Application Availability Date: December 15, 2000.

Letter of Intent Deadline: January 15, 2001.

Application Deadline: February 28, 2001.

Projected Award Date: June 1, 2001.

Program Contact Person: Michele A. Lloyd-Puryear, M.D., Ph.D.

Phone Number: 301 443-1080.

E-Mail: Cdiener@hrsa.gov

Nationwide Blood Lead and Erythrocyte Protoporphyrin (EP) Proficiency Testing Program 93.110AA

Legislative Authority: Social Security Act, Title V, 42 U.S.C. 701.

Purpose: The purpose of this program is to improve nationwide the performance of laboratories which provide erythrocyte protoporphyrin (EP) screening tests and blood lead determinations for childhood lead poisoning prevention programs and, on request provide technical assistance and consultation to health care programs and providers responsible for the treatment and management of children and adults with elevated blood lead levels (EBBL). Accurate, timely EP and blood lead testing are critical to the prevention, diagnosis, treatment and management of children and adults with EBBL. The applicant organization must demonstrate: (1) The capacity to prepare, distribute and process proficiency testing samples for more than 400 participating laboratories, (2) the ability to remain current and knowledgeable in response to advancements in blood lead collection and testing technology, and (3) competence in the provision, as requested, of consultation and technical assistance nationwide to laboratories, programs and providers responsible for the delivery of health and health-related services to at-risk populations.

Eligibility: 42 CFR Part 51a.3.

Funding Priorities and/or Preferences: None.

Review Criteria: Final criteria are included in the application kit.

Estimated Amount of This Competition: $250,000.

Estimated Number of Awards: 1.

Estimated Project Period: 1 year.

CFDA Number: 93.110AA.

Application Availability Date: July 14, 2000.

Application Deadline: September 15, 2000.

Projected Award Date: January 1, 2001.

Program Contact Person: Stuart Swayze.

Phone Number: 301 443-2917.

E-Mail: sswayze@hrsa.gov

Integrated Health and Behavioral Health Care for Children, Adolescents, and Their Families 93.110AF

Legislative Authority: Social Security Act, Title V, 42 U.S.C. 701.

Purpose: These two-year planning grants are designed to initiate and formalize a working relationship among community resources, in order to detail arrangements for establishing an integrated program of health service delivery for children, adolescents and their families, in a targeted area with a total population of 100,000 to 250,000. The combined services are to include physical and psychosocial primary health care, comprehensive mental health services and substance abuse prevention and treatment services. The plan that is produced is to include attention to organizational structure, staffing, facilities, information systems including protection of confidentiality and fiscal arrangements.

Eligibility: 42 CFR Part 51a.3.

Funding Priorities and/or Preferences: None.

Review Criteria: Final criteria are included in the application.

Estimated Amount of This Competition: $200,000.

Estimated Number of Awards: 4.

Estimated or Average Size of Each Award: See the application guidance materials.

Estimated Project Period: 2 years.

CFDA Number: 93.110AF.

Application Availability: November 29, 2000.

Letter of Intent Deadline: December 21, 2000.

Application Deadline: January 31, 2001.

Projected Award Date: May 1, 2001.

Program Contact Person: Sue Martone.

Phone Number: 301 443-4996.

E-Mail: smartone@hrsa.gov

Innovative Models to Analyze and Address Racial, Ethnic, and Geographic Disparities in Maternal and Child Health Outcomes 93.110AJ

Legislative Authority: Social Security Act, Title V, 42 U.S.C. 701.

Purpose: Racial, ethnic, and geographic disparities in maternal and child health outcomes continue to exist. The Maternal and Child Health Bureau is committed to identifying strategies for reducing the disparities. These two-year grants are designed to develop innovative models in the States to analyze and then address these disparities. The grants would cover both the analysis of data, and the development of a model program for addressing disparities. The collection, analysis, and presentation of data should serve as the basis for the implementation of a model program. Emphasis should be placed on innovative models both in terms of analysis and program implementation. Examples of grant activities could include: (1) Conducting trend analyses on maternal and child health outcomes for the purposes of needs assessments; (2) using data linkages and data sharing to obtain and analyze new information on disparities for the purposes of program development; or (3) innovative uses of geographic information systems for targeting vulnerable populations with plans for initiatives to reduce disparities.

Eligibility: 42 CFR Part 51a.3.

Funding Priorities or Preferences: Any State or Jurisdiction or their designees.

Review Criteria: Final criteria are included in the application.

Estimated Amount of This Competition: $325,000 annually for two years.

Estimated Number of Awards to be Made: 4-6.

Estimated or Average Size of Each Award: See the application guidance materials.

Estimated Project Period: 2 years.

CFDA Number: 93.110AJ.

Application Availability Date: December 4, 2000.

Letter of Intent Deadline: January 2, 2001.

Application Deadline: February 5, 2001.

Projected Award Date: May 1, 2001.

Program Contact Person: Dr. Michael Kogan.

Phone Number: 301 443-8041.

E-Mail: mkogan@hrsa.gov

Integrated Comprehensive Women's Health Services in State MCH Programs 93.110AK

Legislative Authority: Social Security Act, Title V, 42 U.S.C. 701

Purpose: The purpose of this program is to expand capacity in State MCH programs to improve women's health by providing a focal point for women's health and establishing linkages and building partnerships with community-based organizations, academic institutions, and federal agencies. This focal point will also identify gaps and establish an infrastructure for women's health services. Linkages will be established across programs, e.g., family planning, breast and cervical cancer, domestic violence, chronic disease, perinatal health, mental health, etc. The resulting integrated and coordinated system of care will provide comprehensive and continuous health services to women of reproductive age in general, as well as to those women who are pregnant or who have recently delivered to improve the overall health of women, their infants and families.

Eligibility: Any public or private entity, including an Indian tribe or tribal organization (as defined at 25 U.S.C.450b) is eligible to apply.

Funding Priorities or Preferences: State/Territorial MCH Title V agencies, tribal health agencies or their designees (details will be given in the application guidance). There may be only one application per State.

Review Criteria: Final criteria are included in the application kit.

Estimated Amount of This Competition: $800,000.

Estimated Number of Awards to be Made: 8.

Estimated or Average Size of Each Award: See the application guidance materials.

Estimated Project Period: 3 years.

CFDA Number: 93.110 AK.

Application Availability Date: February 1, 2001.

Letter of Intent Deadline: February 23, 2001.

Application Deadline: March 23, 2001.

Projected Award Date: July 1, 2001.

Program Contact Person: Lisa King.

Phone Number: (301) 443-9739.

E-Mail: lking@hrsa.gov

Assuring Adequate Health Insurance for Children with Special Health Care Needs (CSHCN) 93.110C

Legislative Authority: Social Security Act, Title V, 42 U.S.C. 701

Purpose: This initiative will provide national leadership to assure that by the year 2010, all families of CSHCN will have adequate private and/or public insurance to pay for the services they need. Three key action steps have been identified to accomplish this objective: (1) Expand insurance for CSHCN without coverage; (2) assure access to services for insured CSHCN; and (3) strengthen the financing and reimbursement system.

Two cooperative agreements will engage in critical activities to achieve and monitor this objective:

• One cooperative agreement will focus on policy analysis of national and state legislative proposals to expand or improve health insurance to CSHCN; analysis of multiple national data sets to provide relevant policy information and monitor access to care for CSHCN in the public and private sector; and provide technical support to States on Medicaid and Child Health Improvement Program proposals impacting CSHCN.

• The second cooperative agreement will support the development and dissemination of financing strategies to assure adequate reimbursement for managed care organizations and providers. This includes analyzing the impact of various reimbursement methodologies on provider networks, access to care and risk selection; and developing partnerships with key stakeholders on financing care for CSHCN, especially in managed care.

Eligibility: 42 CFR Part 51a.3.

Funding Priorities or Preferences: Public or nonprofit private entities involved in the study of insurance coverage and financing strategies for children with special health care needs.

Review Criteria: Final criteria are included in the application kit.

Estimated Amount of This Competition: $725,000.

Estimated Number of Awards: 2.

Estimated Project Period: 4 Years.

CFDA Number: 93.110C.

Application Availability Date: December 1, 2000.

Letter of Intent Deadline: January 2, 2001.

Application Deadline: February 2, 2001.

Projected Award Date: June 1, 2001.

Program Contact Person: Lynda E. Honberg.

Phone Number: 301 443-2370.

E-Mail: Lhonberg@hrsa.Gov

Healthy and Ready to Work (HRTW) Services for Children and Youth with Special Health Needs (CYSHN) 93.110D

Legislative Authority: Social Security Act, Title V, 42 U.S.C. 701.

Purpose: Establish 5 State HRTW model programs with funds targeted to prepare: (1) Youth and adolescents; (2) families; and (3) service systems for the transition of CYSHN to adult health care and related services, employment and independence. The funded models must assure that services go beyond medical rehabilitation to include engaged dialogue and counseling with CYSHN and their families that supports the setting of future goals and achieving ambitions for education, employment and independence. This should be provided developmentally from early childhood through age 25, with discussions and goal setting appropriate to the child/adolescent/youth's age and maturity level and in a culturally competent context and setting. States will be required to confront the duplication of effort and lack of coordination that currently exists among state agencies serving this population. Services should include, but not be limited to: long-term health and disability management; access to independent living and personal assistance services (when not paid for by Medicaid); pre-vocational counseling and training; oral health; preparation of families for a changing role as CYSHN transition; and capacity building and training of the adult health care provider system to receive transitioning CYSHN.

Eligibility: 42 CFR Part 51a.3

Funding Priorities or Preferences: State Title V Children with Special Health Care Needs programs or their designees (details will be given in the application guidance).

Review Criteria: Final criteria are included in the application kit.

Estimated Amount of This Competition: $1,500,000.

Estimated Number of Awards: 5.

Estimated or Average Size of Each Award: See the application guidance materials.

Estimated Project Period: 4 years.

CFDA Number: 93.110D.

Application Availability Date: December 1, 2000.

Letter of Intent Deadline: January 2, 2001.

Application Deadline: February 23, 2001.

Projected Award Date: June 30, 2001.

Program Contact Person: Thomas L. Gloss.

Phone Number: 301 443-2370.

E-Mail: tgloss@hrsa.gov

Integrated Services 93.110F

Legislative Authority: Social Security Act, Title V, 42 U.S.C. 701

Purpose: This initiative will support grants to states in partnership with communities to establish community integrated service systems for children with special health care needs (CSHCN), birth-8, and their families. States will be required to document coordination of effort among at least three of the six agencies of the State Interagency Coordinating Council (SICC) providing services to children. This must include common eligibility/enrollment application materials, shared data systems, blended funding, and a single coordinator with whom a family communicates. Applications must include documentation of partnerships with at least five communities which will model the community integrated service systems developed through this project.

Eligibility: 42 CFR Part 51a.3.

Funding Priorities and/or Preferences: None.

Review Criteria: Final criteria are included in the application kit.

Estimated Amount of This Competition: $700,000.

Estimated Number of Awards: 4-6.

Estimated or Average Size of Each Award: See the application guidance materials.

Estimated Project Period: 4 years.

CFDA Number: 93.110F.

Application Availability Date: November 15, 2000.

Letter of Intent Deadline: December 15, 2000.

Application Deadline: January 22, 2001.

Projected Award Date: June 1, 2001.

Program Contact Person: Irene Forsman, M.S., R.N.

Phone Number: 301 443-2370.

E-Mail: iforsman@hrsa.gov

Medical Home Development Grants 93.110F

Legislative Authority: Social Security Act, Title V, 42 U.S.C. 701

Purpose: This initiative will support 3 year grants to develop a model of statewide medical home implementation for children with special health care needs (CSHCN) and their families. These models will serve as mentors for other States in the national delivery of comprehensive health care to children with special health care needs and their families. Projects will provide for coordination with the Title V needs assessment activities related to medical home, and project outcomes and evaluation will be incorporated into ongoing activities of the State Title V Block Grant.

Eligibility: 42 CFR 51a.3.

Funding Priorities or Preferences: Projects that can demonstrate statewide provision of medical homes for children with special health care needs.

Review Criteria: Final criteria are included in the application kit.

Estimated Amount of This Competition: $888,371.

Estimated Number of Awards: 6.

Estimated or Average Size of Each Award: See the application guidance materials.

Estimated Project Period: 3 Years.

CFDA Number: 93.110F.

Application Availability Date: August 15, 2000.

Letter of Intent Deadline: September 15, 2000.

Application Deadline: October 16, 2000.

Projected Award Date: March 31, 2001.

Program Contact Person: Tom Castonguay.

Phone Number: 301 443-2370.

E-mail: tcastonguay@hrsa.gov.

Health Care Information and Education for Families of Children with Special Health Care Needs 93.110S

Legislative Authority: Social Security Act, Title V, 42 U.S.C. 701.

Purpose: The purpose of this competition is to support activities which will assist families and states with the implementation of a national network of State based centers comprised of families and professionals that will provide:

a. Health care information and education to families of children with special health care needs; and

b. Information that will assist the Division of Services for Children with Special Health Needs (DSCSHN ) integrate these activities/outcomes into the Division's 2010 Strategic Planning activities.

Applicants must address the broad population of children with special health care needs by MCHB.

One Cooperative Agreement for a national organizational structure which will provide technical assistance, coordinate data collection nationwide, provide national training, related materials and other support as deemed necessary to all current state-based information centers and assist other states in planning for or implementing new state-based information centers. In addition, the Cooperative Agreement will be responsible for providing requested data concerning these state-based centers to DSCSHN for program planning purposes.

Funding is contingent upon the availability of funds.

Eligibility: 42 CFR Part 51a.3.

Funding Priorities and/or Preferences: Nationally recognized family organizations with clearly demonstrated national expertise and capacity in addressing health issues related to CSHCN and their families.

Estimated Amount of This Competition: $500,000 per year.

Estimated Number of Awards to be Made: 1.

Estimated Project Period: 4 Years.

CFDA Number: 93.110S.

Application Availability Date: September 11, 2000.

Letter of Intent Deadline: October 16, 2000.

Application Deadline: December 1, 2000.

Projected Award Date: June 1, 2001.

Program Contact Person: Diana Denboba.

Phone Number: 301 443-2370.

E-mail: Ddenboba@HRSA.gov.

Partnership for Information and Communication (PIC) MCH Cooperative Agreements 93.110G

Purpose: To provide cooperative agreements with governmental, professional and private organizations represented by leaders concerned with issues related to maternal and child health and involved in sustaining systems of care and/or providing family support to persons affected by severe illness or injury. Specifically, this program is designed to facilitate the dissemination of new information in a format that will be most useful to them when developing MCH policies and programs in the private and public sectors at local state and national levels, and provides those individuals and organizations with a means of communicating issues directly to the Maternal and Child Health program and to each other. Organizations currently receiving support as part of this cooperative agreement represent State governors and their staffs; State and territorial health officials, nonprofit and/or for-profit managed care organizations and coalitions of organizations promoting the health of mothers and infants, national membership organizations representing survivors of traumatic brain injury (TBI), providers of emergency medical care for children and representing State Emergency Medical Services programs..

Legislative Authority: Social Security Act, Title V, 42 U.S.C. 701.

Eligibility: 42 CFR Part 51a.3. To ensure continuity, membership for the organizations participating in PIC is rotated so that not all project periods coincide. For this year, only national membership organizations representing the following groups will be considered for funding: County health policymakers, municipal health policymakers, and State Head Injury Program Directors.

Funding Priorities and/or Preferences: N/A.

Review Criteria: Final criteria are included in the application kit.

Estimated Amount of This Competition: $800,000.

Estimated Number of Awards: 3.

Estimated or Average Size of Each Award: See the application guidance materials.

Estimated Project Period: 5 years.

Application Availability Date: November 1, 2000.

Letter of Intent Deadline: December 1, 2000.

Application Deadline: January 2, 2001.

Projected Award Date: April 1, 2001.

Program Contact Person: Sue Martone.

Phone Number: 301-443-4996.

E-mail: smartone@hrsa.gov.

Breastfeeding Promotion in Pediatrician's Office Practices 93.110H.

Legislative Authority: Social Security Act, Title V, 42 U.S.C. 701.

Purpose: This grant program is designed to: (1) facilitate preparation of providers of obstetrical and pediatric health care in office settings to effectively promote and manage breastfeeding with the goal to move breastfeeding initiation and duration rates toward the Healthy People 2010 national health objectives; (2) implement strategies to enroll health care providers working with underserved population in breastfeeding promotion, support, and technical assistance programs; and (3) encourage collaborations between obstetrical, pediatric, and primary health care providers at the local, state, and regional levels.

Eligibility: 42 CFR Part 51a.3.

Funding Priorities and/or Preferences: This competition is limited to:

• Nationally recognized organizations with clearly demonstrated national expertise and capacity for addressing breastfeeding promotion, support, and technical assistance issues related to providers of obstetrical and pediatric medical care to consumers and their families; and

• Applicants building upon current breastfeeding promotion and support partnerships with professional organizations and federal agencies.

Review Criteria: Final criteria are included in the application.

Estimated Amount of This Competition: $200,000.

Estimated Number of Awards: 1.

Estimated Project Period: 3 Years.

CFDA Number: 93.110H.

Application Availability Date: January 3, 2001.

Letter of Intent Deadline: March 1, 2001.

Application Deadline: May 1, 2001.

Projected Award Date: June 1, 2001.

Program Contact Person: Carolyn Sharbaugh.

Phone Number: 301 443-9709.

E-mail: csharbaugh@hrsa.gov

Partners in Program Planning for Adolescent Health 93.110N

Legislative Authority: Social Security Act, Title V, 42 U.S.C. 701.

Purpose: The goal of this partnership with a group of national, membership organizations is to promote an adolescent health agenda among key professional disciplines likely to have encounters with adolescents and their families. It promotes the development of organizational infrastructure at national and state levels that can effectively address adolescent health issues; enhances intra- and inter-disciplinary communication, education and training needs relevant to adolescent health; and encourages the growth of collaborative effort across disciplines and professional organizations on behalf of adolescent health and well-being. In particular, member organizations will be expected to use the twenty critical adolescent health objectives contained in Healthy People 2010 as a framework for addressing selected adolescent health issues, based on the disciplinary expertise of the organization, and to contribute to States' efforts to improve the health status of adolescents. The organizational collaborative will approach its efforts from the perspective of positive youth development.

Eligibility: 42 CFR Part 51a.3.

Funding Priorities and/or Preferences: National membership organizations representing the following disciplines: Health Education, Law, Medicine, Nutrition/Dietetics, Oral Health, Psychology, Psychiatry, Social Work, and Youth Services. Organizations representing a coalition of professional membership organizations affiliated with the specific discipline.

Review Criteria: Final criteria are included in the application.

Estimated Amount of This Competition: $500,000.

Estimated Number of Awards: 5.

Estimated or Average Size of Each Award: See the application guidance materials.

Estimated Project Period: 5 years.

CFDA Number: 93.110N.

Application Availability Date: January 22, 2001.

Letter of Intent Deadline: February 23, 2001.

Application Deadline: April 20, 2001.

Projected Award Date: August 1, 2001.

Program Contact Person: Trina Menden Anglin, M.D., Ph.D.

Phone Number: 301 443-4291.

E-mail: Tanglin@HRSA.GOV

Maternal and Child Health Research Program 93.110RS

Legislative Authority: Social Security Act, Title V, 42 U.S.C. 701.

Purpose: The purpose of this program is to support applied research relating to maternal and child health services, which show promise of substantial contribution in knowledge, that when used in States and communities will result in health and health services improvements.

Eligibility: 42 CFR Part 51a.3.

Funding Priorities and/or Preference: Fifteen priority issues/questions selected from 11 broadly demarcated areas of program concern, and keyed to goals and objectives of the Bureau and HRSA strategic plans, will be given special consideration for funding. The special consideration consists of a 0.5 point adjustment to the priority score assigned to an application when recommended for support by the MCH Research Review Committee. Priority scores range from 1.0 to 5.0, with 1.0 representing the best score, and 5.0, the poorest. The 15 issues/questions selected from the 11 broadly demarcated areas of program concern are detailed in the guidance material contained in the application kit.

Review Criteria: Final criteria are included in the application kit.

Estimated Amount of This Competition: $1,900,000.

Estimated Number of Awards: 10.

Estimated or Average Size of Each Award: See the application guidance materials.

Estimated Project Period: 3 to 5 years.

CFDA Number: 93.110RS.

Application Availability Date: Continuously.

Letter of Intent Deadline: N/A.

Application Deadline: August 1, 2000 & March 1, 2001.

Projected Award Date: January 1, 2001 & July 1, 2001.

Program Contact Person: Gontran Lamberty, Dr.P.H.

Phone Number: 301 443-2190.

E-Mail: glamberty@hrsa.gov

Graduate Medical Education in Obstetrics/Gynecology, Pediatrics and Family Practice in Historically/Predominately Black Medical Schools 93.110TD

Legislative Authority: Social Security Act, Title V, Section 502, 42 U.S.C. 701.

Purpose: The primary purpose of this program is to enhance the education and training of residents in obstetrics, adolescent gynecology, family practice, and/or pediatrics in order to help them provide effective primary care for at-risk, underserved populations in community-based settings, reduce racial and cultural disparities in the health status of these populations, and address the special needs of children, adolescents, and families of African-American and Hispanic-American descent. These grants are also intended to stimulate the interest of high school and undergraduate students from traditionally underserved populations in careers in MCH-related health professions by improving the mentoring skills of residents in these education and training programs. This program is part of a longstanding Health Resources and Services Administration (HRSA) Initiative that is coordinated with other HRSA Bureaus and with HRSA's Office of Minority Health.

Eligibility: 42 CFR Part 51a.3.

Funding Priorities and/or Preference: Preference will be given to Departments of OB/GYN, Pediatrics and Family Medicine in Historically/Predominantly Black medical schools.

Review Criteria: Final criteria are included in the application kit.

Estimated Amount of this Competition: $685,000.

Estimated Number of Awards: 4.

Estimated or Average Size of Each Award: See the application guidance materials.

Estimated Project Period: 5 years.

CFDA Number: 93.110TD.

Application Availability Dated: November 1, 2000.

Letter of Intent Deadline: December 1, 2000.

Application Deadline: February 1, 2001.

Projected Award Date: June 1, 2001.

Program Contact Person: Aaron Favors, Ph.D.

Phone Number: 301 443-0392.

E-Mail: afavors@hrsa.gov

Public Health Training in Maternal and Child Health 93.110TK

Legislative Authority: Social Security Act, Title V, Section 502, 42 U.S.C. 702.

Purpose: The purpose of the Public Health Training in Maternal and Child Health program is to strengthen the Nation's maternal and child health public health system by broadening the leadership base of the current and future MCH workforce. Emphasis will be placed on developing the public health workforce through innovative strategies that address the special educational needs of health professionals who: live in isolated geographic communities; need to enhance or advance their skills while continuing to meet their daily on site work and family responsibilities; or are from underserved or underrepresented populations.

Eligibility: 42 CFR Part 51a.3.

Funding Priorities and/or Preferences: Accredited schools of public health or other public or nonprofit private institutions accredited for the provision of graduate or specialized training in public health which are not currently receiving a grant under the MCH Training in Schools of Public Health grant program.

Review Criteria: Final criteria are included in the application kit.

Estimated Amount of this Competition: $324,000.

Estimated Number of Awards: 2.

Estimated Project Period: 3 Years.

CFDA Number: 93.110TK.

Application Availability Date: September 15, 2000.

Letter of Intent Deadline: October 16, 2000.

Application Deadline: December 15, 2000.

Projected Award Date: June 1, 2001.

Program Contact Person: Nanette Pepper, BSRN, M. Ed.

Phone Number: 301 443-2190.

E-Mail: npepper@hrsa.gov

Long Term Training in Leadership Education in Neurodevelopmental and Related Disabilities (Lend) 93.110TM

Legislative Authority: Social Security Act, Title V, 42 U.S.C. 701.

Purpose: The purpose of the Maternal and Child Health Interdisciplinary Leadership Education in Neurodevelopmental and Related Disabilities (LEND) program is to improve the health status of infants, children, and adolescents with, or at risk for, neurodevelopmental and related disabilities, including mental retardation, neurodegenerative and acquired neurological disorders, and multiple handicaps. The educational curricula emphasize the integration of services supported by State, local agencies, organizations, private providers and communities. The LEND programs will prepare health professionals to assist children and their families to achieve their developmental potentials by forging a community-based partnership of health resources and community leadership.

Eligibility: 42 CFR Part 51a.3.

Funding Priorities or Preferences: Universities with an accredited medical school which have defined working departments providing graduate training in all requisite core disciplines identified in the program elements and requirements for MCH Interdisciplinary Leadership Education for Children with Neurodevelopmental and Related Disabilities. Such agreements may be either with components of the applicant institution or with one or more other institutions of higher learning through formal affiliation agreements. Although multiple institutions and programs may, and are encouraged to participate, the application must be submitted by the university at which the major medical and other health professions schools or departments are located. Programs must already be established in the specialization area for which application is made with documented graduates.

Review Criteria: Final criteria are included in the application kit.

Estimated Amount of This Competition: $10,300,000.

Estimated Number of Awards: 17 to 19.

Estimated or Average Size of Each Award: See the application guidance materials.

Estimated Project Period: 5 years.

CFDA Number: 93.110TM.

Application Availability Date: July 7, 2000.

Letter of Intent Deadline: August 7, 2000.

Application Deadline: October 12, 2000.

Projected Award Date: July 1, 2001.

Program Contact Person: Denise Sofka, M.P.H.

Phone Number: 301 443-0344.

E-Mail: dsofka@hrsa.gov

Continuing Education and Development 93.110TO

Legislative Authority: Social Security Act, Title V, Section 502, 42 U.S.C. 702.

Purpose: Continuing Education and Development (CED) focuses on increasing leadership skills of MCH professionals; facilitating timely transfer and application of new information, research findings and technology related to MCH; and updating and improving the knowledge and skills of health and related professionals in programs serving mothers and children. CED programs will support conduct of short-term, non-degree related courses, workshops, conferences, symposia, institutes, and distance learning strategies and/or development of curricula, guidelines, standards of practice, and educational tools/strategies intended to assure quality health care for the MCH population.

Eligibility: 42 CFR Part 51a.3.

Funding Priorities and/or Preferences: None.

Review Criteria: Final criteria are included in the application kit.

Estimated Amount of This Competition: $300,000.

Estimated Number of Awards: 8-10.

Estimated or Average Size of Each Award: See the application guidance materials.

Estimated Project Period: 1-3 Years.

CFDA Number: 93.110TO.

Application Availability Date: November 1, 2000.

Letter of Intent Deadline: December 1, 2000.

Application Deadline: January 12, 2001.

Projected Award Date: June 1, 2001.

Program Contact Person: Diana L. Rule, M.P.H.

Phone Number: 301 443-2190.

E-Mail: drule@hrsa.gov

Continuing Education and Development Cooperative Agreement to Advance Education and Program/Policy Development in Maternal and Child Health 93.110TP.

Legislative Authority: Social Security Act, Title V, 42 U.S.C. 701.

Purpose: The purpose of the cooperative agreement(s) is to support a national program of continuing education and development (CED) focusing on education, information, and public health policy & programs in maternal and child health. This project will serve as an information/education resource that supports efforts in Title V data collection and analysis to assist in policy and program development and evaluation. Further, this project will provide continuing education and program/policy development efforts to improve standards/guidelines (i.e., Bright Futures); to improve practices/delivery of health care such as nutrition, oral health and mental health services for the MCH population; and support additional MCH program activities through workshops, institutes, seminars, and distance learning ventures.

Eligibility: 42 CFR Part 51a.3.

Funding Priorities or Preferences: None.

Review Criteria: Final criteria are included in the application kit.

Estimated Amount of This Competition: Up to $4,000,000.

Estimated Number of Awards to be Made: Up to 2.

Estimated Project Period: 5 years.

CFDA Number: 93.110TP.

Application Availability Date: November 1, 2000.

Letter of Intent Deadline: December 1, 2000.

Application Deadline: February 1, 2001.

Projected Award Date: July 1, 2001.

Program Contact Person: Carol Galaty.

Phone Number: 301 443-2778.

E-Mail Address: cgalaty@hrsa.gov

Public Policy Analysis and Education Center for Infant and Early Childhood Health 93.110TP.

Legislative Authority: Social Security Act, Title V, 42 U.S.C. 701.

Purpose: The purpose of this Center is to analyze the effects of public policies, regulations, and practices at the community, State, and Federal levels on the health and well-being of infants and young children and their families. The Center's efforts will enhance the knowledge and inform the practices of practitioners and policy and decision-makers regarding the short and long-term consequences of public policies on the health, behavior and well-being of infants and young children. The Center's work will include the development of conceptual models for health and related services as well as analysis of the utility of various indicators of health status and well being for these age groups.

Eligibility: 42 CFR Part 51a.3.

Funding Priorities and/or Preferences: None.

Review Criteria: Final criteria are included in the application.

Estimated Amount of this Competition: $250,000.

Estimated Number of Awards: 1.

Estimated Project Period: 3 years.

CFDA Number: 93.110TP.

Application Availability Date: January 22, 2001.

Letter of Intent Deadline: February 19, 2001.

Application Deadline: March 26, 2001.

Projected Award Date: August 1, 2001.

Program Contact Person: Phyllis E. Stubbs-Wynn, M.D.

Phone Number: (301) 443-4489.

E-Mail: pstubbs@hrsa.gov.

Public Policy Analysis and Education Center for Middle Childhood and Adolescent Health 93.110TP

Legislative Authority: Social Security Act, Title V, 42 U.S.C. 701.

Purpose: The purpose of this Center is to analyze the effects of public policies, regulations and practices at the community, State and Federal levels on the health, safety and well-being of school-aged children, adolescents and their families. As part of its analytical effort, the Center will use the framework of the twenty critical adolescent health objectives contained in Healthy People 2010 as it considers the effects of States' policies on adolescent health status. It will examine the following domains of health and related services for these age groups: content, organization, financing, quality, and accountability. The Center's efforts will enhance the knowledge and inform the practices of practitioners and policy and decision-makers regarding the short and long-term consequences of public policies on the health, behavior and well-being of different populations of school-aged children and adolescents. The Center's work will include the development of conceptual models for health and related services as well as analysis of the utility of various indicators of health status and well-being for these age groups. Given the importance of adolescence to the shaping of adult behavior and health, the Center will include a focus on developmental and institutional transitions between childhood and adolescence and between adolescence and adulthood.

Eligibility: 42 CFR Part 51a.3.

Funding Priorities and/or Preferences: None.

Review Criteria: Final criteria are included in the application.

Estimated Amount of This Competition: $250,000.

Estimated Number of Awards: 1.

Estimated Project Period: 3 years.

CFDA Number: 93.110TP.

Application Availability Date: January 22, 2001.

Letter of Intent Deadline: February 19, 2001.

Application Deadline: March 26, 2001.

Projected Award Date: August 1, 2001.

Program Contact Person: Trina Menden Anglin, M.D., Ph.D.

Phone Number: 301 443-4291.

E-Mail: Tanglin@HRSA.GOV.

Continuing Education/Distance Learning 93.110TQ.

Legislative Authority: Social Security Act, Title V, 42 U.S.C. 701.

Purpose: Alternative education methodologies provide effective and efficient means by which maternal and child health (MCH) professionals can enhance and advance their managerial, analytical, administrative and clinical skills while continuing to meet their daily on-site responsibilities. These functions include assessing need; utilizing data; developing policies and programs; addressing and resolving problems; monitoring progress and evaluating performance. This grant program supports the development, implementation, creative utilization, application and evaluation of distance education opportunities for MCH health professionals. Projects will work collaboratively with each other and the MCH Bureau to provide technical assistance in distance education and technology to the MCH community.

Eligibility: 42 CFR Part 51a.3.

Funding Preferences and/or Priorities: None.

Review Criteria: Final criteria are included in the application kit.

Estimated Amount of Competition: $713,000.

Estimated Number of Awards: 3-4.

Estimated or Average Size of Each Award: See the application guidance materials.

Estimated Project Period: 3 years.

CFDA Number: 93.110TQ.

Application Availability Date: November 1, 2000.

Letter of Intent Deadline: December 1, 2000.

Application Deadline: January 12, 2001.

Projected Award Date: June 1, 2001.

Program Contact Person: Aaron Favors, Ph.D.

Phone Number: 301 443-0392.

E-Mail: afavors@hrsa.gov

Healthy Tomorrows Partnership for Children 93.110V

Legislative Authority: Social Security Act, Title V, 42 U.S.C. 701.

Purpose: The purpose of this program is to support projects for mothers and children that improve access to health services and utilize preventive strategies. The initiative encourages additional support for the private sector and from foundations to form community-based partnerships to coordinate health resources for pregnant women, infants and children.

Eligibility: 42 CFR Part 51a.3.

Matching Requirement: The applicant must demonstrate the capability to meet cost participation goals by securing matching funds for the second through fifth years of the project. The specific requirements are detailed in the application materials.

Funding Priorities and/or Preferences: In the interest of equitable geographic distribution, special consideration for funding will be given to projects from States without a currently funded project in this category. These States are: Alabama, Arkansas, Connecticut, Delaware, Florida, Georgia, Hawaii, Idaho, Indiana, Iowa, Kansas, Louisiana, Mississippi, Missouri, Montana, Nevada, New Hampshire, North Carolina, North Dakota, South Carolina, Texas, Virginia, West Virginia, Wisconsin, Wyoming, American Samoa, Commonwealth of the Northern Mariana Islands, Federated States of Micronesia, Guam, Puerto Rico, Republic of Palau, Republic of the Marshall Islands, and the Virgin Islands.

Review Criteria: Final criteria are included in the application kit.

Estimated Amount of This Competition: $450,000.

Estimated Number of Awards to be Made: Up to 9.

Estimated or Average Size of Each Award: See the application guidance materials.

Estimated Project Period: 5 Years.

CFDA Number: 93.110V.

Application Availability Date: August 1, 2000.

Letter of Intent Deadline: September 1, 2000.

Application Deadline: October 2, 2000.

Projected Award Date: March 1, 2001.

Program Contact Person: Maurice Bryant.

Phone Number: 301 443-2340.

E-Mail: mbryant@hrsa.gov.

Healthy Tomorrows Partnership Cooperative Agreement 93.110VA

Legislative Authority: Social Security Act, Title V, 42 U.S.C. 701.

Purpose: To support activities which improve access and delivery of maternal and child health services through governmental and professional partnerships. Specifically, the program is designed to promote problem-solving approaches which enhance community and provider participation. This provider partnership will encourage private sector and other support for improved coordination of and access to health resources at the community-level for pregnant women, infants and children. Any national membership organization able to demonstrate that it represents a significant group(s) of providers of pediatric services will be considered for funding.

Eligibility: 42 CFR Part 51a.3.

Funding Priorities and/or Preferences: N/A.

Specific program requirements include:

—Analysis of obstacles (issues and contributing factors) to provider participation in the delivery of maternal and child health services to low-income pregnant women and children, as well as involvement in problem-solving at the community level.

—Development of strategies to improve maternal and child health status and systems through collaboration with the Maternal and Child Health Bureau which promote problem solving at the community level; encourage provider participation; and encourage private sector and other support for improved coordination of and access to health resources at the community level.

—Dissemination and effective communication of concerns and information pertaining to the issues and strategies employed to their members and other national organizations.

Review Criteria: Final criteria are included in the application kit.

Estimated Amount of This Competition: Up to $180,000.

Estimated Number of Awards to be Made: 1.

Estimated Project Period: Up to 5 years.

CFDA Number: 93.110VA.

Application Availability Date: April 2, 2001.

Letter of Intent Deadline: May 1, 2001.

Application Deadline: June 1, 2001.

Projected Award Date: September 30, 2001.

Program Contact Person: Maurice Bryant.

Phone Number: 301 443-2340.

E-Mail: mbryant@hrsa.gov.

State Systems Development Initiative (SSDI)—MCH Services Federal Set-Aside Program 93.110W

Legislative Authority: Social Security Act, Title V, Section 502(A)(1) 42 U.S.C. 701.

Purpose: The purpose of the State Systems Development Initiative is to assist State Agency MCH and CSHCN programs in the building of State and community infrastructure that results in comprehensive, community-based systems of care for all children and their families. During this time of government performance results accountability and demand for more accurate program data, the SSDI Program will be very focused. FY 01 applications must concentrate on Title V Block Grant needs assessment, performance and outcome measures, and the core Health Status Indicator #8 regarding Data Capacity. HRSA's strategic goal is “Assure 100% access to health care and zero health disparities for all Americans.” As part of their ongoing needs assessment activities, states will be expected to make vigorous and determined efforts to identify and eliminate health disparities. States will be expected to focus SSDI resources on establishing or improving the data linkages between birth records and (1) infant death certificates, (2) Medicaid eligibility or paid claims files, (3) WIC eligibility files, and (4) newborn screening files; and establishing or improving access to (1) hospital discharge surveys, (2) a birth defects surveillance system, (3) survey of recent mothers at least every two years, and (4) survey of adolescent health and behaviors at least every two years.

Eligibility: 42 CFR 51a.3. Competition is limited to competing renewal applications from the 59 State Title V agencies.

Funding Priorities and/or Preferences: N/A.

Review Criteria: Final criteria are included in the application kit.

Estimated Amount of This Competition: $5,300,000.

Estimated Number of Awards To Be Made: 59.

Estimated or Average Size of Each Award: See the application guidance materials.

Estimated Project Period: 2 years.

CFDA Number: 93.110W.

Application Availability Date: February 13, 2001.

Letter of Intent Deadline: N/A.

Application Deadline: July 13, 2001.

Projected Award Date: September 30, 2001.

Program Contact Person: Jerry Hood, M.A.

Phone Number: 301-443-0870.

E-Mail: jhood@hrsa.gov.

EMSC Implementation 93.127A

Legislative Authority: Public Health Service Act Title XIX, Section 1910, 42 U.S.C. 300W-9.

Purpose: This implementation grant will improve the capacity of a State's EMS program to address the particular needs of children. The implementation grant is used to assist States in integrating research-based knowledge and state-of-the-art systems development approaches into the existing State EMS, MCH, and CSHCN systems, using the experience and products of previous EMSC grantees. The applicant is encouraged to consider activities that: (1) address identified needs within their State EMS system and that lay the groundwork for permanent changes in that system; (2) develop or monitor pediatric EMS capacity; and (3) will be institutionalized within the State EMS system.

Eligibility: States and accredited schools of medicine are eligible applicants.

Funding Priorities or Preferences: None.

Review Criteria: Final criteria are included in the application kit.

Estimated Amount of This Competition: $250,000.

Estimated Number of Awards: 1.

Estimated Project Period: 3 years.

CFDA Number: 93.127A.

Application Availability Date: September 1, 2000.

Letter of Intent Deadline: October 2, 2000.

Application Deadline: November 1, 2000.

Projected Award Date: March 1, 2001.

Program Contact Person: Maria T. Baldi.

Phone Number: 301-443-6192.

E-Mail: mbaldi@hrsa.gov.

EMSC Partnerships 93.127C

Legislative Authority: Public Health Service Act, Title XIX, Section 1910, 42 U.S.C. 300W-9.

Purpose: State partnership grants will fund activities that represent the next logical step or steps to take to institutionalize EMSC within EMS and to continue to improve and refine EMSC. Proposed activities should be consistent with documented needs in the State and should reflect a logical progression in enhancing pediatric capabilities. For example, funding might be used to address problems identified in the course of a previous implementation grant; to increase the involvement of families in EMSC; to improve linkages between local, regional, or State agencies; to promulgate standards developed for one region of the State under previous funding to include the entire State; to devise a plan for coordinating and funding poison control centers; or to assure effective field triage of the child in physical or emotional crisis to appropriate facilities and/or other resources.

Eligibility: States and accredited schools of medicine are eligible applicants.

Funding Priorities or Preferences: None.

Review Criteria: Final criteria are included in the application kit.

Estimated Amount of This Competition: $700,000.

Estimated Number of Awards: 7.

Estimated or Average Size of Each Award: See the application guidance materials.

Estimated Project Period: 3 years.

CFDA Number: 93.127C.

Application Availability Date: September 1, 2000.

Letter of Intent Deadline: October 2, 2000.

Application Deadline: November 1, 2000.

Projected Award Date: March 1, 2001.

Program Contact Person: Maria T. Baldi.

Phone Number: 301 443-6192.

E-Mail: mbaldi@hrsa.gov

EMSC Targeted Issue 93.127D

Legislative Authority: Public Health Service Act, Title XIX, Section 1910, 42 U.S.C. 300W-9.

Purpose: Targeted issue grants are intended to address specific, focused issues related to the development of EMSC knowledge and capacity with the intent of advancing the state-of-the-art, and creating tools or knowledge that will be helpful nationally. Proposals must have well-conceived methodology for analysis and evaluation. Targeted issue priorities have been identified based on the EMSC Five Year Plan. The targeted issue priorities are: cost-benefit analysis related to EMSC, implications of managed care for EMSC, evaluations of EMSC components, models for improving the care of culturally distinct populations, evaluation of systems for provision of emergency health care within day care and/or school settings, and evaluation of family-centered care models. Proposals may be submitted on emerging issues that are not included in the identified priorities. However, any such proposal must demonstrate relevance to the Plan and must make a persuasive argument that the issue is particularly critical.

Eligibility: States and accredited schools of medicine are eligible applicants.

Funding Priorities or Preferences: None.

Review Criteria: Final criteria are included in the application kit.

Estimated Amount of This Competition: $1,200,000.

Estimated Number of Awards: 8.

Estimated or Average Size of Each Award: See the application guidance materials.

Estimated Project Period: 2-3 years.

CFDA Number: 93.127D.

Application Availability Date: September 1, 2000.

Letter of Intent Deadline: October 2, 2000.

Application Deadline: November 1, 2000.

Projected Award Date: March 1, 2001.

Program Contact Person: Cindy Doyle.

Phone Number: 301 443-3888.

E-Mail: cdoyle@hrsa.gov.

Pediatric Injury Surveillance System 93.127J

Legislative Authority: Public Health Service Act, Title XIX, Section 1910, 42 U.S.C. 300W-9.

Purpose: To develop an infrastructure for the purpose of collecting and analyzing information on pediatric injuries to develop effective prevention and treatment strategies. Data collection sites included in the sampling frame will be dispersed throughout the U.S., providing a mechanism to generate national estimates of childhood injury. Data elements contained within the database will be map-able to elements in other national injury registries, allowing large databases to be easily consolidated. A subset of the surveillance data points will include both prehospital and short-term functional status data collected at hospital discharge. Data will be linked to vital statistics records, extending the data collection window and facilitating research questions associated with the continuum of care among injured children.

Eligibility: States and accredited schools of medicine.

Funding Priorities or Preferences: None.

Review Criteria: Final criteria are included in the application kit.

Estimated Amount of This Competition: $500,000.

Estimated Number of Awards: 1.

Estimated Project Period: 3 years.

CFDA Number: 93.127J.

Application Availability Date: February 1, 2001.

Letter of Intent Deadline: March 1, 2001.

Application Deadline: April 2, 2001.

Projected Award Date: July 1, 2001.

Program Contact Person: Cindy Doyle.

Phone Number: 301 443-3888.

E-Mail: Cdoyle@hrsa.gov

Clinical Practice Guidelines for Emergency Care of Children 93.127i

Legislative Authority: Public Health Service Act, Title XIX, Section 1910, 42 U.S.C. 300W-9.

Purpose: To develop a set of clinical practice guidelines applicable to all medical personnel who are responsible for treating children's emergency conditions (e.g., pediatricians, family practitioners, nurse practitioners, emergency department physicians, physician associates). The purpose of these guidelines will be to improve care for common problems that children present in emergency departments and doctors' offices. These guidelines will be based on an assessment of published research and will permit accumulating valid summary statistics.

Eligibility: States and accredited schools of medicine are eligible applicants.

Funding Priorities and/or Preferences: None.

Review Criteria: Final criteria are included in the application kit.

Estimated Amount of This Competition: $500,000.

Estimated Number of Awards: 1.

Estimated Project Period: 3 years.

CFDA Number: 93.127i.

Application Availability Date: April 2, 2001.

Letter of Intent Deadline: May 1, 2001.

Application Deadline: June 1, 2001.

Projected Award Date: September 1, 2001.

Program Contact Person: Cindy Doyle.

Phone Number: 301 443-3888.

E-Mail: cdoyle@hrsa.gov

A Color-Coded System for Equipment and Medication for Pediatric Resuscitation 93.127H

Legislative Authority: Public Health Service Act, Title XIX, Section 1910, 42 U.S.C. 300W-9.

Purpose: To demonstrate the effectiveness of a color-coded system, which allows access to accurate precalculated medication doses and equipment sizes, and emergency treatments for critically ill and injured children. The effectiveness of implementing a color-coding system in the clinical setting will be appropriately evaluated using scientifically based data collection and analysis techniques.

Eligibility: Accredited Schools of Medicine and States.

Funding Priorities or Preferences: None.

Review Criteria: Final criteria are included in the application kit.

Estimated Amount of This Competition: $250,000.

Estimated Number of Awards: 1.

Estimated Project Period: 3 years.

CFDA Number: 93.127H.

Application Availability Date: January 2, 2001.

Letter of Intent Deadline: February 1, 2001.

Application Deadline: March 1, 2001.

Projected Award Date: June 1, 2001.

Program Contact Person: Cindy Doyle.

Phone Number: 301-443-3888.

E-Mail: Cdoyle@hrsa.gov

Traumatic Brain Injury (TBI)—State Implementation Grants 93.234A

Legislative Authority: Public Health Service Act, Title XII, Section 1242, 42 U.S.C. 300d-42.

Purpose: The purpose of this grant program is to improve health and other services for people who have sustained a traumatic brain injury (TBI). Implementation grants provide funding to assist States in moving toward statewide systems that assure access to comprehensive and coordinated TBI services.

Eligibility: State governments.

Funding Priorities or Preferences: None.

Matching Requirement: The State is required to contribute, in cash, not less than $1 for each $2 of Federal funds provided under the grant.

Review Criteria: Final criteria are included in the application kit.

Estimated Amount of This Competition: $1,000,000.

Estimated Number of Awards: 5.

Estimated or Average Size of Each Award: See the application guidance materials.

Estimated Project Period: 3 years.

CFDA Number: 93.234A.

Application Availability Date: September 1, 2000.

Letter of Intent Deadline: November 1, 2000.

Application Deadline: December 1, 2000.

Projected Award Date: April 1, 2001.

Program Contact Person: Betty Hastings, MSW.

Phone Number: 301 443-5599.

E-Mail: bhastings@hrsa.gov

Traumatic Brain Injury (TBI)—State Planning Grants 93.234B

Legislative Authority: Public Health Service Act, Title XII, Section 1242, 42 U.S.C. 300d-42.

Purpose: The purpose of this grant program is to improve health and other services for people who have sustained a traumatic brain injury (TBI). Implementation grants provide funding to assist States in moving toward statewide systems that assure access to comprehensive and coordinated TBI services.

Eligibility: State governments.

Funding Priorities or Preferences: None.

Matching Requirement: The State is required to contribute, in cash, not less than $1 for each $2 of Federal funds provided under the grant.

Review Criteria: Final criteria are included in the application kit.

Estimated Amount of this Competition: $375,000.

Estimated Number of Awards: 5.

Estimated or Average Size of Each Award: See the application guidance materials.

Estimated Project Period: 2 years.

CFDA Number: 93.234B.

Application Availability Date: September 1, 2000.

Letter of Intent Deadline: November 1, 2000.

Application Deadline: December 1, 2000.

Projected Award Date: April 1, 2001.

Program Contact Person: Betty Hastings, MSW.

Phone Number: 301 443-5599.

E-Mail: bhastings@hrsa.gov

State Mortality Review Support Program 93.926C

Legislative Authority: Section 301, Public Health Service Act, 42 U.S.C. 241.

Purpose: The purpose of this program is to enable State Maternal and Child Health programs to stimulate, promote, coordinate, and sustain mortality and morbidity review programs at state and local levels. The findings and recommendations from these review programs are used to build MCH capacity by enhancing needs assessment, policy development, and quality improvement efforts. The intent of this program is two-fold: (1) use local findings at State MCH level for capacity building, and (2) improve coordination between two or more types of review processes that co-exist in the State. In particular, these programs will assist states in improving the health of mothers and children through MCH programming and infrastructure building. Fetal and Infant Mortality Review (FIMR), maternal mortality review, and child fatality review are priorities for the focus of this program.

Eligibility: Any public or private entity, including an Indian tribe or tribal organization (as defined at 25 U.S.C. 450b) is eligible to apply. There may be only one application per state (details will be given in the application guidance).

Funding Priorities and/or Preferences: State/Territorial MCH Title V agencies, tribal health agencies or their designees, or state/territorial programs that have not previously been awarded a state Mortality/Morbidity Review Support Program grant and where at least two or more review processes co-exist and multiple review committees exist for a given process within the State.

Review Criteria: Final criteria are included in the application kit.

Estimated Amount of This Competition: Up to $600,000.

Estimated Number of Awards To Be Made: 4.

Estimated or Average Size of Each Award: See the application guidance materials.

Estimated Project Period: 3 years.

CFDA Number: 93.926C.

Application Availability Date: November 20, 2000.

Letter of Intent Deadline: December 18, 2000.

Application Deadline: January 29, 2001.

Projected Award Date: June 1, 2001.

Program Contact Person: Brenda Lisi.

Phone Number: 301 443-9991.

E-Mail: Blisi@hrsa.gov

The Perinatal Systems and Women's Health National Resource Center 93.926D

Legislative Authority: Section 301 of the Public Health Service Act, 42 U.S.C. 241.

Purpose: The Division of Perinatal Systems and Women's Health provides national leadership in coordinating and disseminating resources developed through innovative national programs that focus on perinatal and women's health. These resources contribute to reduction in disparities in perinatal health and improvement of the quality and comprehensiveness of systems of perinatal and women's health care. The National Resource Center will serve communities and community-based organizations; professional, academic, and provider organizations; and the general public. The resource center will focus on the following functions: library and resource development, dissemination, communication and continuing education.

Eligibility: Any public or private entity, including an Indian tribe or tribal organization (as defined at 25 U.S.C. 450b) is eligible to apply.

Funding Priorities and/or Preferences: N/A.

Review Criteria: Final criteria are included in the application kit.

Estimated Amount of This Competition: Up to $800,000.

Estimated Number of Awards To Be Made: 1.

Estimated Project Period: 2 years.

CFDA Number: 93.926D.

Application Availability Date: December 21, 2000.

Letter of Intent Deadline: January 29, 2001.

Application Deadline: February 23, 2001.

Projected Award Date: July 1, 2001.

Program Contact Person: Beverly Wright.

Phone Number: 301-443-8427.

E-Mail: bwright@hrsa.gov

Healthy Start Initiative—Eliminating Disparities in Perinatal Health 93.926E

Legislative Authority: Section 301, Public Health Service Act, 42 U.S.C. 241.

Purpose: The purpose of this program is to address significant disparities in perinatal health indicators including disparities among Hispanics, American Indians, African Americans, Alaska Natives, Asian/Pacific Islanders, immigrant populations, or differences occurring by education, income, disability, or living in rural/isolated areas by enhancing a community's service system. To address these indicators, it is anticipated that the proposed scope of project services will cover preconceptional, pregnancy, and interconceptional phases for women and infants residing in the proposed project area. To promote longer interconceptional periods and prevent relapses of unhealthy risk behaviors, services are to be given to both mother and infant through the infant's second year of life. Funding would be made available to community-based projects which have: (1) significant disparities in perinatal indicators which contribute to high infant mortality rates, among one or more subpopulations; (2) an existing active consortia of stakeholders which have underway a perinatal disparity reduction initiative for at least one year; and, (3) a feasible plan to reduce barriers, improve the local perinatal system of care, and work towards eliminating existing disparities in perinatal health. These sites must have or plan to implement/adapt Healthy Start strategies of consortium, case management, and outreach services in a culturally and linguistically sensitive manner. In addition, they must demonstrate existing/planned collaborations with key State and local services and resource systems. Such key State and local resources include Title V, Title X, Title XIX, Title XXI, WIC, Enterprise Communities/ Empowerment Zones, federally funded Community and Migrant Health Centers, federally funded Health Care for the Homeless projects, and Indian/Tribal Health Services.

Eligibility: Any public or private entity, including an Indian tribe or tribal organization (as defined at 25 U.S.C. 450b) is eligible to apply.

Funding Preferences/Priorities: Communities in States and Territories which will not have a federally-funded Healthy Start project after July 1, 2001 (details will be given in the application guidance).

Special Considerations: National geographic distribution as well as urban/rural.

Review Criteria: Final criteria are included in the application kit.

Estimated Amount of this Competition: Up to $59,840,000.

Estimated Number of Awards To Be Made: Up to 59.

Estimated or Average Size of Each Award: See the application guidance materials.

Estimated Project Period: 4 years.

CFDA Number: 93.926E.

Application Availability Date: December 1, 2000.

Letter of Intent Deadline: January 5, 2001.

Application Deadline: February 6, 2001.

Projected Award Date: June 1, 2001.

Program Contact Person: Maribeth Badura.

Phone Number: 301-443-8283.

E-Mail: mbadura@hrsa.gov

Interconception Care for High-Risk Women and Their Infants 93.926K

Legislative Authority: Section 301, Public Health Service Act.

Purpose: The purpose of this program is to improve the health of high-risk women and their infants and to avoid future adverse pregnancy outcomes. This initiative will support communities to enroll high-risk women at the time of delivery in the hospital and follow these high-risk women and their infants for two years or through the next pregnancy, ensuring they are enrolled in the health care system for appropriate care and follow-up. Proposals must target postpartum women who delivered a live infant or who sustained a fetal loss without receipt of prenatal care. Funded programs must demonstrate a significant need in their population and may be statewide or focused on a smaller geographic area. Required project activities include early identification of these high-risk women and increasing the sustained participation of these women and infants in existing health and related services beyond the postpartum period. All proposed activities must be provided in a culturally and linguistically sensitive manner.

Eligibility: Any public or private entity, including an Indian tribe or tribal organization (as defined at 25 U.S.C. 450b) is eligible to apply.

Funding Priorities and/or Preferences: None.

Special Considerations: National geographic distribution.

Review Criteria: Final criteria are included in the application kit.

Estimated Amount of This Competition: Up to $7,000,000.

Estimated Number of Awards To Be Made: Up to 25.

Estimated or Average Size of Each Award: See the application guidance materials.

Estimated Project Period: 4 years.

CFDA Number: 93.926K.

Application Availability Date: December 8, 2000.

Letter of Intent Deadline: January 12, 2001.

Application Deadline: February 16, 2001.

Projected Award Date: July 1, 2001.

Program Contact Person: Brenda Lisi.

Phone Number: 301-443-9991.

E-Mail: blisi@hrsa.gov

Improving Women's Health Through Screening and Intervention for Depression During or Around the Time of Pregnancy 93.926L

Legislative Authority: Section 301, Public Health Service Act.

Purpose: The purpose of this program is to promote systems of care that address gaps in routine screening and skilled assessment for depression during or around the time of pregnancy and to enhance linkages to community-based intervention services for depression that are age and culturally specific for women of reproductive age. Proposals must target pregnant and postpartum women but may also target women contemplating pregnancy (e.g., pre-conceptional). Funded programs may be statewide or target a geographic area within a particular state. Activities considered for funding include but are not limited to statewide or community needs assessment, system planning and program implementation based on needs assessment findings and other data (e.g. evidence-based), outreach, provider training, consumer education, program evaluation and an infrastructure building network of community prenatal and family planning providers and mental health service providers that will lead to early identification and increased capacity to effectively screen, perform skilled assessment and successfully engage pregnant, postpartum and pre-conceptional women who are experiencing depression and other disorders in appropriate mental health services. The result of these activities will be improved health outcomes for women and their families.

Eligibility: Any public or private entity, including an Indian tribe or tribal organization (as defined at 25 U.S.C. 450b) is eligible to apply.

Funding Priorities and/or Preferences: State/Territorial Title V agencies, tribal health agencies or their designees (details will be given in the application guidance). Only one application will be accepted per State/Territory.

Review Criteria: Final criteria are included in the application kit.

Estimated Amount of This Competition: Up to $2,000,000.

Estimated Number of Awards To Be Made: Up to 10.

Estimated or Average Size of Each Award: See the application guidance materials.

Estimated Project Period: 4 years.

CFDA Number: 93.926L.

Application Availability Date: October 18, 2000.

Letter of Intent Deadline: November 17, 2000.

Application Deadline: December 21, 2000.

Projected Award Date: April 1, 2001.

Program Contact Person: Karen Hench.

Phone Number: 301-443-9708.

E-Mail: khench@hrsa.gov

Healthy Start Initiative—State Infrastructure Initiatives 93.926M

Legislative Authority: Section 301, Public Health Service Act.

Purpose: This grant is intended to facilitate State infrastructure/capacity development to address and support local communities funded under federal Healthy Start, disparities in perinatal health, including disparities among Hispanics, American Indians, African Americans, Alaska Natives, Asian/Pacific Islanders, immigrant populations, or differences occurring by education, income, disability or living in rural/isolated areas. Activities may include: technical assistance to communities in particular those communities with Healthy Start programs; integration of existing State service systems to support comprehensive perinatal and women's health systems in communities; consortium/council development; dissemination of best practices developed nationally and within the state; professional and paraprofessional development; increased data capacity; and enhanced capacity for community-based planning.

Eligibility: Any public or private entity, including an Indian Tribe or Tribal Organization (as defined at 25 U.S.C. 450b) is eligible to apply.

Funding Priorities or Preferences: State/Territorial MCH Title V agencies, tribal health agencies or their designees (details will be given in the application guidance).

Review Criteria: Final criteria are included in the application kit.

Estimated Amount of This Competition: $7,500,000.

Estimated Number of Awards To Be Made: 59.

Estimated or Average Size of Each Award: See the application guidance materials.

Estimated Project Period: 4 years.

CFDA Number: 93.926M.

Application Availability Date: October 6, 2000.

Letter of Intent Deadline: November 9, 2000.

Application Deadline: December 8, 2000.

Projected Award Date: May 1, 2001.

Program Contact Person: Angela Hayes-Toliver.

Phone Number: (301) 443-5136.

E-Mail Address: ahayes@hrsa.gov

Healthy Start Initiative (HSI)—Eliminating Disparities in Perinatal Health—Border Health 93.926N

Legislative Authority: Section 301, Public Health Service Act.

Purpose: To enhance a border community's perinatal service system to address significant disparities and deficiencies in perinatal health which contribute to infant mortality. To address these indicators, it is anticipated that the proposed scope of project services will cover preconceptional, pregnancy, and interconceptional phases for women and infants residing in the proposed project area. Services are to be given to both mother and infant through the infant's second year of life to promote longer interconceptional periods and lower recidivism/prevent relapses of unhealthy risk behaviors. The selected communities must be within 62 miles of the US-Mexican border, have high incidence of poor perinatal indicators, have an active consortia of stakeholders and consumers, and plan to implement or adapt Healthy Start methods of intervention in a culturally and linguistically sensitive manner.

Eligibility: Any public or private entity, including an Indian tribe or tribal organization (as defined at 25 U.S.C. 450b) that directly serves the target population in the communities within 62 miles of the US-Mexican border and who meet the established HSI Border Health criteria is eligible to apply.

Funding Priorities or Preferences: Communities meeting the established HSI Border Health criteria in States which will not have a federally-funded Healthy Start border project after July 1, 2001 (details will be given in the application guidance).

Review Criteria: Final criteria are included in the application kit.

Estimated Amount of This Competition: Up to $1,000,000.

Estimated Number of Awards to be Made: Up to 2 projects.

Estimated Project Period: 4 years.

CFDA Number: 93.926N.

Application Availability Date: December 1, 2000.

Letter of Intent Deadline: January 5, 2001.

Application Deadline: February 6, 2001.

Projected Award Date: June 1, 2001.

Program Contact Person: Donna Hutten.

Phone Number: 301-443-8427.

E-Mail Address: dhutten@hrsa.gov

Office of the Administrator

Community Access Program 93.252

Legislative Authority: PHS Act, Section 301 [A legislative proposal for program-specific authority has been submitted to Congress by the Administration. If program authority is not enacted this year, the program would continue to operate under the demonstration authority in Section 301.]

Purpose: To assist communities and consortia of health care providers to develop the infrastructure necessary to fully develop or strengthen integrated health systems of care that coordinate health services for the uninsured.

Eligibility: Applications may be submitted by public or non-profit entities who demonstrate a commitment to and experience with providing a continuum of care to uninsured individuals. Each applicant must represent a community-wide coalition that includes local health care providers who have traditionally provided care to the community's uninsured and underinsured regardless of ability to pay. The consortium may include private sector health care providers and organizations.

Funding Priorities and/or Preference: None.

Estimated Amount of This Competition: $100 million.

Estimated Number of Awards To Be Made: 100 new awards.

Estimated Project Period: 1 year.

CFDA Number: 93.252.

Application Availability Date: December 1, 2000 (Approximate).

Letter of Intent Deadline: January 15, 2001 (Approximate).

Application Deadline: June 1 (Approximate).

Projected Award Date: September 1 (Approximate).

Program Contact Person: Julia Tillman.

Phone Number: 301-443-0536.

E-Mail Address: jtillman@hrsa.gov

Association of State and Territorial Health Officials (ASTHO) 93.000

Legislative Authority: Section 301 of the Public Health Service Act [42 U.S.C. 241], as amended.

Purpose: The purpose of this project is to address the health care needs of the underserved and vulnerable populations, the needs of health care providers who serve vulnerable populations, and related public health issues. The cooperative agreement will support HRSA's mission by assisting the Association of State and Territorial Health Officials (ASTHO) in developing and convening State and territorial policy forums and provide educational and resource materials emanating from these forums for State and territorial policymakers on the above areas.

Eligibility: Assistance will be provided only to the ASTHO. No other applications are solicited. There is no ongoing group that can convene the high-ranking decision-makers representing State and Territorial health officials' interests around an issue of importance to HRSA. This group will facilitate communication on current and emerging strategies addressing common priorities, and will enable HRSA to better leverage limited resources by improving planning and program design to complement other public and private sector initiatives serving the needs of the same populations.

Funding Priorities or Preferences: None.

Estimated Amount of This Competition: $100,000.

Estimated Number of Awards To Be Made: 1.

Estimated Project Period: In anticipation of Fiscal Year (FY) 2001 funding, HRSA announces its intention to award a cooperative agreement which will begin on or after October 1, 2000, and will be for a 12-month budget period with a project period of 5 years. Funding estimates may vary and are subject to change.

CFDA Number: 93.000.

Application Availability Date: (To be determined).

Application Deadline: (To be determined).

Projected Award Date: On or after October 1, 2000.

Program Contact Person: Diane Rodill, Ph.D.

Phone Number: 301 443-4034.

E-Mail: drodill@hrsa.gov

National Association of County and City Health Officials (NACCHO) 93.000

Legislative Authority: Section 301 of the Public Health Service Act (2 U.S.C. 241), as amended.

Purpose: The purpose of this project is to address the health care needs of the underserved and vulnerable populations, the needs of health care providers who serve vulnerable populations, and related public health issues; and support HRSA's mission by assisting NACCHO in developing and convening county and city policy forums and provide educational and resource materials emanating from these forums for county and city policymakers on the above areas.

Eligibility: Assistance will be provided only to the National Association of County and City Health Officials. No other applications are solicited. There is no other ongoing group that can convene the high-ranking decision-makers representing county and city health officials' interests around an issue of importance to HRSA. This group will facilitate communication on current and emerging strategies addressing common priorities, and will enable HRSA to better leverage limited resources by improving planning and program design to complement other public and private sector initiatives serving the needs of the same populations.

Funding Priorities and/or Preferences: N/A.

Estimated Amount of This Competition: $100,000.

Estimated Number of Awards to Be Made: 1.

Estimated Project Period: In anticipation of Fiscal Year (FY) 2001 funding, HRSA announces its intention to award a cooperative agreement which will begin on or after October 1, 2000, and will be for a 12-month budget period with a project period of 5 years. Funding estimates may vary and are subject to change.

CFDA Number: 93.000.

Application Availability Date: (To be determined).

Letter of Intent Deadline: N/A.

Application Deadline: May 30, 2000.

Projected Award Date: On or after October 1, 2000.

Program Contact Person: Diane Rodill, Ph.D.

Phone Number: 301 443-4034.

E-Mail: drodill@hrsa.gov

National Conference of State Legislatures (NCSL) 93.000

Legislative Authority: Section 301 of the Public Health Service Act [42 U.S.C. 241], as amended.

Purpose: The purpose of this project is to address the health care needs of the underserved and vulnerable populations, the needs of health care providers who serve vulnerable populations, and related public health issues. The cooperative agreement with NCSL will support HRSA's mission in developing and convening State Legislative policy forums and provide educational and resource materials emanating from these forums for State Legislature policymakers on the above areas.

Eligibility: Assistance will be provided only to the National Conference of State Legislatures. No other applications are solicited. There is no ongoing group that can convene the high-ranking decision-makers representing State Legislatures' interests around an issue of importance to HRSA. This group will facilitate communication on current and emerging strategies addressing common priorities, and will enable HRSA to better leverage limited resources by improving planning and program design to complement other public and private sector initiatives serving the needs of the same populations.

Funding Priorities and/or Preference: NA.

Estimated Amount of This Competition: $100,000.

Estimated Number of Awards to Be Made: 1.

Estimated Project Period: In anticipation of Fiscal Year (FY) 2001 funding, HRSA announces its intention to award a cooperative agreement which will begin on or after October 1, 2000, and will be for a 12-month budget period with a project period of 5 years. Funding estimates may vary and are subject to change.

CFDA Number: 93.000.

Application Availability Date: (To be determined).

Letter of Intent Deadline: N/A.

Application Deadline: (To be determined).

Projected Award Date: On or after October 1, 2000.

Program Contact Person: Diane Rodill, Ph.D.

Phone Number: 301 443-4034.

E-Mail: drodill@hrsa.gov

Public Health Foundation (PHF) 93.000

Legislative Authority: Section 301 of the Public Health Service Act [42 U.S.C. 241], as amended.

Purpose: The purpose of this project is to support HRSA's mission by assisting the Public Health Foundation (PHF) in clearinghouse and infrastructure activities, including but not limited to: Expanding and maintaining a workforce development clearinghouse for use by health agencies and other community health system organizations on issues that relate to health care access for underserved and vulnerable populations, to include the prevention, early detection, and control of disease, and strengthening the public health infrastructure in the health agencies and other community health system organizations; developing, printing, and distributing articles, reports, tools, or other documents relating to health care access, unmet population needs, provider capacity, the uses of existing data systems to address health care needs, other infrastructure issues, and private sector population-based initiatives.

Eligibility: Assistance will be provided only to the PHF. No other applications are solicited. PHF is the only national, non-profit, and non-membership organization that serves as a public health “think tank” around public health infrastructure issues, and is also dedicated to supporting and advancing efforts of local, state, and Federal public health agencies and health systems to promote and protect the health of people within their respective jurisdictions.

Funding Priorities and/or Preference: NA.

Estimated Amount of This Competition: $50,000.

Estimated Number of Awards to Be Made: 1.

Estimated Project Period: In anticipation of Fiscal Year (FY) 2001 funding, HRSA announces its intention to award a cooperative agreement which will begin on or after October 1, 2000, and will be for a 12-month budget period with a project period of 5 years. Funding estimates may vary and are subject to change.

CFDA Number: 93.000.

Application Availability Date: (To be determined).

Letter of Intent Deadline: N/A.

Application Deadline: (To be determined).

Projected Award Date: On or after October 1, 2000.

Program Contact Person: Diane Rodill, Ph.D.

Phone Number: 301 443-4034.

E-Mail: drodill@hrsa.gov

Pacific Islands Health Officers Association 93.000

Legislative Authority: Sections 301, 330(A), 330(k), 761(b), 767 of the Public Health Service Act, as amended, and Sections 509 and 711 of the Social Security Act, as amended.

Purpose: This is a grant program for the Research Corporation of the University of Hawaii Special Projects program to support the Pacific Islands Health Officers Association (PIHOA), which serves as a regional health policy body for the six Pacific Basin jurisdictions. PIHOA was established in 1986 as a formal mechanism to discuss common health interests, problems and concerns, and to promote and enhance a regional approach for cost-effective sharing of resources, information, and human expertise to advance health care improvements in the Pacific Basin. The U.S. Public Health Service (PHS) has used PIHOA to coordinate PHS agencies' programs and the provision of technical assistance to the Pacific Basin.

Matching or Cost Sharing Requirement: None.

Eligibility: Assistance will be provided only to PIHOA through the Research Corporation of the University of Hawaii Special Projects program, which serves as the Executive Directorate for PIHOA. No other applications are solicited.

PIHOA is the only Pacific Basin health policy organization that represents the six jurisdictions, which include, the U.S. flag territories of American Samoa, Guam, and the Commonwealth of the Northern Mariana Islands, and the three U.S.-associated jurisdictions of the Federated States of Micronesia, the Republic of the Marshall Islands, and the Republic of Palau. It is the only regional conduit for the governments to communicate with each other to share ideas and resources.

Funding Priorities and/or Preferences: None.

Special Considerations: None.

Estimated Amount of This Competition: $100,000.

Estimated Number of Awards To Be Made: 1.

Estimated or Average Size of Each Award: $100,000.

Estimated Project Period: 3 years.

CFDA Number: 93.000.

Application Availability Date: June 1, 2000.

Letter of Intent Deadline: N/A.

Application Deadline: June 1, 2000.

Projected Award Date: October 1, 2000.

Program Contact Person: Lynnette S. Araki.

Phone Number: 301 443-6204.

E-Mail: LAraki@hrsa.gov

Office of Rural Health Policy

State Rural Hospital Flexibility Program 93.241

Legislative Authority: Section 1820 of the Social Security Act (42 U.S.C. 1395I-4) as amended in Public Law 105-33 sec. 4201.

Purpose: The purpose of this grant program is to help states work with rural communities and hospitals to develop and implement a rural health plan, develop integrated networks of care, improve emergency medical services, designate critical access hospitals and improve quality.

Matching or Cost Sharing Requirement: None.

Eligibility: 50 States.

Funding Priorities and/or Preferences: Most programs have none—enter only approved priorities or preferences that will be applied beyond the review criteria.

Special Considerations: These are grants to States and only one application will be accepted from each eligible state.

Estimated Amount of This Competition: $1,500,000.

Estimated Number of Awards To Be Made: 3.

Estimated or Average Size of Each Award: $470,000.

Estimated Project Period: 2 Years.

CFDA Number: 93.241.

Application Availability Date: February 1, 2001.

Letter of Intent Deadline: N/A.

Application Deadline: May 25, 2001.

Projected Award Date: August 31, 2001.

Program Contact Person: Forrest Calico.

Phone Number: 301 443-0835.

E-Mail: fcalico@hrsa.gov

Rural Health Network Development 93.912B

Legislative Authority: Section 330a of the Public Health Service Act, 42 U.S.C. 254c.

Purpose: The purpose of this program is to support the planning and development of integrated health care networks in rural areas. Networks must be composed of three different types of providers. The emphasis of the program is on projects to develop the organizational capabilities of these networks. The network is a tool for overcoming the fragmentation of health care delivery services in rural areas. As such, the network provides a range of possibilities for structuring local delivery systems to meet health care needs of rural communities.

Matching or Cost Sharing Requirement: None.

Eligibility: Rural public or nonprofit private organization that is or represents a network which includes three or more health care providers or other entities that provide or support the delivery of health care services. The administrative headquarters of the organization must be located in a rural county or in a rural census tract of an urban county, or an organization constituted exclusively to provide services to migrant and seasonal farm workers in rural areas and supported under Section 330(g) of the Public Health Service Act. The last type of organization is eligible regardless of the urban or rural location of the administrative headquarters.

Funding Priorities or Preferences: Funding preference may be given to applicant networks that include: (1) a majority of the health care providers serving in the area or region to be served by the network; (2) any federally qualified health centers, rural health clinics, and local public health departments serving in the area or region; (3) outpatient mental health providers serving in the area or region; or (4) appropriate social service providers, such as agencies on aging, school systems, and providers under the women, infants, and children program (WIC), to improve access to and coordination of health care services.

Special Considerations: Applicant Organization's Central Headquarters Must Be Located in a Rural Area. (List of Eligible Rural Areas is Included in Application Packet.)

Estimated Amount of This Competition: $1,908,000.

Estimated Number of Awards To Be Made: 12.

Estimated or Average Size of Each Award: $159,000.

Estimated Project Period: 3 years.

CFDA Number: 93.912B.

Application Availability Date: July 17, 2000.

Letter of Intent Deadline: N/A.

Application Deadline: October 23, 2000.

Projected Award Date: May 01, 2001.

Program Contact Person: Lilly Smetana.

Phone Number: 301 443-0835.

E-Mail: lsmetana@hrsa.gov

Rural Health Outreach Grant 93.912A

Legislative Authority: Section 330a of the Public Health Service Act, 42 U.S.C. 254c.

Purpose: The purpose of this grant program is to expand access to, improve coordination of, restrain the cost of, and improve the quality of essential health care services, including preventive and emergency services, through the development of integrated health care delivery systems or networks in rural areas and regions. Funds are available for projects to support the direct delivery of health care and related services, to expand existing services, or to enhance health service delivery through education, promotion, and prevention programs. The emphasis is on the actual delivery of specific services rather than the development of organizational capabilities. Projects may be carried out by networks of the same providers (e.g. all hospitals) or more diversified networks.

Matching or Cost Sharing Requirement: None.

Eligibility: Rural public or nonprofit private organization that is part of a network of at least three entities that provide or support the delivery of health care services and will work together to complete the proposed project. The administrative headquarters of the organization must be located in a rural county or in a rural census tract of an urban county, or an organization constituted exclusively to provide services to migrant and seasonal farm workers in rural areas and supported under Section 330(g) of the Public Health Service Act. This last type of organization is eligible regardless of the urban or rural location of the administrative headquarters.

Funding Priorities or Preferences: Funding preference may be given to applicant networks that include: (1) a majority of the health care providers serving in the area or region to be served by the network; (2) any federally qualified health centers, rural health clinics, and local public health departments serving in the area or region; (3) outpatient mental health providers serving in the area or region; or (4) appropriate social service providers, such as agencies on aging, school systems, and providers under the women, infants, and children program (WIC), to improve access to and coordination of health care services.

Special Considerations: Applicant Organization's Central Headquarters Must Be Located in a Rural Area. (List of Eligible Rural Areas is Included in Application Packet.).

Estimated Amount of This Competition: $5,642,000.

Estimated Number of Awards To Be Made: 31.

Estimated or Average Size of Each Award: $182,000.

Estimated Project Period: 3 years.

CFDA Number: 93.912A.

Application Availability Date: July 17, 2000.

Letter of Intent Deadline: N/A.

Application Deadline: 10/16/00.

Projected Award Date: 05/01/01.

Program Contact Person: Lilly Smetana.

Phone Number: 301 443-0835.

E-Mail: lsmetana@hrsa.gov.

Rural Health Roundtable 93.223

Legislative Authority: Section 301 of the Public Health Service Act.

Purpose: A single award will be made to George Mason University, Center for Health Policy, to support the Rural Health Roundtable. The purpose of this cooperative agreement is to increase awareness of rural health issues among the many associations and organizational health interest groups in the Washington, D.C. area through a series of educational forums. Funds are available to stage four educational forums a year that focus on specific rural health issues such as recruitment and retention of health care providers in rural areas, the impact of Medicare payment policy on rural health care providers and various other policy and program issues that affect the rural health care delivery system. Funds can also be used to provide background papers and supporting documents for the individual educational forums. These materials can also be disseminated through the World Wide Web and Rural Health Roundtable Listserve.

Matching or Cost Sharing Requirement: None.

Eligibility: A single award will be made to George Mason University's Center for Health Policy. The Center for Health Policy at George Mason University is the only local entity that focuses exclusively on rural health issues. The Center has a proven record of providing educational forums on rural issues. Both its administration and staff are experts in the rural health field and uniquely positioned to provide a focal point of educational programming on rural health issues to the many health associations and organizations that are located in the Washington D.C. area.

Funding Priorities or Preferences: None.

Special Considerations: N/A.

Estimated Amount of This Competition: $280,000.

Estimated Number of Awards To Be Made: 1.

Estimated or Average Size of Each Award: $280,000.

Estimated Project Period: 4 years.

CFDA Number: 93.223.

Application Availability Date: June 30, 2000.

Letter of Intent Deadline: N/A.

Application Deadline: July 31, 2000.

Projected Award Date: September 15, 2000.

Program Contact Person: Tom Morris.

Phone Number: 301 443-0835.

E-Mail: tmorris@hrsa.gov.

Office of Special Programs

Extramural Support Program for Projects To Increase Organ and Tissue Donations 93.134

Legislative Authority: Section 371 (a)(3) of the Public Health Service (PHS) Act, 42 U.S.C. 273(a)(3), as amended.

Purpose: Funds for this program will provide financial assistance to Federally designated OPOs and other private non-profit entities to increase organ and tissue donation. The program's goal is to assist eligible entities in the evaluation, or implementation and evaluation, of promising strategies that can serve as model interventions for increasing donation. Development of interventions also may be supported but shall not exceed 20 percent of project funding and staff time. For purposes of this program, models are defined as interventions which are: (1) effective in producing a verifiable and demonstrable impact on donation; (2) replicable; (3) transferable; and (4) feasible in practice. All projects must have rigorous methodology and evaluation components capable of ascertaining the effectiveness of the intervention(s). Projects can employ qualitative and/or quantitative research. Applications may describe single-site pilot projects or replications of interventions shown to be effective in pilot studies.

Eligibility: Federally designated organ procurement organizations (OPOs), private non-profit organizations.

Funding Priorities and/or Preferences: None.

Estimated Amount of this Competition: $5,000,000.00.

Estimated Number of Awards To Be Made: 20-25.

Estimated or Average Size of Each Award: See the application guidance materials.

Estimated Project Period: 1-3 years.

CFDA Number: 93.134.

Application Availability Date: March 15, 2001.

Letter of Intent Deadline: April 2, 2001.

Application deadline: May 1, 2001.

Projected Award Date: August 31, 2001.

Program Contact Person: Dr. Mary Ganikos.

Phone Number: 301 443-7577.

E-mail: mganikos@hrsa.gov.

Other Programs

Outpatient Hansen's Disease Medical Services 93.215

Legislative Authority: Public Health Service Act, Title III, Section 320.

Purpose: The Outpatient Hansen's Disease Medical Services program is designed to prevent disability through early diagnosis and treatment of Hansen's Disease. The program supports research into Hansen's Disease and outpatient health care services. Service delivery locations are in areas of the United States and Puerto Rico where there are concentrations of persons with Hansen's Disease to assure access by persons needing services. It is the intent of HRSA to continue to support health services in priority areas. Currently and historically, services have been offered in Arizona, California, Florida, Illinois, Massachusetts, New York, Puerto Rico, Texas and the State of Washington.

Matching or Cost Sharing Requirement: N/A.

Eligibility: Public or private nonprofit entities which currently are not receiving funding directly from Congress for Hansen's Disease services are eligible to apply.

Funding Priorities or Preferences: Applicants who utilize facility and community resources for the indigent and uninsured patients with Hansen's Disease in their area will be given preference.

Special Considerations: Communication with the Ambulatory Care Program at the National Hansen's Disease Program is essential in deciding whether to pursue funding as a grantee under this program. Information about specific geographic areas can be obtained from this office.

Estimated Amount of This Competition: Up to $2 million.

Estimated Number of Awards to Be Made: Approximately 10-12.

Estimated or Average Size of Each Award: Applicants with 100 or more patients will be eligible for grants ranging from $100,000 to $400,000. Applicants with 50 to 100 patients will be eligible for grants from $25,000 to $100,000.

Estimated Project Period: 1-5 Years.

CFDA Number: 93.215.

Application Availability Date: 6/15/2000.

Letter of Intent Deadline: N/A.

Application Deadline: 9/1/2000.

Projected Award Date: 1/1/01.

Program Contact Person: Irma E. Guerra.

Phone Number: 1-800-642-2477.

Lawton Chiles Foundation 93.000

Legislative Authority: Publ. L. 106-113.

Purpose: A single award will be made to the Lawton Chiles Foundation in Tallahassee, Florida to stimulate and facilitate communities' capacity to develop comprehensive care for children and families. In 1999, the Health Resources and Services Administration was directed by the U.S. Congress in Public Law 106-113 to make funds available to the Foundation.

Matching or Cost Sharing Requirement: None.

Eligibility: A single award will be made to the Lawton Chiles Foundation of Tallahassee, Florida in accordance with the provisions of Public Law 106-113.

Funding Priorities or Preferences: None.

Special Considerations: N/A.

Estimated Amount of This Competition: $1,840,000.

Estimated Number of Awards To Be Made: 1.

Estimated Project Period: 28 Months.

CFDA Number: 93.000.

Application Availability Date: N/A.

Letter of Intent Deadline: N/A.

Application Deadline: N/A.

Projected Award Date: July 2000.

Program Contact Person: Marylin Stone.

Phone Number: 301 443-1433.

E-Mail: mstone@hrsa.gov.

Special Projects for Schools of Public Health (Cooperative Agreement With The Association of Schools of Public Health) 93.XXX

In Fiscal Year 2001, schools of public health may submit letters of intent to apply for HRSA funding to support special projects to address: health disparities in the U.S. population; assuring access to quality health care; and educating the next generation of public health leaders. A current cooperative agreement between HRSA's Bureau of Health Professions and the Association of Schools of Public Health (ASPH) will assist in matching HRSA interests and the expertise at schools of public health. There is no guarantee that funding will become available to support any projects, and whether projects are funded is at HRSA's discretion. The ASPH will provide additional information to the schools of public health about HRSA and its priorities, and ASPH will receive all letters of intent relative to this initiative. For further information, contact Barry S. Stern at (301) 443-6758 or bstern@hrsa.gov.

HRSA has Exhibits at the Following Meetings/Conferences in 2000

American Academy of Physician Assistants' (AAPA), 28th Annual Physician Assistants Conference, May 27-June 1, Chicago, IL, HRSA POC: Jan Aamodt (301) 443-0205

Association of Women's Health, Obstetric & Neonatal Nurses, June 4-7, Seattle, WA, HRSA POC: Jan Aamodt (301) 443-0205

17th Annual Meeting of the Association for Health Services Research (AHSR), June 25-27, Westin Bonaventure Hotel, Los Angeles, CA, HRSA POC: Steve Merrill (301) 443-3376

2000 National Council of La Raza (NCLR) Conference, July 1-5, San Diego Convention Center, San Diego, CA, HRSA POC: Iveliesse de Ororbia (301) 443-3228

National Conference of State Legislatures (NCSL) 26th Annual Meeting, July 16-20, Navy Pier, Chicago, IL, HRSA POC: Steve Merrill (301) 443-3376

Combined National Association of County and City Health Officials (NACCHO) and Association of State and Territorial Health Officials (ASTHO) Annual Meeting, July 19-22, Regal Biltmore Hotel, Los Angeles, CA, HRSA POC: Steve Merrill (301) 443-3376

8th Annual National Association of Local Boards of Health (NALBOH) Conference, July 26-29, Sheraton Capitol Center, Raleigh/Durham, NC, HRSA POC: Steve Merrill (301) 443-3376

Annual Distance Learning Conference, August 6-10, New Orleans, LA, HRSA POC: Steve Merrill (301) 443-3376

National Latina Institute for Reproductive Health National Conference, September 28-October 2, Washington, DC, HRSA POC: Iveliesse de Ororbia (301) 443-3228

American Academy of Pediatrics (AAP) Annual Meeting, October 28-November 1, Chicago Hilton & Towers/Lakeside Center, Chicago, IL, HRSA POC: Jan Aamodt (301) 443-0205

Hispanic National Association of Colleges and Universities National Conference, November 4-7, Albuquerque, NM, HRSA POC: Iveliesse de Ororbia (301) 443-3228

Association of Military Surgeons of the United States (AMSUS) 107th Annual Meeting, November 5-10, Las Vegas Convention Center, Las Vegas, NV, HRSA POC: Steve Merrill (301) 443-3376

128th Annual American Public Health Association (APHA) Meeting, November 12-16, Hynes Convention Center, Boston, MA, HRSA POC: Steve Merrill (301) 443-3376

National Health Service Corps Exhibit Schedule

National Rural Health Association, May 25-27, New Orleans, LA, NHSC POC: Gretchen Jones (301) 594-4158

American Academy of Physician Assistants, May 27-June 1, Chicago, IL, NHSC POC: Gretchen Jones (301) 594-4158

National Conference of State Legislatures (NCSL) 26th Annual Meeting, July 16-20, HRSA Booth #1430, Navy Pier, Chicago, IL, NHSC POC: Gretchen Jones (301) 594-4158

Bureau of Primary Health Care Annual Primary Care Symposium, July 18-20, Hyatt Bethesda Hotel, Bethesda, MD, NHSC POC: Gretchen Jones (301) 594-4158

Combined National Association of County and City Health Officials (NACCHO) and Association of State and Territorial Health Officials (ASTHO) Annual Meeting, July 19-22, HRSA Booth #308, Regal Biltmore Hotel, Los Angeles, CA, NHSC POC: Gretchen Jones (301) 594-4158

AAFP National Congress of Family Practice Residents, August 2-6, Kansas City, MO, NHSC POC: Gretchen Jones (301) 594-4158

HRSA Supports Healthy People 2010

The Health Resources and Services Administration is committed to achieving the health promotion and disease prevention objectives of Healthy People 2010, a national program to reduce morbidity and mortality and improve the quality of life of the American people. The programs included in this document are supportive of many of the Healthy People 2010 areas of emphasis. Grantees and potential grantees are encouraged to be supportive of these areas as well.

Focus areas in which HRSA has a primary interest include:

Access to Quality Health Services (#1)

Educational and Community-Based Programs (#7)

HIV and AIDS (#13)

Maternal, Infant, and Child Health (#16)

Oral Health (#21)

Public Health Infrastructure (#23)

Volumes I and II of Healthy People 2010: Conference Edition (B0074) are for sale at $22 per set by the ODPHP Communication Support Center, P.O. Box 37366, Washington, D.C. 20013-7366. Each of the 28 chapters of Healthy People 2010 is priced at $2 per copy. Telephone orders can be placed to the Center at (301) 468-5690. The center also sells the complete Conference Edition in CD-ROM format (B0071) for $5.

This publication is available as well on the Internet at www.health.gov/healthypeople. Web site viewers should proceed to “Publications”.

Access and Cost Containment Relative to Pharmaceuticals

Within available resources, HRSA is willing to provide technical assistance to “safety net” providers regarding pharmacy affairs. HRSA's Office of Pharmacy Affairs (OPA), previously known as the Office of Drug Pricing, is responsible for administering a major program of drug discounts, the 340B Drug Pricing Program and its Prime Vendor. Many HRSA grantees, as well as some other entities, are eligible to participate in this major program. HRSA grantees that are eligible to participate in the 340B Drug Pricing Program and its Prime Vendor are subject to a notice of grant award statement regarding an assessment of potential savings from doing so. OPA is aware of other drug discount programs, and other options for stretching funds for pharmaceuticals, that various safety net providers may be eligible for, and can assist entities in accessing these resources. For further information, OPA may be contacted by telephone at 1-800-628-6297 or 301-594-4353; or by mail at Room 10-1A1, East West Towers, 4350 East-West Highway, Bethesda, MD 20814.

Opportunity to Comment—Simplification of Federal Grant Programs

On November 20, 1999, the President signed into law the Federal Financial Assistance Management Improvement Act (Public Law 106-107) whose purposes are to improve the delivery of services to the public and the effectiveness and performance of Federal grant programs. HRSA and other Federal agencies are working with OMB to: develop uniform administrative rules and common application and reporting systems; replace paper with electronic processing in administration of grant programs; and identify statutory impediments to grant program simplification.

Consultation with the recipient community is an important part of the grant program simplification effort. We welcome ideas to make it easier for State, local, and tribal governments and nonprofit organizations to apply for and report on Federal grants. Please send your comments via email to: PL106107@os.dhhs.gov and be sure to include the name of the organization you represent.

We want to know which processes in the grants life cycle need streamlining and/or improvement, and your suggestions for achieving improvements. We need to know what is most important to you in terms of grants simplification. Finally, we want you to identify the specific grant program(s) that you find to be most burdensome, with some detail about why they are burdensome, individually or collectively, because we need to focus our efforts on those programs that are in the greatest need of review and streamlining.

Your input is valued, and is part of the larger process of achieving the goals of P. L. 106-107, namely simplification of Federal grant programs for the benefit of our recipients. Please note there will not be any individual response to the input, however we intend to periodically provide summary information relating to implementation of the law, under the “What's New” link in GrantsNet (www.hhs.gov/grantsnet). Thank you for your participation.

HRSA's Field Offices

Northeast Cluster

Philadelphia Field Office—Field Director, Vincent C. Rogers (215) 861-4422

Boston Field Office—Assistant Field Director, Kenneth Brown (617) 565-1420

New York Field Office—Assistant Field Director, Ron Moss (212) 264-3032

Southeast Cluster

Atlanta Field Office—Field Director, Ketty M. Gonzalez (404) 562-7972

Midwest Cluster

Chicago Field Office—Field Director, Deborah Willis-Fillinger (312) 353-6835

Kansas City Field Office—Assistant Field Director, Hollis Hensley (816) 426-5226

West Central Cluster

Dallas Field Office—Field Director, Frank Cantu (214) 767-3872

Denver Field Office—Assistant Field Director, Jerry Wheeler (303) 844-3203

Pacific West Cluster

San Francisco Field Office—Field Director, Thomas Kring (415) 437-8090

Seattle Field Office—Assistant Field Director, Richard Rysdam (Acting) (206) 615-2491

Related World Wide Web Addresses

HRSA Preview online

http://www.hrsa.gov/grantsf.htm

HRSA Home Page

http://www.hrsa.dhhs.gov/

DHHS Home Page

http://www.os.dhhs.gov/

Grantsnet

http://www.hhs.gov/progorg/grantsnet/index.html

PHS Grants Policy Statement

http://www.nih.gov/grants/policy/gps/

Catalog of Federal Domestic Assistance (CFDA)

http://www.gsa.gov/fdac/

Code of Federal Regulations

http://www.access.gpo.gov/nara/cfr/cfr-table-search.html

OMB Circulars

http://www.whitehouse.gov/WH/EOP/omb

http://www.whitehouse.gov/omb/grants/index.html#circulars

Federal Register

http://www.access.gpo.gov/su_docs/aces/aces140.html

Healthfinder

http://www.healthfinder.gov/

Fedworld Information Network

http://www.fedworld.gov/

State Single Points of Contact (SPOC)

http://thomas.loc.gov/

[FR Doc. 00-16874 Filed 7-6-00; 8:45 am]

BILLING CODE 4160-15-U